POSTAL SERVICE

39 CFR Part 111

New Origin Entry Separation & Containerization Standards

AGENCY: Postal Service ™.

ACTION: Proposed rule.

SUMMARY: The Postal Service is proposing to revise Mailing Standards of the United States Postal Service, Domestic Mail Manual (DMM®) to change the preparation requirements for mail entered at origin, either as an entire mailing or as the residual volume for plant verified drop shipment (PVDS) mailings.

DATES: We must receive your comments on or before April 13, 2011.

ADDRESSES: Mail or deliver written comments to the Manager, Mailing Standards, U.S. Postal Service, 475 L'Enfant Plaza SW., Room 4446, Washington DC 20260-5015. You may inspect and photocopy all written comments at USPS® Headquarters Library, 475 L'Enfant Plaza SW., 11th Floor N, Washington, DC, between 9 a.m. and 4 p.m., Monday through Friday. E-mail comments concerning the proposed rule, containing the name and address of the commenter, may be sent to: MailingStandards@usps.gov, with a subject line of “New Origin Entry Standards.” Faxed comments are not accepted.

FOR FURTHER INFORMATION CONTACT: Karen McManus at 202-268-4005 or Kevin Gunther at 202-268-7208.

SUPPLEMENTARY INFORMATION: On December 20, 2006, the Postal Accountability Enhancement Act was signed into law. A provision of the law required the Postal Service to establish modern service standards, measure service performance against these standards and publish the results. In recognition of this goal, the Postal Service consulted with the Postal Regulatory Commission (PRC) and worked closely with mailer groups and other mailing industry representatives to develop standards and measurement processes. During these discussions, various strategies and suggestions were offered to help improve service provided to commercial mailings entered at origin. Modern service standards resulting from these consultations were announced 12 months after the bill was signed into law and are expected to improve efficiency and service and to coordinate the preparation and entry of mail with changes in the USPS distribution network. For more information see Federal Register final rule, Modern Service Standards for Market Dominant Products, published December 19, 2007 (72 FR 72216-72231).

In May 2009, the Postal Service began transforming its distribution network by converting Bulk Mail Centers into Network Distribution Centers. The realignment permitted the consolidation of transportation and created new work flows to facilitate movement of mail through the network. The redesign of the network necessitates some adjustments to internal USPS work methods as well as modifications to the preparation of origin-entered commercial mail to align with the new transportation flows and work processes. The proper preparation of origin-entered mailings will allow the Postal Service to eliminate unnecessary processing at the local plant and will facilitate the transportation of these mailings within its network. Working with various segments of the mailing industry, the Postal Service has developed and is proposing new preparation standards that align with the revised network and a corresponding communications program to relate these changes to the mailing industry. The following proposal is the result of these efforts.

Separation of Residual Mail Entered at Origin

This proposed rule applies to origin-entered commercial mail only, and may apply to entire mailings or to the residual portion of a plant verified PVDS mailing not being dropshipped to a destination. Existing presort requirements for mailings and the number of pieces required per presort level will remain the same. Except as defined below, all handling unit separations currently required will also remain unchanged. For the purpose of this proposal, a handling unit is defined as the mail transport equipment used to carry an aggregate of mailpieces sorted to a specific price level for a presort destination, and would include letter trays, flat trays (tubs), sacks, bundles and packages. A container is defined as the equipment used to transport handling units, and would include pallets, all purpose containers (APC) and hampers. In certain circumstances involving low volume mailings, or mail that can not be palletized, containers may also include flat trays.

Under this proposal, after all required handling units and containers have been prepared, mailers must separate the remaining mail (or residue from a PVDS mailing) as follows:

Standard Mail and Package Services:

Origin Network Distribution Center: Required for letters, flats and parcels. For bundles of flats or parcels, do not sack prior to containerizing the mail. Separate all handling units destinating in the service area of the origin Network Distribution Center (NDC) from the rest of the mailing. Use column A of Labeling List L601 (L604 for Standard Mail letters and flats) to determine the ZIP Codes in the service area of the NDC. Handling units must be placed in containers. Prepare container (pallet) placards using the column B “Label to” information in L601 (column C “Label to” information in L604 for Standard Mail letters and flats). There is no minimum load threshold for this separation.

Tier Two Network: Required for letters, flats and parcels. For bundles of flats or parcels, do not sack prior to containerizing the mail. Place any remaining handling units on a second container, or when applicable, separate as follows. Prepare container (pallet) placards using the column C “Label to” information in L604 (L603 for parcels). When the origin NDC is Chicago, Cincinnati, St. Louis or San Francisco, use Labeling List L604 (L603 for parcels) to separate the remaining mail into two directionally-based containers which will route residue mail either east or west (Chicago, Cincinnati or Saint Louis) or north or south (San Francisco) as needed from origin. Prepare container placards using the column C “Label to” information in L604 or L603. There is no minimum load threshold for this separation.

Periodicals

Local Surface Transport: Required for letters, flats and parcels. For bundles of flats or parcels, do not sack prior to palletizing the mail. Separate all handling units destinating in the surface transportation network area of the origin entry site from the rest of the mailing. Use column B of Labeling List L201 to determine the ZIP Codes in the surface transportation area of the origin site. Handling units must be placed in containers. Prepare container (pallet) placards using the column C “Label to” information in L201. There is no minimum load threshold for this separation.

Extended Surface Network: Required for letters, flats and parcels. For bundles of flats or parcels, do not sack prior to containerizing the mail. Place any remaining handling units on a second container. Use column A of Labeling List L009 to determine the location for Periodicals piece processing based on the origin entry point. Prepare container (pallet) placards using the column B “Label to” information in L009. There is no minimum load threshold for this separation.

Palletization Required When Possible

Current standards for containerization of nonpalletized mailings are determined by mailpiece shape. Letters are placed in trays, flats are bundled and placed in sacks or flat trays (tubs) or placed loose in flat trays and parcels are bedloaded or placed in sacks.

Under these proposed standards, trays, bundles or parcels that cannot be prepared on a direct pallet must be placed on the appropriate pallet for the Origin NDC, Local Surface Transport, Tier Two Network or Extended Surface Network, when the volume reaches one hundred and fifty (150) pounds or 36 linear feet of trays for each pallet. Mailers may optionally make pallets with less than 150 pounds, or 36 linear feet of trays, for these separations. Mailers choosing not to make pallets weighing less than 150 pounds, or who are unable to palletize, must prepare bundles in flat trays or approved alternate containers in accordance with applicable preparation standards.

The Postal Service does not currently provide a container price applicable to Periodicals bundles placed directly on mixed ADC pallets or equivalent containers. The Postal Service is currently considering this matter and expects to introduce a price for mixed ADC containers as a separate initiative prior to the implementation of the final standards.

These new proposed requirements will apply to all origin or destination entered mailings. For mailers who are unable to palletize flats or parcels, the Postal Service proposes to require the use of flat trays (tubs) or approved alternate containers when performing the separations described in this proposed rule or under current DMM standards. The use of flat trays (tubs) or alternate containers will afford mailers more flexibility in how mail is presented at origin or destination entry points. Alternatives to the use of flat trays may be approved by the local plant manager or designee.

Mailers of flats, or parcels presorted to a 3-digit ZIP Code or less finely, who do not palletize must use flat trays (tubs) in lieu of sacking. Flat trays must also be used for all presort levels (except 5-digit, 5-digit scheme and carrier route separations of parcels) being deposited at origin or destination entry points. Lids will not be required on origin entry 3-digit and SCF, origin NDC, tier 2 network, local surface transport and extended surface network flat trays only. These proposed preparation standards will provide for a reduction of sack handling and the expedited processing of individual pieces, and will result in increased efficiencies and improved service.

Optional Requirement—Origin SCF Separation

For the purpose of this proposed rule, separation means the creation of an additional container of residual mailpieces, after all other required separations have been made, for the origin sectional center facility (SCF) or for each of the 3-digit ZIP Codes of the origin SCF. Current standards require mailers of commercial First-Class Mail® and Periodicals letters and flats to separately prepare trays or bundles for mailpieces destinating within the SCF servicing the facility where the mail is verified (origin). Origin SCF (or origin 3-digit) separations are optional for other mail classes and shapes. The Postal Service proposes to extend the option for mailers to make such origin SCF separations for all classes and shapes of mailpieces.

In this proposal segregation means physical removal of the separated containers from the remainder of the mailing and separately placing them into transport units, placing them in a conspicuous location on top of the origin SCF pallet, or otherwise presenting them separately to USPS acceptance personnel. In order to improve the identification and processing of these mailpieces, the Postal Service is proposing to require mailers of all commercial mail (letters, flats and parcels) to segregate origin SCF separations (and finer sortation levels) containers, bundles or parcels from the remainder of the mailing. This requirement will apply to all required separations and to all optional separations (whenever the mailer chooses to make that separation). This new requirement should improve service by preventing mailpieces for the processing plant's service area from being transported to another processing facility prior to delivery.

Other Proposed Mail Preparation Changes

There are no current mail preparation standards pertaining to barcoded tray labels for Library Mail and Media Mail. This proposed rule will establish such standards. We have eliminated standards for the use of 1-inch sack labels for all types of mail. These labels are no longer supported by USPS Engineering, their use in the field should be limited, and equipment compatible with the use of 2-inch labels is widely available. We are also proposing to revise language in DMM 705.10.1 to align with other standards that specify that nonmachinable flat-size Periodicals prepared under 707.26 cannot be merged with machinable flats. We also are eliminating the option for mailers to place mixed ADC or mixed AADC bundles, sacks or trays on auxiliary service facility (ASF) or NDC pallets. Changes in processing at these facilities no longer make this option practical.

Although the Postal Service is exempt from the notice and comment requirements of the Administrative Procedure Act (5 U.S.C. of 553(b), (c)) regarding proposed rulemaking by operation of 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

200 Commercial Mail Letters and Cards

* * * * *

230 First-Class Mail

* * * * *

235 Mail Preparation

* * * * *

3.0 Letter Trays

* * * * *

3.3 Letter Tray Preparation

Letter trays are prepared as follows:

* * * * *

[Revise the last sentence of 3.3c as follows:]

c. * * * Except for 3-digit/scheme trays destined within the origin/entry SCF, mailers may optionally move any pieces remaining to the next higher presort level at which there is a minimum quantity (e.g., 150 pieces).

* * * * *

[Delete 3.6, Origin/Entry 3_Digit/Scheme Trays, in its entirety.]

* * * * *

5.0 Preparing Nonautomation Letters

* * * * *

5.2 Machinable Preparation

* * * * *

5.2.2 Traying and Labeling

[Revise the introductory paragraph of 5.2.2 as follows:]

Mailers must segregate trays destined within the origin/entry SCF under 236.1.5. Preparation sequence, tray size, and labeling:

[Revise 5.2.2a as follows:]

a. Origin/entry 3-digit/scheme (required); separate trays required for each 3-digit/scheme ZIP Code within the origin/entry SCF; no minimum piece requirement; one less-than-full tray permitted for each 3-digit/scheme; labeling:

1. Line 1: L002, Column B.

2. Line 2: “FCM LTR 3D MACH.”

* * * * *

5.3 Nonmachinable Preparation

* * * * *

5.3.2 Traying and Labeling

[Revise the introductory paragraph of 5.3.2 as follows:]

Mailers must segregate trays destined within the origin/entry SCF under 236.1.5. Preparation sequence, tray size, and labeling:

* * * * *

[Resequence current items 5.3.2b through d as the new c through e, and add a new item b as follows:]

b. Origin/entry 3-digit; required; no minimum piece requirement; one less-than-full tray for each origin/entry 3-digit; labeling:

1. Line 1: L002, Column A.

2. Line 2: “FCM LTR 3D MANUAL.”

[Revise the opening sentence only of resequenced 5.3.2c as follows:]

c. 3-digit (required); full trays (no overflow); labeling:

* * * * *

6.0 Preparing Automation Letters

* * * * *

6.6 Tray Preparation

[Revise the introductory paragraph of 6.6 as follows:]

Except for origin/entry 3-digit/scheme trays, mailers may place fewer than 150 overflow pieces in the next tray level when a tray of 150 or more pieces can be made. Mailers must segregate trays destined within the origin/entry SCF under 236.1.5. Mailers must note these trays on standardized documentation (see 708.1.2). Pieces placed in the next tray level must be grouped by destination and placed in the front or back of that tray. Mailers may use this option selectively for 3-digit and AADC ZIP Codes. Preparation sequence and Line 1 labeling:

[Revise item 6.6a as follows:]

a. 5-digit/scheme (see 1.4e): optional, but required for 5-digit price (150-piece minimum); overflow allowed; when making these separations.

1. For 5-digit scheme trays, use destination shown in the current USPS City State Product.

2. For 5-digit trays, use city, state, and 5-digit ZIP Code destination on pieces (see 4.0 for overseas military mail).

[Resequence current items 6.6b through d as the new c through e, and add a new item b as follows:]

b. Origin/entry 3-digit; required; separate trays required for each origin 3-digit/scheme, no minimum; one less-than-full tray allowed for each 3-digit/scheme; for Line 1, use L002, Column B.

[Revise resequenced 6.6c as follows:]

c. 3-digit/scheme: Optional, but required for 3-digit price (150-piece minimum); overflow allowed; for Line 1, use L002, Column B.

* * * * *

6.8 Presentation

[Revise 6.8 as follows:]

Mailers must present all mixed AADC trays together when presenting mailings for USPS verification. Mixed AADC trays must either be adjacent to one another, and must be placed as the top layer(s) on any container; or may be placed immediately below origin/entry 5-digit or 3-digit/scheme trays, when segregated under 236.1.5. Containerization instructions for First-Class Mail letters and cards may be established by local USPS managers.

236 Enter and Deposit

1.0 Deposit

* * * * *

[Add a new 1.5 as follows:]

1.5 Segregation of Trays for the Origin/Entry SCF

Mailers must make all required, and may make any optional, origin/entry 3-digit (scheme) and origin/entry 5-digit (scheme) separations destinating in the service area of the SCF serving the Post Office where the mail is verified, or the service area of the SCF/plant where mail is entered. For all such separations mailpieces must be trayed in accordance with 235.0 and segregated from the remainder of the mailing by one of these methods: Separately containerize the trays; place the trays in a conspicuous location on top of origin SCF pallet or other container; or present them separately to acceptance personnel.

* * * * *

240 Standard Mail

* * * * *

245 Mail Preparation

1.0 General Information for Mail Preparation

* * * * *

[Add a new 1.5 to reference required palletization as follows:]

1.5 Required Pallet Preparation

Mailers must prepare pallets under 705.8 when they have at least 72 linear feet of trays to a presort destination. If a mailer is unable to palletize, mail must be separated and placed in approved alternate containers.

* * * * *

3.0 Letter Trays

* * * * *

3.3 Letter Tray Preparation

Letter trays are prepared as follows:

* * * * *

[Revise the third sentence of 3.3c as follows:]

c. * * * Except for 3-digit/scheme trays destined within the origin/entry SCF, mailers may optionally move any pieces remaining to the next higher presort level at which there is a minimum quantity (e.g., 150 pieces).

* * * * *

[Delete 3.6, Origin/Entry 3-Digit/Scheme Tray, in its entirety.]

* * * * *

5.0 Preparing Nonautomation Letters

* * * * *

5.3 Machinable Preparation

* * * * *

5.3.2 Traying and Labeling

[Revise the introductory paragraph of 5.3.2 by adding a new second sentence as follows:]

* * * Mailers must segregate trays destined within the origin/entry SCF under 246.1.3. * * *

* * * * *

5.4 Nonmachinable Preparation

* * * * *

5.4.2 Traying and Labeling

[Revise the introductory sentence of 5.4.2 as follows:]

Overflow trays are not allowed. Mailers must segregate trays destined within the origin/entry SCF under 246.1.3. Preparation sequence, tray size, and labeling:

* * * * *

[Resequence current items 5.4.2b through d as the new c through e and add new item b as follows:]

b. Origin/entry 3-digit (optional); separate trays required for each origin 3-digit ZIP Code; no minimum piece requirement; one less-than-full tray for each origin/entry 3-digit; when making these separations; labeling:

1. Line 1: L002, Column A.

2. Line 2: “STD LTR 3D MANUAL.”

[Revise resequenced 5.4.2c as follows:]

c. 3-digit (required); 150-piece minimum; labeling:

1. Line 1: L002, Column A.

2. Line 2: “STD LTR 3D MANUAL.”

* * * * *

6.0 Preparing Enhanced Carrier Route Letters

* * * * *

6.6 General Traying and Labeling

[Revise the introductory paragraph of 6.6 as follows:]

For all mailings containing any ECR letters over 3 ounces and all mailings of nonautomation ECR letters, prepare trays as explained below. Mailers must segregate trays destined within the origin/entry SCF under 246.1.3. Prepare letters with simplified addresses in separate trays from pieces with other forms of addressing. For ECR barcoded automation-compatible letters that weigh up to 3 ounces, prepare trays under 6.7. Preparation sequence, tray size, and labeling:

[Revise the opening paragraphs only of items 6.6a through c as follows:]

a. Carrier route: Required; full trays only, no overflow.

* * * * *

b. 5-digit carrier routes: Required if full tray, optional with minimum one 10-piece bundle.

* * * * *

c. 3-digit carrier routes: Optional with minimum one 10-piece bundle for each of two or more 5-digit areas.

* * * * *

6.7 Traying and Labeling for Automation-Compatible ECR Letters

[Add a new seventh sentence to the introductory paragraph of 6.7 as follows:]

* * * Mailers must segregate trays destined within the origin/entry SCF under 246.1.3. * * *

* * * * *

7.0 Preparing Automation Letters

* * * * *

7.5 Tray Preparation

[Revise the introductory text of 7.5 as follows:]

Instead of preparing overflow trays with fewer than 150 pieces, mailers may include these pieces in an existing qualified tray of at least 150 or more pieces at the next tray level. (For example, 30 overflow 5-digit pieces for 20260 may be added to a qualified 3-digit tray (prefix 202) and the overflow 5-digit pieces will qualify for the 5-digit price.) Pieces that are placed in the next tray level must be grouped by destination and placed in the front or back of that tray. This option does not apply to origin/entry 3-digit/scheme trays. When making 5-digit/scheme and origin 3-digit/scheme trays, mailers must segregate trays destined within the origin/entry SCF as described in 246.1.3 Preparation sequence, tray size, and Line 1 labeling:

* * * * *

[Resequence current items 7.5b through d as the new c through e, and add new item b as follows:]

b. Origin 3-digit/scheme; optional; separate trays required for each origin 3-digit/scheme; no minimum piece requirement; one less-than-full tray for each origin/entry 3-digit; for Line 1, use L002, Column B.

[Revise resequenced 7.5c as follows:]

c. 3-digit/scheme; optional, but required for 3-digit price (150-piece minimum); overflow allowed; for Line 1, use L002, Column B.

* * * * *

7.7 Presentation

[Revise 7.7 as follows:]

Mailers must present all mixed AADC trays together for USPS verification, placed as the top layer(s) on any given container, or immediately below origin/entry carrier route, 5-digit/scheme or 3-digit/scheme trays, when segregated under 246.1.3.

* * * * *

246 Enter and Deposit

1.0 Presenting a Mailing

* * * * *

[Add a new 1.3 as follows:]

1.3 Segregation of Origin SCF Trays

Mailers must make all required, and may make any optional, origin/entry carrier routes, 5-digit (scheme) and 3-digit (scheme) separations destinating in the service area of the SCF serving the Post Office where the mail is verified, or the service area of the SCF/plant where mail is entered. For all origin/entry separations made, mailpieces must be trayed under 245.3.0 and segregated from the remainder of the mailing by one of these methods: separately containerize the trays; place the trays in a conspicuous location on top of origin SCF pallet or other container; or present them separately to acceptance personnel.

* * * * *

300 Commercial Flats

* * * * *

330 First-Class Mail

* * * * *

335 Mail Preparation

* * * * *

3.0 Flat Trays

* * * * *

[Delete 3.6, Origin/Entry 3-Digit/Scheme Trays, in its entirety.]

* * * * *

5.0 Preparation of Nonautomation Flats

* * * * *

5.5 Traying and Labeling

[Revise the introductory paragraph of 5.5 as follows:]

Mailers must segregate trays destined within the origin/entry SCF under 336.1.5. Preparation sequence and labeling:

* * * * *

[Resequence current items 5.5 b through d as the new c through e, and add a new item b as follows:

b. Origin/entry 3-digit (required); separate trays required for each origin 3-digit ZIP Code; no minimum piece requirement; one less-than-full tray for each origin/entry 3-digit; mailers must segregate trays destined within the origin/entry SCF under 336.1.5; labeling:

1. Line 1: L002, Column A.

2. Line 2: “FCM FLTS 3D NON BC.”

[Revise the opening paragraph of resequenced 5.5c as follows:]

c. 3-digit (required); full trays (no overflow); labeling:

* * * * *

6.0 Preparation of Automation Flats

* * * * *

6.5 First-Class Mail Required Bundle-Based Preparation

* * * * *

6.5.2 Traying and Labeling

[Revise the introductory paragraph of 6.5.2 as follows:]

Mailers must segregate trays destined within the origin/entry SCF under 336.1.5. Preparation sequence and labeling:

* * * * *

6.6 First-Class Mail Optional Tray-Based Preparation

[Revise the opening paragraph of 6.6 as follows:]

Mailers must segregate trays destined within the origin/entry SCF under 336.1.5. Preparation, sequence, and Line 1 labeling:

* * * * *

336 Enter and Deposit

1.0 Deposit

* * * * *

[Revise 1.0 by adding a new 1.5 as follows:]

1.5 Segregation of Origin SCF Trays

Mailers must make all required, and may make any optional, origin/entry 3-digit (scheme) and origin/entry 5-digit (scheme) separations destinating in the service area of the SCF serving the Post Office where the mail is verified, or the service area of the SCF/plant where mail is entered. For all such separations, mailpieces must be trayed or placed in alternate containers under 335.0 and segregated from the remainder of the mailing by one of these methods: separately containerize the trays; place the trays in a conspicuous location on top of origin SCF pallet or other container; or present them separately to acceptance personnel.

* * * * *

340 Standard Mail

343 Prices and Eligibility

* * * * *

5.0 Additional Eligibility Standards for Nonautomation Standard Mail Flats

* * * * *

5.3 5-Digit Prices for Flats

The 5-digit price applies to flat-size pieces:

[Revise 5.3a as follows:]

a. In a 5-digit/scheme bundle of 10 or more pieces, or 15 or more pieces, as applicable; placed in a 5-digit/scheme flat tray or approved alternate container containing at least 125 pieces or 15 pounds of pieces. Eligibility is also met by placing at least 125 pieces or 15 pounds per destination in more than one flat tray when the flat trays are full, according to 345.1.4e.

* * * * *

[Revise 5.3c as follows:]

c. In a 5-digit bundle of 10 or more pieces, or 15 or more pieces, as applicable; placed in a merged 5-digit/scheme or 5-digit flat tray or approved alternate container under 705.10.0.

5.4 3-Digit Prices for Flats

The 3-digit price applies to flat-size pieces:

[Revise 5.4a as follows:]

a. In a 5-digit/scheme bundle of 10 or more pieces, or 15 or more pieces, as applicable, or in a 3-digit/scheme bundle of 10 or more pieces; placed in a 3-digit flat tray or approved alternate container of at least 125 pieces or 15 pounds of pieces. Eligibility is also met by placing at least 125 pieces or 15 pounds per destination in more than one flat tray when the flat trays are full, according to 345.1.4e.

* * * * *

5.5 ADC Prices for Flats

ADC prices apply to flat-size pieces:

[Revise items 5.5a and b as follows:]

a. In a 5-digit/scheme, 3-digit/scheme, or ADC bundle of 10 or more pieces placed in an ADC flat tray or approved alternate container of at least 125 pieces or 15 pounds of pieces. Eligibility is also met by placing at least 125 pieces or 15 pounds per destination in more than one flat tray when the flat trays are full, according to 345.1.4e.

b. In a 3-digit/scheme origin/entry flat tray or approved alternate container.

* * * * *

5.6 Mixed ADC Prices for Flats

[Revise 5.6 as follows:]

Mixed ADC prices apply to flat-size pieces in bundles that do not qualify for 5-digit, 3-digit, or ADC prices.

* * * * *

6.0 Additional Eligibility Standards for Enhanced Carrier Route Standard Mail Flats

* * * * *

6.3 Basic Price Enhanced Carrier Route Standards

* * * * *

6.3.2 Basic Price Eligibility

Basic prices apply to each piece in a carrier route bundle of 10 or more pieces that is:

* * * * *

[Revise items 6.3.2b through d as follows:]

b. Placed in a carrier route flat tray or approved alternate container containing at least 125 pieces or 15 pounds of pieces. Eligibility is also met by placing at least 125 pieces or 15 pounds per destination in more than one flat tray when the flat trays are full, according to 345.1.4e.

c. Placed in a merged 5-digit scheme, 5-digit scheme carrier routes, merged 5-digit, or 5-digit carrier routes flat trays or approved alternate containers.

d. Entered at a destination delivery unit as untrayed or uncontainerized bundles, under 345.2.0 and 346.5.0.

* * * * *

6.4 High Density Enhanced Carrier Route Standards

* * * * *

6.4.2 High Density Prices for Flats

High density prices apply to each piece in a carrier route bundle of 10 or more pieces that is:

* * * * *

[Revise items 6.4.2b and c as follows:]

b. Placed in a carrier route flat tray or approved alternate container containing at least 125 pieces or 15 pounds of pieces. Eligibility is also met by placing at least 125 pieces or 15 pounds per destination in more than one flat tray when the flat trays are full, according to 345.1.4e.

c. Placed in a merged 5-digit scheme, 5-digit scheme carrier routes, merged 5-digit, or 5-digit carrier routes flat tray or approved alternate container.

* * * * *

6.5 Saturation Enhanced Carrier Route Standards

* * * * *

6.5.2 Saturation Prices for Flats

Saturation prices apply to each piece in a carrier route bundle of 10 or more pieces that is:

* * * * *

[Revise items 6.5.2b and c as follows:]

b. Placed in a carrier route flat tray or approved alternate container containing at least 125 pieces or 15 pounds of pieces. Eligibility is also met by placing at least 125 pieces or 15 pounds per destination in more than one flat tray when the flat trays are full, according to 345.1.4e.

c. Placed in a merged 5-digit scheme, 5-digit scheme carrier routes, merged 5-digit, or 5-digit carrier routes flat tray or approved alternate container.

* * * * *

345 Mail Preparation

1.0 General Information for Mail Preparation

* * * * *

1.3 Terms for Presort Levels

Terms used for presort levels are defined as follows:

* * * * *

[Revise items 1.3c through 1.3h as follows:]

c. 5-digit scheme (bundles, flat trays or approved alternate containers) for flats meeting the automation standards in 301.3.0: The delivery ZIP Code on all pieces is one of the 5-digit ZIP Code areas in as a single scheme, as shown in L007.

d. 5-digit scheme carrier routes (pallets, flat trays or approved alternate containers) for Standard Mail flats: The delivery ZIP Code on all pieces in carrier route bundles is one of the 5-digit ZIP Codes processed by the USPS as a single scheme, as shown in L001.

e. Merged 5-digit trays: The carrier route bundles and 5-digit bundles, in a flat tray or approved alternate container, are all for a 5-digit ZIP Code that has an “A” or “C” indicator in the Carrier Route Indicators field in the City State Product.

f. Merged 5-digit pallet: Contains carrier route bundles and noncarrier route 5-digit bundles.

g. Merged 5-digit scheme trays: The 5-digit ZIP Codes on pieces in carrier route bundles and 5-digit bundles in a flat tray or approved alternate container are all for 5-digit ZIP Codes that are part of a single scheme as shown in L001, and the 5-digit bundles also are for 5-digit ZIP Codes that have an “A” or “C” indicator in the Carrier Route Indicators field in the City State Product.

h. Merged 5-digit scheme pallet: Contains carrier route bundles and noncarrier route bundles for those 5-digit ZIP Codes that are part of a single scheme under L001.

* * * * *

[Revise the second sentence of 1.3k as follows:]

k. * * * These separations are optional, but mailers making these separations must segregate trays for each 3-digit area under 346.1.3.

* * * * *

[Revise 1.3m as follows:]

m. Origin/entry SCF: The separation includes bundles for one or more 3-digit areas served by the same sectional center facility (SCF) (see L005) in whose service area the mail is verified/entered. Mailpieces may be separated for each such 3-digit area regardless of the volume of mail. Mailers making these separations must segregate trays, approved alternate containers or pallets from the remainder of the mailing under 346.1.3.

* * * * *

[Revise 1.3q as follows:]

q. Residual pieces/bundles/trays/alternate containers: Contain mail remaining after completion of a presort sequence. Residual mail lacks the volume for preparation to a particular destination.

1.4 Preparation Definitions and Instructions

For purposes of preparing mail:

* * * * *

[Delete current items 1.4e through t in their entirety and replace with new e through u as follows:]

e. A full flat tray is one that is physically full. Although a specific minimum volume of at least one stack of mail lying flat on the bottom of the tray and filling the tray to the bottom of the handholds is required for a tray prepared to a presort destination, trays must be filled with additional available pieces (up to the reasonable capacity of the tray) when standards require full trays.

f. A less-than-full flat tray is one that contains flats for the same destination regardless of quantity or whether a full tray was also prepared for that destination.

g. An approved alternate container is a container authorized by the USPS instead of a flat tray (tub) or pallet, for the handling and transport of bundled flat-size mailpieces or parcels. Alternate containers could include sacks, other USPS mail transport equipment, or mailer-supplied containers.

h. A 5-digit scheme sort for flats meeting the standards in 301.3.0 is defined in 1.3c. When standards require 5-digit/scheme sort, mailers must prepare all possible 5-digit scheme bundles, flat trays or approved alternate containers, then prepare all possible 5-digit bundles, flat trays or alternate containers. Label bundles using an optional endorsement line (OEL) under 708.7.0 or with a red “5 SCH” bundle label. Place bundles in appropriate containers using the OEL “label to” 5-digit ZIP Code or using L007 column B.

i. A 5-digit scheme carrier routes sort is defined in 1.3d. Flat trays, alternate containers or pallets labeled to a 5-digit scheme carrier routes destination that contain bundles for only one of the 5-digit areas are considered to be sorted to 5-digit scheme carrier routes. Preparation of 5-digit scheme carrier routes trays or pallets must be done for all 5-digit scheme destinations.

j. A merged 5-digit sort is an optional sort for Standard Mail flats in flat trays or alternate containers and is defined in 1.3e. If preparation of merged 5-digit trays is performed, it must be done for all 5-digit ZIP Code destinations with an “A” or “C” indicator in the Carrier Route Indicators field in the City State Product.

k. The merged 5-digit sort is optional for bundles of Standard Mail flats prepared on pallets under 705.10 and is defined in 1.3f. Pallets labeled to a merged 5-digit destination that contain only a single price level of bundle(s) are considered to be merged 5-digit sorted.

l. A merged 5-digit scheme sort for Standard Mail flats prepared in flat trays or approved alternate containers under 705.10.0 is defined in 1.3g. Trays or alternate containers labeled to a merged 5-digit scheme destination that contain only a single price level of bundle(s) or bundles for only one of the schemed 5-digit ZIP Codes are considered to be merged 5-digit scheme sorted.

m. A merged 5-digit scheme sort for bundles of Standard Mail flats on pallets under 705.8.0, 705.10.0, 705.12.0, or 705.13.0 is defined in 1.3h. Pallets labeled to a merged 5-digit scheme destination that contain only a single price level of bundle(s) or bundles for only one of the 5-digit ZIP Codes are considered to be merged 5-digit sorted. If preparation of merged 5-digit scheme pallets is performed, it must be done for all 5-digit scheme destinations in L001.

n. A 3-digit scheme sort for bundles of flats meeting the standards in 301.3.0 is defined in 1.3j. When standards require 3-digit/scheme sort for flats, mailers must prepare all possible 3-digit scheme bundles of flats, then prepare all possible 3-digit bundles. Label bundles using an optional endorsement line (OEL) under 708.7.0 or with a green “3SCH” bundle label. Place bundles in appropriate containers using the OEL “label to” 3-digit ZIP Code or using L008 column B.

o. An origin 3-digit (or origin 3-digit scheme) tray contains all mail (regardless of quantity) for a 3-digit ZIP Code (or 3-digit scheme) area processed by the SCF in whose service area the mail is verified. A separate tray may be prepared for each 3-digit ZIP Code (or 3-digit scheme) area.

p. The required at [quantity] instruction means that the particular unit must be prepared for the corresponding presort level whenever the specified quantity of mail is reached or exceeded, up to the maximum size or weight.

q. The optional at [quantity] instruction means that the particular unit may be prepared for the corresponding presort level whenever the specified quantity is reached or exceeded, up to the maximum size or weight.

r. Entry [facility] (or origin [facility]) refers to the USPS mail processing facility (e.g., “entry NDC”) that serves the Post Office at which the mail is entered by the mailer. If the Post Office where the mail is entered is not the one serving the mailer's location (e.g., for plant-verified drop shipment), the Post Office of entry determines the entry facility. Entry SCF includes both single-3-digit and multi-3-digit SCFs. Entry NDC includes subordinate ASFs unless otherwise specified.

s. A bundle is a group of addressed pieces secured together as a unit. Bundle preparation is described in 2.0.

t. A “logical” presort destination represents the total number of pieces that are eligible for a specific presort level but which might not be contained in a single bundle or in a single flat tray, approved alternate container or pallet due to preparation requirements or the size of the individual pieces. For example, there may be 42 mailpieces for ZIP Code 43112 forming a “logical” 5-digit bundle, and the pieces are prepared in three physical 5-digit bundles.

u. Cobundling is an alternate preparation method available under 705.11.0 for Standard Mail that allows the combining of flat-size automation price and Presorted price pieces within the same bundle under the single minimum bundle size requirement. Regardless of the class of mail, pieces may not be combined in more than one physical bundle for each logical presort destination unless presented using an approved manifest mailing system under 705.2.0.

[Revise title and text of 1.5 as follows:]

1.5 Required Pallet Preparation

Mailers must prepare pallets under 705.8 when they have reached the minimum loads described in 705.8.5.3. If a mailer is unable to palletize, mail must be separated and placed in flat trays or approved alternate containers.

* * * * *

2.0 Bundles

* * * * *

2.2 Address Visibility

* * * This standard does not apply to the following:

* * * * *

[Revise items 2.2b and c as follows:]

b. Bundles placed in or on 5-digit or 5-digit scheme (L001) flat trays, alternate containers or pallets.

c. Bundles placed in carrier route(s) flat trays or alternate containers.

* * * * *

[Revise title of 2.6 and text of the introductory sentence as follows:]

2.6 Preparing Bundles in Flat Trays or Alternate Containers

In addition to the standards in 2.5, mailers must prepare bundles in flat trays or approved alternate containers as follows:

* * * * *

[Revise title and introductory sentence only of 2.7 as follows:]

2.7 Additional Standards for Untrayed Bundles Entered at DDU Facilities

Mailers may enter untrayed, nonpalletized bundles of flat-size pieces at destination delivery units (DDUs) if all the following conditions are met:

* * * * *

2.9 Pieces With Simplified Address

[Revise the last sentence of 2.9 as follows:]

* * * Bundles must be secure and stable subject to weight limits in 705.8.0 if placed on pallets, and other limits in 2.6 if placed in trays or alternate containers.

* * * * *

[Revise title of 3.0 as follows:]

3.0 Trays and Alternate Containers

3.1 Standard Containers

[Revise the first sentence of the introductory paragraph of 3.1 as follows:]

If mailers are unable to palletize, mailings must be prepared in flat trays or approved alternate containers except as permitted in letter trays under 3.4 and under other standards in this section. * * *

* * * * *

[Revise title and text of 3.2 as follows:]

3.2 Tray Preparation

Tray and alternate container preparation is subject to these standards:

a. Each tray or alternate container must bear the correct tray label.

b. The weight of a tray, or alternate container, and its content must not exceed 70 pounds.

* * * * *

3.4 Preparing Flats in Letter Trays

[Revise the introductory paragraph of 3.4f as follows:]

Standard Mail flat-size pieces may be prepared in letter trays instead of flat trays only if the following standards are met:

* * * * *

[Revise 3.4f as follows:]

f. All pieces in the mailing must be placed in letter trays on pallets, separated by presort destination when the required minimum pallet load in 705.8.5.3 cannot be met.

* * * * *

[Delete 3.6, Strapping Exception, in its entirety.]

* * * * *

[Revise title of 4.0 as follows:]

4.0 Tray Labels

4.1 Basic Standards

[Revise 4.1 as follows:]

Tray labels are subject to the following:

a. Labels for flat trays or approved alternate containers for automation mailings are subject to 4.9 and 708.6.5.

b. Only legible labels, including hand written labels, are acceptable. Machine-printed labels (available from the USPS) ensure legibility.

c. Intelligent Mail tray labels are subject to the standards in 708.6.5 and to the specifications posted at http://ribbs.usps.gov.

* * * * *

[Delete 4.7, Sack Label, in its entirety, and renumber current items 4.8 and 4.9 as the new 4.7 and 4.8.]

* * * * *

[Revise the title of renumbered 4.8 and text of the introductory sentence only as follows:]

4.8 Use of Barcoded Tray Labels

Exhibit 4.8 shows the types of mail requiring barcoded tray labels. Barcoded labels must meet these general standards:

* * * * *

[Revise renumbered items 4.8d and e as follows:]

d. Mailers must insert a barcoded label completely into the label holder on the tray or alternate container.

e. Intelligent Mail tray labels must be used on all trays and alternate container for mailings entered under the full-service Intelligent Mail automation option.

Exhibit 4.9 Required Barcoded Container Labels

[Revise the “price or type” description in the second row of Exhibit 4.9 to replace the word “cosacked” with “cotrayed” under Standard Mail as follows:]

PRICE OR TYPE

Standard Mail

* * * * *

Cobundled and Cotrayed Under 705.9.0 Through 705.13.0

* * * * *

5.0 Preparing Nonautomation Flats

5.1 Basic Standards

* * * * *

b. All pieces must meet the applicable general preparation standards in 1.0 through 4.0 and the following:

* * * * *

[Revise 5.1b2 as follows:]

2. All pieces must be in the flat-size processing category and must be bundled and placed on pallets, or bundled and placed in flat trays or approved alternate containers. Certain flat-size pieces may be prepared in letter trays under 3.0.

* * * * *

5.2 Required Bundling

[Revise the first sentence of 5.2 as follows:]

Bundling is required before placing flats on pallets, in flat trays or alternate containers. * * *

* * * * *

[Delete current 5.4, Loose Packing, in its entirety and renumber current items 5.5 through 5.9 as the new 5.4 through 5.8:]

[Revise title of renumbered 5.4 as follows:]

5.4 Required Traying

[Revise the introductory paragraph of renumbered 5.4 as follows:]

If unable to palletize under 705.8.0, or except as provided in 5.5, a tray or alternate container must be prepared when the quantity of mail for a required presort destination reaches either 125 pieces or 15 pounds of pieces, whichever occurs first, subject to these conditions:

* * * * *

b. For nonidentical-weight pieces, mailers must apply either one of these methods:

* * * * *

[Revise 5.4b2 as follows:]

2. The actual piece count or mail weight for each tray or container is used, if documentation shows the number of pieces and the total weight of pieces in each tray.

* * * * *

[Revise title and introductory sentence of renumbered 5.6 as follows;]

5.6 Traying and Labeling

Mailers must segregate trays destined within the origin/entry SCF under 346.1.3. Preparation sequence and labeling:

* * * * *

[Delete current item 5.6e in its entirety and add new items e through g as follows:]

e. Origin Network Distribution Center (NDC) Network (required); no minimum; labeling:

1. Line 1: L604, Column C.

2. Line 2: “STD FLTS NDC NON BC.”

f. Tier 2 Network (required); no minimum; labeling:

1. Line 1: L604, Column C.

2. Line 2: “STD FLTS NON BC WKG.”

g. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C.

2. Line 2: “STD FLTS NON BC WKG.”

* * * * *

[Resequence numbered items 5.7 and 5.8 as the new 5.8 and 5.9 and add a new 5.7 as follows:]

5.7 Containerization—Flat Tray Preparation and Labeling

Mailers must prepare bundles on pallets under 705.8.0 when minimum volume is available for a required pallet level. Mailers who are unable to palletize, or mailers of small volume mailings, must prepare bundles in flat trays or approved alternate containers as shown in items a through c. Mailers entering mailings at acceptance locations specified in 5.7d must prepare mailings according to the instructions in d instead of c. Preparation sequence and labeling:

a. Origin-Entry 3 Digit (optional); no minimum; when making these separations, mailers must segregate trays as described in 346.1.3; labeling:

1. Line 1: Column A, L002

2. Line 2: “STD FLTS 3D NON BC

b. Origin Network Distribution Center (NDC) Network (required); no minimum; labeling:

1. Line 1: L604, Column C information for the facility serving the 3-digit ZIP Code prefix of entry Post Office.

2. Line 2: “STD FLTS NON BC.”

c. Tier 2 Network (required); no minimum; labeling:

1. Line 1: L604, Column C based on information for the facility serving the 3-digit ZIP Code prefix of entry Post Office.

2. Line 2: “STD FLTS NON BC.”

d. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C, based on information for the facility serving the 3-digit ZIP Code prefix of entry Post Office

2. Line 2: “STD FLTS NON BC.”

5.8 Cotraying and Cobundling Flats With Automation Mail

The following standards apply:

* * * * *

[Revise items 5.8b through d as follows:]

b. If the mailing job contains an automation mailing and a nonautomation mailing, it must be prepared under the cotraying standards in 705.9.0.

c. If the mailing job contains a carrier route mailing and a nonautomation mailing, it must be separately trayed under 5.0 and 6.0 or under the merged traying option in 705.10.0.

d. If the mailing job contains a carrier route mailing and an automation mailing, then it must be separately trayed under 6.0 and 7.0 or under the merged traying option in 705.10.0.

* * * * *

5.9 Merged Containerization of Carrier Route, Automation, and Nonautomation Flats

[Revise the first sentence of 5.9 as follows:]

Under the optional preparation in 705.10.0, nonautomation 5-digit bundles prepared under 5.0 are combined in trays or approved alternate containers with carrier route bundles and automation 5-digit bundles in merged 5-digit scheme trays and merged 5-digit trays. * * *

* * * * *

6.0 Preparing Enhanced Carrier Route Flats

6.1 Basic Standards

All mailings and all pieces in each mailing at Enhanced Carrier Route Standard Mail and Nonprofit Enhanced Carrier Route Standard Mail nonautomation prices are subject to specific preparation standards in 6.2 through 6.7 and to these general standards:

* * * * *

c. All pieces must meet the standards in 2.0 through 4.0 and 302, and the following:

* * * * *

[Revise 6.1c2 as follows:]

2. Flat-size pieces must be bundled and placed on pallets under 705.8.0, or if unable to palletize placed into flat trays or alternate containers or, if applicable, in letter trays under 3.4. When entering flat-size pieces at DDUs, mailers may prepare untrayed, nonpalletized bundles under 2.7.

* * * * *

6.3 Carrier Route Bundle Preparation

Prepare carrier route bundles of flat-size mail as follows:

* * * * *

[Revise 6.3c as follows:]

c. Label carrier route bundles based on the following tray levels:

1. Carrier route tray: No bundle labeling is required.

2. 5-digit scheme or 5-digit carrier routes tray: Bundles must have a facing slip unless the pieces in the bundle have a carrier information line or an optional endorsement line (OEL).

[Revise title and text of 6.4 as follows:]

6.4 Bundles and Trays With Fewer Than the Minimum Number of Pieces Required

As a general exception to 6.2 through 6.7, a mailer may prepare a bundle or tray with fewer than the minimum number of pieces required for a carrier route when pieces meet the saturation standards.

* * * * *

[Revise title and text of the introductory paragraph only of 6.6 as follows:]

6.6 Required Tray Minimums

When traying or containerization is required, mailers must prepare a tray or approved alternate container when the quantity of mail for a required presort destination reaches either 125 pieces or 15 pounds of pieces, whichever occurs first. The following conditions apply:

* * * * *

[Revise 6.6b as follows:]

b. For nonidentical-weight pieces, mailers must either use the minimum that applies to the average piece weight for the entire mailing or tray the pieces according to the actual piece count or mail weight for each tray, if documentation shows the number and total weight in each tray.

* * * * *

[Revise 6.6d as follows:]

d. Trays with fewer than 125 pieces or less than 15 pounds of pieces may be prepared to a carrier route when pieces meet the saturation standards.

* * * * *

[Revise title and introductory paragraph only of 6.7 as follows:]

6.7 Tray Preparation

Mailers must segregate trays destined within the origin/entry SCF under 346.1.3. Preparation sequence and labeling:

* * * * *

6.8 Merged Containerization of Carrier Route, Automation, and Presorted Price Flats

[Revise the first sentence of 6.8 as follows:]

Under the optional preparation in 705.10.0, carrier route bundles are combined in trays or approved alternate containers with 5-digit bundles (both presorted and automation) in merged 5-digit scheme trays and merged 5-digit trays. * * *

* * * * *

7.0 Preparing Automation Flats

7.1 Basic Standards

[Revise the second sentence of 7.1 as follows:]

* * * Trays must bear the appropriate barcoded container labels under 4.9.

* * * * *

7.4 Standard Mail Bundle Preparation

* * * * *

[Revise title of 7.4.2 as follows:]

7.4.2 Required Traying

[Revise the introductory paragraph of 7.4.2 as follows:]

If unable to palletize under 705.8.0, a tray or approved alternate container must be prepared when the quantity of mail for a required presort destination reaches either 125 pieces or 15 pounds of pieces, whichever occurs first, subject to these conditions:

* * * * *

[Revise 7.4.2b as follows:]

b. For nonidentical-weight pieces, mailers must either use the minimum that applies to the average piece weight for the entire mailing or tray by the actual piece count or mail weight for each tray, if documentation shows the number and total weight of pieces in each tray.

* * * * *

[Revise title and text of the introductory paragraph only of 7.4.3 as follows:]

7.4.3 Traying and Labeling

Mailers must segregate trays destined within the origin/entry SCF under 346.1.3. Preparation sequence and labeling:

[Revise the opening paragraph only of 7.4.3 a and c as follows:]

* * * * *

[Delete current 7.4.3e in its entirety and add new items e through g as follows:]

e. Origin Network Distribution Center (NDC) Network (required); no minimum; labeling:

1. Line 1: L604, Column C.

2. Line 2: “STD FLTS NDC BC.”

f. Tier 2 Network (required); no minimum; labeling:

1. Line 1: L604, Column C.

2. Line 2: “STD FLTS BC WKG.”

g. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C.

2. Line 2: “STD FLTS BC WKG.”

* * * * *

[Renumber current items 7.6 and 7.7 as the new 7.7 and 7.8 and add a new 7.6 as follows:]

7.6 Containerization—Flat Tray Preparation and Labeling

Mailers must prepare bundles on pallets under 705.8.0 when minimum volume is available for a required pallet level. Mailers who are unable to palletize, or mailers of small volume mailings, must prepare bundles in flat trays or approved alternate containers under 7.6a through 7.6c. Mailers entering mailings at acceptance locations specified in item d must prepare mailings according to the instructions in 7.6d instead of c. Preparation sequence and labeling:

a. Origin-Entry 3 Digit (optional); no minimum; when making this separation, mailers must segregate trays under 346.1.3; labeling:

1. Line 1: Column A, L002.

2. Line 2: “STD FLTS 3D BC.

b. Origin Network Distribution Center (NDC); (required); no minimum; labeling:

1. Line 1: L604, Column C information for the facility serving the 3-digit ZIP Code prefix of entry Post Office.

2. Line 2: “STD FLTS BC WKG.”

c. Tier 2 Network (required); no minimum; labeling:

1. Line 1: L604, Column C based on information for the facility serving the 3-digit ZIP Code prefix of entry Post Office.

2. Line 2: “STD FLTS BC WKG.”

d. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C, based on information for the facility serving the 3-digit ZIP Code prefix of entry Post Office.

2. Line 2: “STD FLTS BC WKG.”

7.7 Merged Containerization With Presorted and Carrier Route Flats

[Revise renumbered 7.7 as follows:]

When the standards in 705.10.0, 705.12.0, or 705.13.0 are met, 5-digit bundles and carrier route bundles that are part of the same mailing job and mail class may be combined on merged 5-digit scheme trays or pallets and merged 5-digit trays or pallets. Automation flats may be cobundled with nonautomation flats under 705.11.0.

7.8 Exception—Automation and Nonautomation Pieces on Pallets

[Revise the third and fifth sentences of renumbered 7.8 as follows:]

* * * Mailing jobs prepared entirely in trays and claiming this exception must be cobundled under 705.11.0. * * * The nonautomation pieces that cannot be placed on NDC or finer level pallets may be prepared in flat trays and paid at nonautomation flat-size prices. * * *

* * * * *

346 Enter and Deposit

1.0 Presenting a Mailing

* * * * *

[Add a new 1.3 as follows:]

1.3 Segregation of Origin SCF Mailpieces

Mailers must make all required, and may make any optional, origin/entry carrier route, 5-digit (scheme) carrier route, (merged) 5-digit (scheme) and 3-digit (scheme) separations destinating in the service area of the SCF serving the Post Office where the mail is verified, or the service area of the SCF/plant where mail is entered. For all such separations, mailpieces must be trayed or placed in alternative containers under 345.0 and segregated from the remainder of the mailing. Mailers must segregate the origin/entry trays by one of these methods: Separately containerize the trays; place the trays in a conspicuous location on top of origin SCF pallet or other container; or present them separately to acceptance personnel.

* * * * *

3.0 Destination Network Distribution Center (DNDC) Entry

* * * * *

3.2 Eligibility

[Revise 3.2 as follows:]

Pieces in a correctly prepared Standard Mail mailing that meet the standards in 2.0 and 3.0 are eligible for the DNDC price when they meet all of the following conditions:

a. Pieces are addressed for delivery to one of the 3-digit ZIP Codes served by the NDC or ASF where deposited that are listed in Exhibit 3.1.

b. Pieces are correctly placed on a pallet or in a tray that is labeled to an NDC or ASF, or to a postal facility within the service area of that NDC or ASF (see Exhibit 3.1), and deposited at that NDC or ASF.

c. If bundles of flats on pallets are reallocated from an ASF pallet to a NDC pallet under 705.8.14, mail for the ASF ZIP Codes placed on the NDC pallet is not eligible for the DNDC prices.

3.3 Eligibility for ADC Mailpieces

[Revise the first sentence of 3.3 as follows:]

All pieces in an ADC tray are eligible for the DNDC discount if the ADC facility ZIP Code (as shown on Line 1 of the corresponding container label) is within the service area of the NDC or ASF at which the tray is deposited as shown in Exhibit 3.1. * * *

[Revise title and text of 3.4 as follows:]

3.4 Eligibility for Mixed ADC Bundles or Trays

Mailpieces in a mixed ADC bundle or tray can qualify for the DNDC prices if the following standards are met:

a. All pieces (no minimum) in the bundle or tray must destinate within the ASF or NDC service area shown in Exhibit 3.1.

b. Use labeling list L009 when labeling bundles or trays containing such pieces.

* * * * *

4.0 Destination Sectional Center Facility (DSCF) Entry

* * * * *

4.2 Eligibility

Pieces in a mailing that meets the standards in 2.0 and 4.0 are eligible for the DSCF price, as follows:

[Revise items 4.2a and b as follows:]

a. When deposited at a DSCF (or USPS-designated facility), addressed for delivery within that facility's service area, and placed on a pallet or in a tray labeled to that DSCF or to a postal facility within its service area.

b. When prepared in 5-digit bundles and placed on or in a merged 5-digit scheme or merged 5-digit pallet or tray deposited at the destination delivery unit as defined in 5.1.

* * * * *

360 Bound Printed Matter

* * * * *

365 Mail Preparation

1.0 General Information for Mail Presentation

1.1 Basic Preparation—Nonpresorted

[Revise 1.1as follows:]

There are no presort, traying, containerization, or labeling standards for nonpresorted Bound Printed Matter.

* * * * *

1.4 Terms for Presort Levels

Terms used for presort levels are defined as follows:

* * * * *

[Renumber current 1.4i through k as the new j through l and add a new item i as follows:]

i. Origin/entry SCF: The separation includes bundles for one or more 3-digit areas served by the same sectional center facility (SCF) (see L005) in whose service area the mail is verified/entered. Mailpieces may be separated for each such 3-digit area regardless of the volume of mail. Mailers making these separations must segregate flat trays, approved alternate containers or pallets labeled to destinations within the origin 3-digit area from the remainder of the mailing as described in 366.2.7.

* * * * *

1.5 Preparation Definitions and Instructions

For purposes of preparing mail:

* * * * *

[Revise 1.5b as follows:]

b. An approved alternate container is a container that is authorized by the USPS, instead of a flat tray (tub) or pallet. Alternate containers could include sacks, other USPS-supplied mail transport equipment, or mailer-supplied containers.

[Revise the second sentence of 1.5c as follows:]

c. * * * When standards require 5-digit/scheme sort, mailers must prepare all possible 5-digit scheme bundles and trays or approved authorized containers before preparing 5-digit bundles, and trays or containers. * * *

[Revise item 1.5d as follows:]

d. A 5-digit scheme carrier routes sort is required for Carrier Route Bound Printed Matter flats prepared in trays, or approved alternate containers, or as bundles on pallets and yields a 5-digit scheme carrier routes trays, alternate containers or pallets for those 5-digit ZIP Codes listed in L001 and 5-digit carrier routes trays, alternate containers or pallets for other areas. The 5-digit ZIP Codes in each scheme are treated as one presort destination subject to a single minimum tray, alternate container or pallet volume. Trays, alternate containers or pallets prepared for a 5-digit scheme carrier routes destination that contain carrier route bundles for only one of the schemed 5-digit areas are considered to be sorted to 5-digit scheme carrier routes. Preparation of 5-digit scheme carrier routes trays, alternate containers or pallets must be done for all 5-digit scheme destinations.

* * * * *

[Revise 1.5g as follows:]

g. The required at [quantity] instruction means that the particular unit must be prepared for the corresponding presort level whenever the specified quantity of mail is reached or exceeded, up to the maximum size or weight.

[Revise 1.5h as follows:]

h. The optional at [quantity] instruction means that the particular unit may be prepared for the corresponding presort level whenever the specified quantity is reached or exceeded, up to the maximum size or weight.

* * * * *

[Revise 1.5k as follows:]

k. A “logical” presort destination represents the total number of pieces that are eligible for a specific presort level based on the required sortation, which might not be contained in one bundle or in one container (tray, alternate container or pallet) due to preparation requirements or the size of the individual pieces. For example, there may be 42 mailpieces for ZIP Code 43112 forming a “logical” 5-digit bundle, and the pieces are prepared in three physical 5-digit bundles.

* * * * *

[Add a new 1.6 as follows:]

1.6 Required Pallet Preparation

Mailers must prepare pallets under 705.8 when they reach the minimum load requirements described in 705.8.5.3. If a mailer is unable to palletize, mail must be separated and placed in flat trays or approved alternate containers.

2.0 Bundles

* * * * *

2.2 Address Visibility

* * * This standard does not apply to the following:

[Revise items 2.2a and b as follows:]

a. Bundles placed in or on 5-digit or 5-digit scheme (L001) trays, approved alternate containers or pallets.

b. Bundles placed in carrier route and 5-digit carrier routes trays or approved alternate containers.

* * * * *

2.6 Preparing Bundles

Bundles of flat-size pieces must be secure and stable subject to the following:

* * * * *

[Revise items 2.6b and c as follows:]

b. If placed in trays or approved alternate containers, the applicable weight limits in 5.0 or 6.0.

c. If bundles are prepared as untrayed or uncontainerized bundles under 366.6.2 or 366.6.3, the weight limits and other standards in 2.7.

[Revise title of 2.7 and text of the introductory sentence as follows:]

2.7 Additional Standards for Untrayed Bundles Entered at DDU Facilities

Mailers may enter untrayed or uncontainerized, nonpalletized bundles of flat-size pieces at destination delivery units (DDUs) if all of the following conditions are met:

* * * * *

2.8 Bundle Sizes

[Revise the sixth and seventh sentences of 2.8 as follows:]

* * * Except for mixed ADC bundles and carrier route bundles prepared in trays or approved alternate containers, each physical bundle of Bound Printed Matter must contain at least two pieces. For carrier route Bound Printed Matter prepared in trays or approved alternate containers, the last physical bundle to an individual carrier route may consist of a single addressed piece, provided that all other bundles to that carrier route destination contain at least two addressed pieces, and that the total group of pieces to that carrier route (the logical bundle) meets the carrier route eligibility minimum in 363. * * *

2.9 Pieces With Simplified Addresses

[Revise the last sentence of 2.9 as follows:]

* * * Bundles must be secure and stable subject to weight limits in 705.8.0 if placed on pallets and, for Bound Printed Matter in trays or approved alternate containers, applicable weight limits in 5.0, and 6.0.

* * * * *

[Revise title of 3.0 as follows:]

3.0 Trays and Alternate Containers

[Renumber current 3.1 as the new 3.2 and add a new 3.1 as follows:]

3.1 Standard Containers

If mailers are unable to palletize, mailings must be prepared in flat trays or approved alternate containers.

[Revise title and text of renumbered 3.2 as follows:]

3.2 Tray Preparation

Tray and alternate container preparation is subject to these standards:

a. Each tray or alternate container must bear the correct tray label.

b. The weight of a tray, or alternate container, and its content must not exceed 70 pounds.

[Revise title of 4.0 as follows:]

4.0 Tray Labels

4.1 Basic Standards

[Revise 4.1 as follows:]

Tray labels are subject to the following:

a. Use 2-inch tray labels for trays and approved alternate containers.

b. Labels, including hand-printed labels, must be legible. Machine-printed labels (available from the USPS) ensure legibility.

c. Barcoded tray labels for automation mailings are subject to 4.8 and 708.6.0.

d. Intelligent Mail tray labels, used on trays or alternate containers, are subject to the standards in 708.6.5 and to the specifications posted at http://ribbs.usps.gov.

[Revise title and text of the introductory sentence only of 4.2 as follows:]

4.2 Physical Characteristics of a Tray Label

A tray label must meet these specifications:

* * * * *

[Revise 4.2d as follows]

d. Height (perpendicular to printing): 1.860 inches minimum; 2.015 inches maximum.

[Delete current 4.3, Additional Standards for Barcoded Sack Labels, in its entirety and renumber current items 4.4 through 4.9 as new 4.3 through 4.8.]

4.3 Line 1 (Destination Line)

Line 1 (destination line) must meet these standards:

* * * * *

[Revise renumbered 4.3c as follows:]

c. Overseas Military Mail. On 5-digit trays or alternate containers for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray or alternate container.

4.4 Line 2 (Content Line)

Line 2 (content line) must meet these standards:

[Revise renumbered 4.4a as follows:]

a. Placement: Line 2 must be the second visible line on the label. This line must show the class and processing category of the mail in the tray or alternate container and other information as specified by standards.

* * * * *

[Revise “code” description for nonbarcoded “content type” (10th in list) in the table under 4.5b as follows:]

CONTENT TYPE CODE

* * * * *

Nonbarcoded NON BC (trays or alternate containers) NBC (pallets and cotrayed mail under 705.9.0)

* * * * *

[Revise title and introductory paragraph only of renumbered 4.8 as follows:]

4.8 Basic Standards for Barcoded Tray Labels

Mailers must use barcoded tray labels for barcoded flat-size mailings. Barcoded labels must meet these general standards:

* * * * *

[Revise items 4.9d and e as follows:]

d. Mailers must insert a barcoded label completely into the label holder on the tray or alternate container.

e. Intelligent Mail tray labels must be used on all trays and alternate container for mailings entered under the full-service Intelligent Mail automation option.

5.0 Preparing Presorted Flats

* * * * *

5.2 Bundling

5.2.1 Required Bundling

[Revise the first and fourth sentences of 5.2.1 as follows:]

Mailers must bundle pieces before putting them in trays or approved alternate containers. * * * Five-digit bundles placed in 5-digit trays or approved alternate containers and untrayed 5-digit bundles prepared for DDU entry may weigh a maximum of 40 pounds. * * *

* * * * *

[Revise title of 5.3 and 5.3.1 as follows:]

5.3 Traying

5.3.1 Required Traying

[Revise the introductory paragraph of 5.3.1 as follows:]

Mailers must prepare pallets under 705.8 when they reach the minimum load requirements in 705.8.5.3 or prepare flats as untrayed bundles under 2.7. Otherwise, mailers must prepare a tray or approved alternate container when the quantity of mail for a required presort destination reaches either 20 addressed pieces or 20 pounds, whichever occurs first. Only mixed ADC trays or alternate containers may contain smaller volumes. Optional SCF trays or alternate containers are subject to the same minimum piece or pound provision as required trays. Traying or containerization also is subject to these conditions:

* * * * *

[Revise 5.3.1b as follows:]

b. For nonidentical-weight pieces, mailers must use either the minimum that applies to the average piece weight for the entire mailing or tray by the actual piece count or mail weight for each tray or alternate container, if documentation can be provided that shows the number of pieces and their total weight in each tray or alternate container.

* * * * *

5.3.2 Separation by Zone

[Revise 5.3.2 as follows:]

Pieces for each zone must be trayed or placed in approved alternate containers separately. When presented for verification, trays or alternate containers must be separated by zone. Exception: Pieces for different zones may be trayed together, and the trays or alternate containers do not have to be separated by zone for verification if the mailing is prepared under 705.2.0, 705.3.0, 705.4.0 or 5.3.3.

* * * * *

[Revise title of 5.3.4 as follows:]

5.3.4 Cotraying Presorted Mail With Barcoded Mail

The following standards apply:

[Revise items 5.3.4a and b as follows:]

a. If the mailing job contains only a Presorted mailing qualifying for and claiming the barcode discount and a Presorted mailing not claiming the barcode discount, both mailings must be cotrayed under 705.9.0. The two mailings may be cobundled under 705.11.0 before being cotrayed under 705.9.0.

b. If the mailing job also contains a carrier route mailing, the carrier route mailing must be prepared under 6.0.

[Revise title and text of the introductory paragraph only of 5.3.5 as follows:]

5.3.5 Traying and Labeling

Mailers must segregate trays or alternate containers destined within the origin/entry SCF under 366.2.7. Preparation sequence and labeling:

* * * * *

[Delete 5.6e in its entirety and add new items e through g as follows:]

e. Origin Network Distribution Center (NDC) Network (required); no minimum; labeling:

1. Line 1: L604, Column C.

2. Line 2: “PSVC FLTS NDC NON BC.”

f. Tier 2 Network (required); no minimum; labeling:

1. Line 1: L604, Column C.

2. Line 2: “PSVC FLTS NON BC WKG.”

g. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C.

2. Line 2: “PSVC FLTS NON BC WKG.”

[Add a new 5.4 as follows:]

5.4 Containerization—Flat Tray Preparation and Labeling

Mailers must prepare bundled mail on pallets under 705.8.0 when minimum volume is available for a required pallet level. Mailers who are unable to palletize, or mailers of small volume mailings, must prepare bundles in flat trays or approved alternate containers under 5.4a through 5.4c. Mailers entering mailings at acceptance locations specified in item d below must prepare mailings according to the instructions in 5.4d instead of 5.4c. Preparation sequence and labeling:

a. Origin-Entry 3 Digit (optional); no minimum; when making these separations, mailers must segregate trays as described in 366.2.7; labeling:

1. Line 1: Column A, L002

2. Line 2: “PSVC FLTS 3D NON BC”

b. Origin Network Distribution Center (NDC) Network (required); no minimum; labeling:

1. Line 1: L604, Column C information for the facility serving the 3-digit ZIP Code prefix of entry Post Office.

2. Line 2: “PSVC FLTS NON BC.”

c. Tier 2 Network (required); no minimum; labeling:

1. Line 1: L604, Column C, based on information for the facility serving the 3-digit ZIP Code prefix of entry Post Office.

2. Line 2: “PSVC FLTS NON BC.”

d. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C, based on information for the facility serving the 3-digit ZIP Code prefix of entry Post Office

2. Line 2: “PSVC FLTS NON BC.”

6.0 Preparing Carrier Route Flats

* * * * *

[Revise title of 6.3 and 6.3.1 as follows:]

6.3 Traying

6.3.1 Required Traying

[Revise the introductory paragraph of 6.3.1 as follows:]

Mailers must prepare pallets under 705.8 when they reach the minimum load requirements described in 705.8.5.3 or may prepare flats as untrayed bundles under 2.7. Otherwise, mailers must prepare a direct carrier route tray or approved alternate container when the quantity of mail for an individual carrier route reaches either 20 addressed pieces or 20 pounds, whichever occurs first; smaller volumes are not permitted. Mailers must place remaining bundles in 5-digit scheme carrier routes trays or alternate containers, or 5-digit carrier routes trays or alternate containers, which have no minimum tray or container size. Carrier route trays or alternate containers also are subject to these conditions:

* * * * *

[Revise 6.3.1b as follows:]

b. For nonidentical-weight pieces, mailers must use either the minimum that applies to the average piece weight for the entire mailing or tray the mail by the actual piece count or mail weight for each tray or alternate container, if documentation can be provided with the mailing that shows the number of pieces and the total weight in each tray or alternate container.

6.3.2 Separation by Zone

[Revise 6.3.2 as follows:]

Pieces for each zone must be trayed or placed in approved alternate containers separately. When presented for verification, trays or alternate containers must be separated by zone. Exception: Pieces for different zones may be trayed or placed in alternate containers together, and the trays or alternate containers do not have to be separated by zone for verification if the mailing is prepared under one of the postage payment systems in 705.2.0 through 705.4.0 or under 6.3.3.

* * * * *

[Revise title and text of the introductory paragraph of 6.3.5 as follows:]

6.3.5 Tray Preparation

Mailers must segregate trays or alternate containers destined within the origin/entry SCF under 366.2.7. Preparation sequence and Line 1 tray labeling:

* * * * *

[Revise title of 6.3.6 as follows:]

6.3.6 Tray Label Line 2

* * * * *

[Revise title and text of 6.3.7 as follows:]

6.3.7 Exception to Traying

Traying or containerization is not required for bundles that are entered at DDU prices; such bundles may be bedloaded and may weigh up to 40 pounds each.

7.0 Preparing Barcoded Flats

7.1 Basic Standards

[Revise the second and third sentences of 7.1 as follows:]

* * * Bundle, tray or approved alternate container preparation is subject to 365.0. Trays or alternate containers must bear the appropriate barcoded tray labels under 4.9.

* * * * *

[Revise title of 7.4 as follows:]

7.4 Traying

[Revise title and introductory paragraph of 7.4.1 as follows:]

7.4.1 Tray Preparation and Labeling

Mailers must segregate trays or alternate containers destined within the origin/entry SCF under 366.2.7. Preparation sequence and labeling:

* * * * *

[Delete current item 7.4.1e in its entirety and add new items e through g as follows:]

e. Origin Network Distribution Center (NDC) Network (required); no minimum; labeling:

1. Line 1: L604, Column C.

2. Line 2: “PSVC FLTS NDC BC.”

f. Tier 2 Network (required); no minimum; labeling:

1. Line 1: L604, Column C.

2. Line 2: “PSVC FLTS BC WKG.”

g. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C.

2. Line 2: “PSVC FLTS BC WKG.”

[Renumber current items 7.5 through 7.5.2 as new 7.6 through 7.6.2 and add a new 7.5 as follows:]

7.5 Containerization—Flat Tray Preparation and Labeling

Mailers must prepare bundled mail on pallets under 705.8.0 when minimum volume is available for a required pallet level. Mailers who are unable to palletize, or mailers of small volume mailings, must prepare bundles in flat trays or approved alternate containers as shown in 7.5a through 7.5c. Mailers entering mailings at acceptance locations specified in item d below must prepare mailings according to the instructions in 7.5d instead of 7.5c. Preparation sequence and labeling:

a. Origin-Entry 3 Digit (optional); no minimum; when making these separations, mailers must segregate trays under 366.2.7; labeling:

1. Line 1: Column A, L002

2. Line 2: “PSVC FLTS 3D BC.”

b. Origin Network Distribution Center (NDC) Network (required); no minimum; labeling:

1. Line 1: L604, Column C information for the facility serving the 3-digit ZIP Code prefix of entry Post Office.

2. Line 2: “PSVC FLTS BC WKG.”

c. Tier 2 Network (required); no minimum; labeling:

1. Line 1: L604, Column C, based on information for the facility serving the 3-digit ZIP Code prefix of entry Post Office.

2. Line 2: “PSVC FLTS BC WKG.”

d. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C, based on information for the facility serving the 3-digit ZIP Code prefix of entry Post Office.

2. Line 2: “PSVC FLTS BC WKG.”

7.6 Mixed Price Preparation

[Revise title of renumbered 7.6.1 as follows:]

7.6.1 Cobundling and Cotraying Mixed Mail

The following standards apply to Bound Printed Matter:

[Revise renumbered 7.6.1a and b as follows:]

a. If the mailing job contains a carrier route mailing, a Presorted mailing qualifying for and claiming the barcode discount under 363.6.1, and a Presorted mailing (not claiming the barcode discount), then the carrier route mailing must be prepared under 6.0, and the Presorted mailing qualifying for and claiming the barcode discount and the Presorted mailing (not claiming the barcode discount) must be cotrayed under 705.9.0. As an option, the Presorted pieces may be cobundled together under 705.11.0. Cobundled pieces must be cotrayed under 705.9.0.

b. If the mailing job contains only a Presorted mailing qualifying for and claiming the barcode discount and a Presorted mailing (not claiming the barcode discount), both mailings must be cotrayed under 705.9.0. As an option, the Presorted pieces may be cobundled together under 705.11.0. Cobundled pieces must be cotrayed under 705.9.0.

* * * * *

7.6.2 Merged Containerization

[Revise renumbered 7.6.2 as follows:]

When the conditions and preparation standards in 705.10.0, 705.12.0, or 705.13.0 are met, 5-digit bundles of Presorted (barcoded and nonbarcoded pieces) and carrier route mail that are part of the same mailing job and class of mail may be combined on merged 5-digit scheme pallets, trays or approved alternate containers and merged 5-digit pallets, trays or approved alternate containers. Barcode discount pieces may be cobundled with presorted pieces under 705.11.0

366 Enter and Deposit

* * * * *

2.0 Presenting a Mailing

* * * * *

[Add a new 2.7 as follows:]

2.7 Segregation of Origin SCF Trays

Mailers must make all required, and may make any optional, origin/entry SCF, origin 3-digit (scheme) and origin/entry 5-digit trays destinating in the service area of the SCF serving the Post Office where the mail is verified, or the service area of the SCF/plant where mail is entered. For all such separations, mailpieces must be trayed or placed in alternative containers under 365.0 and segregated from the remainder of the mailing. Mailers must segregate the origin/entry trays by one of these methods: separately containerize the trays; place the trays in a conspicuous location on top of origin SCF pallet or other container; or present them separately to acceptance personnel.

* * * * *

3.0 Destination Entry

3.1 General

[Revise the second sentence of 3.1 as follows:]

* * * Eligibility for a destination entry price is determined by the sort level, processing category of the mail, and the type of container the mail is in (pallet, tray or alternate container). * * *

* * * * *

[Revise title and the first sentence of the text of 3.7 as follows:]

3.7 Mailings of Untrayed Bundles

Mailers may present untrayed, or uncontainerized, nonpalletized bundles of BPM flats that are properly prepared for and entered at DDU prices and unloaded according to standards in 3.9.9. * * *

* * * * *

4.0 Destination Network Distribution Center (DNDC) Entry

4.1 Eligibility

Pieces in a mailing meeting the standards in 3.0 and 4.0 are eligible for the DNDC price when they meet all of the following conditions:

* * * * *

[Revise 4.1d as follows:]

d. Are placed on a pallet, or placed in a tray or approved alternate container, that is labeled to the NDC or ASF where deposited, or labeled to a postal facility within that NDCs or ASFs service area (see Exhibit 4.1).

* * * * *

4.2 Presorted Flats

[Revise 4.2 as follows:]

Presorted flats on pallets, or placed in trays or approved alternate containers, at all sort levels may claim DNDC prices. Separate mixed ADC trays or alternate containers must be prepared for flats eligible for and claimed at the DNDC price and for flats not claimed at the DNDC price. Use the “label to” ZIP Code of the ADC to assign ADC bundles to the respective mixed ADC tray or alternate container. Use the address on the mailpieces to assign pieces to the respective mixed ADC bundle. All pieces in an ADC tray, alternate container or in a palletized ADC bundle are eligible for the DNDC discount if the ADC facility ZIP Code (shown in Line 1 of the corresponding tray label or the ADC facility that is the destination of the palletized ADC bundle as would be shown on an ADC tray label for that facility using L004, Column B) is within the service area of the NDC or ASF at which the tray or alternate container is deposited. Mail must be entered at the appropriate facility under 4.1.

4.3 Carrier Route Flats

[Revise the first sentence of 4.3 as follows:]

Carrier Route flats on pallets, or in trays or alternate containers, at all sort levels may claim DNDC prices. * * *

5.0 Destination Sectional Center Facility (DSCF) Entry

5.1 Eligibility

Pieces in a mailing meeting the standards in 3.0 and 5.0 are eligible for the DSCF price when they meet all of the following conditions:

* * * * *

[Revise 5.1d as follows:]

d. Are placed on a pallet, or placed in a tray or authorized alternate container, that is labeled to the facility where deposited or labeled to a postal facility within that facility's service area.

* * * * *

5.2 Presorted Flats

[Revise the first sentence of 5.2 as follows:]

Presorted flats and automation flats in trays or alternate containers for the 5-digit, 3-digit, and SCF sort levels or on pallets at the 5-digit scheme, 5-digit, 3-digit, SCF, and ASF sort levels may claim DSCF prices. * * *

5.3 Carrier Route Flats

[Revise the first sentence of 5.3 as follows:]

Carrier route flats in trays, or alternate containers, at all sort levels or on pallets at the 5-digit scheme carrier routes, 5-digit carrier routes, 3-digit, SCF, and ASF sort levels may claim DSCF prices. * * *

6.0 Destination Delivery Unit (DDU) Entry

* * * * *

6.2 Presorted Flats

[Revise the first sentence of 6.2 as follows:]

Presorted flats that weigh more than 1 pound in 5-digit trays or alternate containers, on 5-digit scheme or 5-digit pallets, or prepared as untrayed or uncontainerized 5-digit bundles may claim DDU prices. * * *

6.3 Carrier Route Flats

[Revise the first sentence of 6.3 as follows:]

Carrier route flats in trays or alternate containers, on 5-digit carrier routes scheme and 5-digit carrier routes pallets, or prepared as untrayed or uncontainerized carrier route bundles may claim DDU prices. * * *

* * * * *

370 Media Mail

373 Prices and Eligibility

* * * * *

3.0 Price Eligibility for Media Mail Flats

* * * * *

3.4 Price Categories for Media Mail

Media Mail prices are based on the weight of the piece without regard to zone. The price categories and discounts are as follows:

[Revise 3.4a as follows:]

a. 5-Digit Presort Price. To qualify for the 5-digit price, a piece must be sorted to 5-digit trays or approved alternate containers under 375.5.0, or 5-digit pallets under 705.8.0. All logical 5-digit bundles on pallets must contain at least 10 pieces.

* * * * *

375 Mail Preparation

1.0 General Information for Mail Preparation

* * * * *

1.3 Terms for Presort Levels

Terms used for presort levels are defined as follows:

* * * * *

[Revise 1.3b as follows:]

b. 5-digit scheme (bundles, trays or approved alternate containers) for flats meeting the automation-compatibility standards in 301.3.0; the ZIP Code in the delivery address on all pieces begins with one of the 5-digit ZIP Code ranges in a single scheme, as shown in L007.

* * * * *

1.4 Preparation Definitions and Instructions

For purposes of preparing mail:

* * * * *

[Revise 1.4b as follows:]

b. An approved alternate container is a container that is authorized by the appropriate USPS official, instead of a flat tray (tub) or pallet, for the handling and transport of bundled flat-size mailpieces or parcels. Alternate containers could include sacks, other USPS-supplied mail transport equipment, or mailer-supplied containers.

[Revise the second sentence of 1.4c as follows:]

c. * * * When standards require 5-digit/scheme sort, mailers must prepare all possible 5-digit scheme bundles and trays, or approved alternate containers of flats before preparing 5-digit bundles and trays (or approved alternate containers). * * *

* * * * *

[Revise 1.4e as follows:]

e. The required at [quantity] instruction means that the particular unit must be prepared for the corresponding presort level whenever the specified quantity of mail is reached or exceeded, up to the maximum size or weight.

[Revise 1.4f as follows:]

f. The optional at [quantity] instruction means that the particular unit may be prepared for the corresponding presort level whenever the specified quantity is reached or exceeded, up to the maximum size or weight.

* * * * *

[Add a new 1.5 as follows:]

1.5 Required Pallet Preparation

Mailers must prepare pallets under 705.8 when they have reached the minimum load requirements described in 705.8.5.3. If a mailer is unable to palletize, mail must be separated and placed in properly labeled flat trays or approved alternate containers.

2.0 Bundles

* * * * *

2.6 Preparing Bundles

Bundles of flat-size pieces must be secure and stable subject to the following:

* * * * *

[Revise 2.6b as follows:]

b. If placed in trays or approved alternate containers, Media Mail must meet the specific weight limits in 5.2.

2.7 Bundle Sizes

[Revise the fifth sentence of 2.7 as follows:]

* * * Unless otherwise noted, the maximum weight for bundles placed in trays or approved alternate containers is 20 pounds. * * *

* * * * *

[Revise title of 3.0 as follows:]

3.0 Trays and Alternate Containers

[Revise title and text of 3.1 as follows:]

3.1 Standard Containers

If mailers are unable to palletize, mailings must be prepared in flat trays or approved alternate containers.

[Add a new 3.2 as follows:]

3.2 Tray Preparation

Tray and alternate container preparation is subject to these standards:

a. Each tray or alternate container must bear the correct tray label.

b. The weight of a tray, or alternate container, and its content must not exceed 70 pounds.

[Revise title of 4.0 as follows:]

4.0 Tray Labels

4.1 Basic Standards

[Revise 4.1 as follows:]

Tray labels are subject to the following:

a. Use 2-inch labels for trays and approved alternate containers.

b. Illegible labels are not acceptable. Machine-printed labels (available from the USPS) ensure legibility. Legible hand-printed labels are acceptable.

[Revise title and text of the introductory sentence of 4.2 as follows:]

4.2 Physical Characteristics of a Tray Label

A tray label must meet these specifications:

* * * * *

[Revise 4.2d as follows:]

d. Height (perpendicular to printing): 1.860 inches minimum; 2.015 inches maximum.

[Renumber current items 4.3 through 4.7 as the new 4.4 through 4.8 and add a new 4.3 as follows:]

4.3 Additional Standards for Barcoded Tray Labels

In addition to 4.2, barcoded tray labels must meet the standards in 4.9 and 708.6.3.

4.4 Line 1 (Destination Line)

Line 1 (destination line) must meet these standards:

* * * * *

[Revise 4.4c as follows:]

c. Overseas Military Mail. On 5-digit trays or approved alternate containers for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray or alternate container.

4.5 Line 2 (Content Line)

Line 2 (content line) must meet these standards:

[Revise 4.5a as follows:]

a. Placement: Line 2 must be the second visible line on the label. This line must show the class and processing category of the mail in the tray or alternate container and other information as specified by standards.

* * * * *

[Add a new 4.9 as follows:]

4.9 Basic Standards for Barcoded Tray Labels

Trays or approved alternate containers may bear barcoded tray labels meeting these general standards:

a. Mailers must use the appropriate size label as described in 4.1.

b. Mailer-produced barcoded labels must meet the standards in 708.6.0.

c. All information on barcoded labels must be machine-printed. Do not make alterations to preprinted barcoded labels.

d. Mailers must insert a barcoded label completely into the label holder on the tray or alternate container.

e. Intelligent Mail tray labels (see 708.6.0) may optionally be used on trays or alternate containers.

5.0 Preparing Presorted Flats

* * * * *

5.2 Bundling

5.2.1 Required Bundling

[Revise the third sentence of 5.2.1 as follows:]

* * * The maximum weight of each physical bundle is 20 pounds, except that 5-digit bundles placed in 5-digit tray or approved alternate container may weigh a maximum of 40 pounds. * * *

* * * * *

[Revise title of 5.3 and 5.3.1 as follows:]

5.3 Traying

5.3.1 Required Traying

[Revise the introductory paragraph of 5.3.1 as follows:]

Mailers must prepare pallets under 705.8 when they have reached the minimum load requirements described in 705.8.5.3. Otherwise, mailers must prepare a tray or approved alternate container when the quantity of mail for a required presort destination reaches the minimums specified in 5.3.2. Smaller volumes are not permitted (except in mixed ADC trays or alternate containers).

[Revise title and text of the introductory paragraph only of 5.3.2 as follows:]

5.3.2 Traying and Labeling

Mailers must segregate trays or alternate containers destined within the origin/entry SCF as described in 376.2.1. Preparation sequence and labeling:

a. 5-digit/scheme (optional, but required for 5-digit price); see 1.4c; scheme sort required, only for pieces meeting the automation-compatibility criteria in 301.3.0; minimum 10 addressed pieces; when making these separations; labeling:

[Revise items 5.3.2a1 and 5.3.2a2 as follows:]

1. Line 1: For 5-digit scheme trays or alternate containers, use L007, Column B. For 5-digit trays or alternate containers, use city, state, and 5-digit ZIP Code on mail (see 4.5 for overseas military mail).

2. Line 2: For 5-digit scheme trays or alternate containers, “PSVC FLT 5D SCH NBC.” For 5-digit trays or alternate containers, “PSVC FLT 5D NBC.”

* * * * *

[Delete 5.3.2d in its entirety and add new items d through f as follows:]

d. Origin Network Distribution Center (NDC) Network (required); no minimum; labeling:

1. Line 1: L604, Column B.

2. Line 2: “PSVC FLTS NDC NON BC.”

e. Tier 2 Network (required); no minimum; labeling:

1. Line 1: L604, Column C.

2. Line 2: “PSVC FLTS NON BC WKG.”

f. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C.

2. Line 2: “PSVC FLTS NON BC WKG.”

[Add a new 5.4 as follows:]

5.4 Containerization—Flat Tray Preparation and Labeling

For mail prepared in bundles, mailers must prepare pallets under 705.8.0 when minimum volume is available for a required pallet level. Mailers who are unable to palletize, or mailers of small volume mailings, must prepare bundles in flat trays or approved alternate containers under 5.4a through 5.4c. Mailers entering mailings at acceptance locations specified in item 5.4d must prepare mailings according to the instructions in 5.4d instead of 5.4c. Preparation sequence and labeling:

a. Origin-Entry 3 Digit (optional); no minimum; when making these separations, mailers must segregate trays under 376.2.1; labeling:

1. Line 1: Column A, L002

2. Line 2: “PSVC FLTS 3D NON BC

b. Origin Network Distribution Center (NDC) Network (required); no minimum; labeling:

1. Line 1: L604, Column C information for the facility serving the 3-digit ZIP Code prefix of entry Post Office.

2. Line 2: “PSVC FLTS NON BC.”

c. Tier 2 Network (required); no minimum; labeling:

1. Line 1: L604, Column C, based on information for the facility serving the 3-digit ZIP Code prefix of entry Post Office.

2. Line 2: “PSVC FLTS NON BC.”

d. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C, based on information for the facility serving the 3-digit ZIP Code prefix of entry Post Office

2. Line 2: “PSVC FLTS NON BC.”

376 Enter and Deposit

* * * * *

[Add a new 2.0 and 2.1 as follows:]

2.0 Presenting a Mailing

2.1 Segregation of Origin SCF Trays

Mailers must make all required, and may make any optional, origin/entry 3-digit and origin/entry 5-digit (scheme) trays destinating in the service area of the SCF serving the Post Office where the mail is verified, or the service area of the SCF/plant where mail is entered. For all such separations, mailpieces must be trayed or placed in alternative containers under 375.0 and segregated from the remainder of the mailing. Mailers must segregate the origin/entry trays by one of these methods: separately containerize the trays; place the trays in a conspicuous location on top of origin SCF pallet or other container; or present them separately to acceptance personnel.

380 Library Mail

383 Prices and Eligibility

* * * * *

3.0 Price Eligibility for Library Mail Flats

* * * * *

3.4 Price Categories for Library Mail

Library Mail prices are based on the weight of the piece without regard to zone. The price categories and discounts are as follows:

[Revise the second sentence of 3.4a as follows:]

a. * * * To qualify for the 5-digit price, a piece must be sorted to 5-digit trays or approved alternate containers under 385.5.0 or to 5-digit pallets under 705.8.0. * * *

* * * * *

385 Mail Preparation

1.0 General Information for Mail Preparation

* * * * *

1.3 Terms for Presort Levels

Terms used for presort levels are defined as follows:

* * * * *

[Revise 1.3b as follows:]

b. 5-digit scheme (bundles, trays and approved alternate containers) for flats meeting the automation-compatibility standards in 301.3.0: the ZIP Code in the delivery address on all pieces begins with one of the 5-digit ZIP Code ranges processed in a single scheme, as shown in L007.

* * * * *

1.4 Preparation Definitions and Instructions

For purposes of preparing mail:

* * * * *

[Revise 1.4b as follows:]

b. An approved alternate container is a container that is authorized by the appropriate USPS official, instead of a flat tray (tub) or pallet, for the handling and transport of bundled flat-size mailpieces or parcels. Alternate containers could include sacks, other USPS-supplied mail transport equipment, or mailer-supplied containers.

[Revise the second sentence of 1.4c as follows:]

c. * * * When standards require 5-digit/scheme sort, mailers must prepare all possible 5-digit scheme bundles and trays, or alternate containers of flats before preparing 5-digit bundles and trays (or alternate containers). * * *

* * * * *

[Revise 1.4e as follows:]

e. The required at [quantity] instruction means that the particular unit must be prepared for the corresponding presort level whenever the specified quantity of mail is reached or exceeded, up to the maximum size or weight.

[Revise 1.4f as follows:]

f. The optional at [quantity] instruction means that the particular unit may be prepared for the corresponding presort level whenever the specified quantity is reached or exceeded, up to the maximum size or weight.

* * * * *

[Add a new 1.5 as follows:]

1.5 Required Pallet Preparation

Mailers must prepare pallets under 705.8 when they have reached the minimum load requirements described in 705.8.5.3. If a mailer is unable to palletize, mail must be separated and placed in properly labeled flat trays or approved alternate containers.

2.0 Bundles

* * * * *

2.6 Preparing Bundles

Bundles of flat-size pieces must be secure and stable subject to the following:

* * * * *

[Revise 2.6b as follows:]

b. If placed in trays or approved alternate containers, Library Mail must meet the specific weight limits in 5.2

* * * * *

[Revise title of 3.0 as follows:]

3.0 Trays and Alternate Containers

[Revise title and text of 3.1 as follows:]

3.1 Standard Containers

If mailers are unable to palletize, mailings must be prepared in flat trays or approved alternate containers.

[Add a new 3.2 as follows:]

3.2 Tray Preparation

Tray and alternate container preparation is subject to these standards:

a. Each tray or alternate container must bear the correct tray label.

b. The weight of a tray, or alternate container, and its content must not exceed 70 pounds.

[Revise title of 4.0 as follows:]

4.0 Tray Labels

4.1 Basic Standards

[Revise 4.1 as follows:]

Tray labels are subject to the following:

a. Use 2-inch labels for trays and approved alternate containers.

b. Illegible labels are not acceptable. Machine-printed labels (available from the USPS) ensure legibility. Legible hand-printed labels are acceptable.

[Revise title and text of the introductory sentence of 4.2 as follows:]

4.2 Physical Characteristics of a Tray Label

A tray label must meet these specifications:

* * * * *

[Revise 4.2d as follows:]

d. Height (perpendicular to printing): 1.860 inches minimum; 2.015 inches maximum.

[Renumber current 4.3 through 4.7 as the new 4.4 through 4.8 and add a new 4.3 as follows:]

4.3 Additional Standards for Barcoded Tray Labels

In addition to 4.2, barcoded tray labels must meet the standards in 4.9 and 708.6.3.

4.4 Line 1 (Destination Line)

Line 1 (destination line) must meet these standards:

* * * * *

[Revise 4.4c as follows:]

c. Overseas Military Mail. On 5-digit trays or approved alternate containers for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray or alternate container.

4.5 Line 2 (Content Line)

Line 2 (content line) must meet these standards:

[Revise 4.5a as follows:]

a. Placement: Line 2 must be the second visible line on the label. This line must show the class and processing category of the mail in the tray or alternate container and other information as specified by standards.

* * * * *

[Add a new 4.9 as follows:]

4.9 Basic Standards for Barcoded Tray Labels

Trays or approved alternate containers may bear barcoded tray labels. When used, barcoded labels must meet these general standards:

a. Mailers must use the appropriate size label as described in 4.1.

b. Mailer-produced barcoded labels must meet the standards in 708.6.0.

c. All information on barcoded labels must be machine-printed. Do not make alterations to preprinted barcoded labels.

d. Mailers must insert a barcoded label completely into the label holder on the tray or alternate container.

e. Intelligent Mail tray labels (see 708.6.0) may optionally be used on trays or alternate containers.

5.0 Preparing Presorted Flats

* * * * *

5.2 Bundling

5.2.1 Required Bundling

[Revise the third sentence of 5.2.1 as follows:]

* * * The maximum weight of each physical bundle is 20 pounds, except that 5-digit bundles placed in 5-digit tray or approved alternate container may weigh a maximum of 40 pounds. * * *

* * * * *

[Revise title of 5.3 and 5.3.1 as follows:]

5.3 Traying

5.3.1 Required Traying

[Revise the introductory paragraph of 5.3.1as follows:]

Mailers must prepare pallets under 705.8 when they have reached the minimum load requirements described in 705.8.5.3. Otherwise, mailers must prepare a tray or approved alternate container when the quantity of mail for a required presort destination reaches the minimums specified in 5.3.2. Smaller volumes are not permitted (except in mixed ADC trays or alternate containers).

[Revise title and text of introductory paragraph only of 5.3.2 as follows:]

5.3.2 Traying and Labeling

Mailers must segregate trays or alternate containers destined within the origin/entry SCF under 386.2.1. Preparation sequence and labeling:

* * * * *

[Revise item 5.3.2a1 and 5.3.2a2 as follows:]

1. Line 1: For 5-digit scheme trays or alternate containers, use L007, Column B. For 5-digit trays or alternate containers, use city, state, and 5-digit ZIP Code on mail (see 4.5 for overseas military mail).

2. Line 2: For 5-digit scheme trays or alternate containers, “PSVC FLT 5D SCH NBC.” For 5-digit trays or alternate containers, “PSVC FLT 5D NBC.”

* * * * *

[Delete item 5.3.2d in its entirety and add new items d through f as follows:]

d. Origin Network Distribution Center (NDC) Network (required); no minimum; labeling:

1. Line 1: L604, Column C.

2. Line 2: “PSVC FLTS NDC NON BC.”

e. Tier 2 Network (required); no minimum; labeling:

1. Line 1: L604, Column C.

2. Line 2: “PSVC FLTS NON BC WKG.”

f. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C.

2. Line 2: “PSVC FLTS NON BC WKG.”

[Add a new 5.4 as follows:]

5.4 Containerization—Flat Tray Preparation and Labeling

For mail prepared in bundles, mailers must prepare pallets under 705.8.0 when minimum volume is available for a required pallet level. Mailers who are unable to palletize, or mailers of small volume mailings, must prepare bundles in flat trays or approved alternate containers as shown in 5.4a through 5.4c. Mailers entering mailings at acceptance locations specified in 5.4d must prepare mailings according to the instructions in 5.4d instead of 5.4c. Preparation sequence and labeling:

a. Origin-Entry 3 Digit (optional); no minimum; when making these separations, mailers must segregate trays under 346.1.3; labeling:

1. Line 1: Column A, L002.

2. Line 2: “PSVC FLTS 3D NON BC.”

b. Origin Network Distribution Center (NDC) Network (required); no minimum; labeling:

1. Line 1: L604, Column C. information for the facility serving the 3-digit ZIP Code prefix of entry Post Office

2. Line 2: “PSVC FLTS NON BC.”

c. Tier 2 Network (required); no minimum; labeling:

1. Line 1: L604, Column C, based on information for the facility serving the 3-digit ZIP Code prefix of entry Post Office.

2. Line 2: “PSVC FLTS NON BC.”

d. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C, based on information for the facility serving the 3-digit ZIP Code prefix of entry Post Office

2. Line 2: “PSVC FLTS NON BC.”

386 Enter and Deposit

* * * * *

[Add a new 2.0 as follows:]

2.0 Presenting a Mailing

2.1 Segregation of Origin SCF Trays

Mailers must make all required, and may make any optional, origin/entry 3-digit and origin/entry 5-digit (scheme) trays destinating in the service area of the SCF serving the Post Office where the mail is verified, or the service area of the SCF/plant where mail is entered. For all such separations, mailpieces must be trayed or placed in alternative containers under 385.0 and segregated from the remainder of the mailing. Mailers must segregate the origin/entry trays by one of these methods: separately containerize the trays; place the trays in a conspicuous location on top of origin SCF pallet or other container; or present them separately to acceptance personnel.

400 Commercial Parcels

* * * * *

430 First-Class Mail

433 Prices and Eligibility

1.0 Prices and Fees for First-Class Mail

* * * * *

1.4 Surcharge

[Revise the introductory sentence of 1.4 as follows:]

Unless prepared in 5-digit/scheme trays, sacks, or approved alternate containers; or paid at the single-piece prices, presorted parcels are subject to a surcharge if any of the following characteristics apply:

* * * * *

4.0 Price Eligibility for Presorted First-Class Mail Parcels

4.1 5-Digit Price

[Revise 4.1 as follows:]

The 5-digit price applies to presorted parcels in a 5-digit/scheme tray, sack or approved alternate container containing at least 10 pounds of parcels.

4.2 3-Digit Price

[Revise 4.2 as follows:]

The 3-digit price applies to presorted parcels in a 3-digit tray or approved alternate container containing at least 10 pounds of parcels.

4.3 ADC Price

[Revise 4.3 as follows:]

The ADC price applies to presorted parcels in a 3-digit origin tray or approved alternate container (no minimum), and to parcels in an ADC tray or approved alternate container containing at least 10 pounds of parcels.

4.4 Single-Piece Price

[Revise 4.4 as follows:]

The single-piece price applies to presorted parcels in a mixed ADC tray or approved alternate container, with no minimum volume requirement.

* * * * *

435 Mail Preparation

1.0 General Information for Mail Preparation

* * * * *

1.4 Preparation Definitions and Instructions

For purposes of preparing mail:

* * * * *

[Resequence current items 1.4c through f as the new d through g and add a new item c as follows:]

c. An approved alternate container is a container that is authorized by the appropriate USPS official, instead of a flat tray (tub) or pallet, for the handling and transport of bundled flat-size mailpieces or parcels. Alternate containers could include sacks, other USPS-supplied mail transport equipment, or mailer-supplied containers.

[Revise resequenced 1.4d as follows:]

d. An origin/entry 3-digit tray or approved alternate container contains all mail (regardless of quantity) for a 3-digit ZIP Code area processed by the SCF in whose service area the mail is verified/entered. Mailpieces may be optionally separated for each such 3-digit area regardless of the volume of mail. These separations are optional, but mailers making these separations must segregate flat trays, approved alternate containers or pallets labeled to destinations within the origin 3-digit area be segregated from the remainder of the mailing as described in 436.1.5.

* * * * *

[Revise resequenced 1.4g as follows:]

g. A “logical” presort destination represents the total number of pieces in a mailing that are eligible for a specific presort level based on the required sortation, but which might not be contained in one container (tray, alternate container or pallet) due to preparation requirements or the size of the individual pieces.

[Add a new 1.5 as follows:]

1.5 Required Pallet Preparation

Mailers must prepare pallets under 705.8 when they have reached the minimum load requirements described in 705.8.5.3. If a mailer is unable to palletize, mail must be separated and placed in properly labeled flat trays or approved alternate containers.

[Revise title of 2.0 as follows:]

2.0 Trays and Alternate Containers

[Delete current 2.1, Presort, in its entirety, renumber current 2.2 and 2.3 as the new 2.1 and 2.2, and revise renumbered 2.1 as follows:]

2.1 Standard Containers

If mailers are unable to palletize, mailings must be prepared in flat trays, sacks (for 5-digit or 5-digit scheme separations), or approved alternate containers. A postmaster may authorize nonpostal containers for a small-volume presorted mailing if the mailing weighs no more than 20 pounds, consists primarily of mail or bundles of mail for local ZIP Codes, and requires no USPS transportation for processing.

[Revise title and text of renumbered 2.2 as follows:]

2.2 Tray Preparation

Tray, alternate container or sack preparation is subject to these standards:

a. Each tray, alternate container or sack must bear the correct tray label.

b. The weight of a tray, alternate container or sack, and its content must not exceed 70 pounds.

[Revise title of 3.0 as follows:]

3.0 Tray Labels

3.1 Basic Standards

[Revise 3.1 as follows:]

Tray labels are subject to the following:

a. Use 2-inch tray labels for trays, approved alternate containers and sacks.

b. Illegible labels are not acceptable. Machine-printed labels (available from the USPS) ensure legibility. Legible hand-printed labels are acceptable.

c. Barcoded tray labels are subject to 3.9 and 708.6.0.

[Renumber 3.2 through 3.7 as the new 3.3 through 3.8 and add a new 3.2 as follows:]

3.2 Physical Characteristics of a Tray Label

A tray label must meet these specifications:

a. Color: white or manila.

b. Weight: 70-pound or heavier stock (required for mailings of automation-compatible flats, optional for others).

c. Length (parallel to printing): 3.250 inches minimum; 3.515 inches maximum.

d. Height (perpendicular to printing): 1.860 inches minimum; 2.015 inches maximum.

3.3 Line 1 (Destination Line)

Line 1 (destination line) must meet these standards:

* * * * *

[Revise renumbered 3.3c as follows:]

c. Overseas Military Mail. On 5-digit trays, approved alternate containers or sacks for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray, alternate container or sack.

3.4 Line 2 (Content Line)

Line 2 (content line) must meet these standards:

[Revise renumbered 3.4a and b as follows:]

a. Placement: Line 2 must be the second visible line on the label. This line must show the class and processing category of the mail in the tray, alternate container or sack and other information as specified by standards.

b. Codes: The codes shown below must be used as appropriate on Line 2 of tray labels.

* * * * *

3.5 Line 3 (Origin Line)

[Revise the first sentence of renumbered 3.5 as follows:]

Line 3 (origin line showing office of mailing or mailer information) must be the bottom line of required information unless the tray, alternate container or sack contains mail manifested using the Electronic Verification System (eVS) under 705.2.9. * * *

3.6 Electronic Verification System

[Revise renumbered 3.6 as follows:]

All trays, alternate containers or sacks containing parcels prepared and identified using the Electronic Verification System (eVS) under 705.2.9 must show “eVS” (or the alternatives “EVS” or “E-VS”) directly below Line 3 using the same size and lettering used for Line 3. As an option, “eVS” may be placed as the first element on Line 3.

* * * * *

[Add a new 3.9 as follows:]

3.9 Basic Standards for Barcoded Tray Labels

Trays, approved alternate containers or sacks may bear barcoded tray labels. When used, barcoded labels must meet these general standards:

a. Mailers must use the appropriate size label as described in 3.1.

b. Mailer-produced barcoded labels must meet the standards in 708.6.0.

c. All information on barcoded labels must be machine-printed. Do not make alterations to preprinted barcoded labels.

d. Mailers must insert a barcoded label completely into the label holder on the tray or alternate container.

e. Intelligent Mail tray labels (see 708.6.0) may optionally be used on trays or alternate containers.

4.0 Preparing Presorted Parcels

* * * * *

[Revise title and text of the introductory paragraph only of 4.4 as follows:]

4.4 Containerization and Labeling

Mailers must segregate trays, approved alternate containers or sacks destined within the origin/entry SCF as described in 436.1.5. Preparation sequence and labeling:

* * * * *

[Revise 4.4a1 and 4.4a2 as follows:]

1. Line 1: For 5-digit scheme trays, alternate containers or sacks use L606, Column B. For 5-digit trays, alternate containers or sacks use city, state, and 5-digit ZIP Code on mail (see 3.2c for overseas military mail).

2. Line 2: For 5-digit scheme trays, alternate containers or sacks, “FCM PARCELS 5D SCH.” For 5-digit trays, alternate containers or sacks, “FCM PARCELS 5D.”

* * * * *

436 Enter and Deposit

1.0 Deposit

* * * * *

[Revise 1.0 by adding a new 1.5 as follows:]

1.5 Segregation of Origin SCF Trays

Mailers must make all required, and may make any optional, origin/entry 3-digit and origin/entry 5-digit (scheme) trays destinating in the service area of the SCF serving the Post Office where the mail is verified, or the service area of the SCF/plant where mail is entered. For all such separations, mailpieces must be trayed or placed in alternative containers under 435.4 and segregated from the remainder of the mailing. Mailers must segregate the origin/entry trays by one of these methods: separately containerize the trays; place the trays in a conspicuous location on top of origin SCF pallet or other container; or present them separately to acceptance personnel.

* * * * *

440 Standard Mail

443 Prices and Eligibility

* * * * *

3.0 Basic Standards for Standard Mail Parcels

* * * * *

3.3 Additional Basic Standards for Standard Mail

Each Standard Mail mailing is subject to these general standards:

[Revise 3.3a as follows:]

a. All pieces in a mailing must be of the same processing category, except that irregular and machinable parcels may be combined in 5-digit scheme and 5-digit trays, approved alternate containers or sacks, or on 5-digit scheme and 5-digit pallets.

* * * * *

5.0 Additional Eligibility Standards for Presorted Standard Mail Pieces

* * * * *

5.2 Price Application

[Revise the last sentence in 5.2 as follows:]

* * * For example, when there are 10 pounds of combined machinable parcels, irregular parcels, and Not Flat-Machinable pieces in a 5-digit tray, approved alternate container or sack, all pieces are eligible for the 5-digit prices.

5.3 Prices for Machinable Parcels

5.3.1 5-Digit Price

The 5-digit price applies to qualifying machinable parcels that are dropshipped to a DNDC (or ASF when claiming DNDC prices), DSCF, or DDU and presented:

[Revise 5.3.1a as follows:]

a. In a 5-digit/scheme (L606) tray, approved alternate container or sack containing at least 10 pounds of pieces.

* * * * *

5.3.2 NDC Price

The NDC price applies to qualifying machinable parcels as follows under either of the following conditions:

a. When dropshipped to an ASF or NDC and presented:

[Revise 5.3.2a1 as follows:]

1. In an ASF or NDC tray or approved alternate container containing at least 10 pounds of parcels, or

* * * * *

5.3.3 Mixed NDC Price

[Revise 5.3.3 as follows:]

The mixed NDC price applies to machinable parcels that are not eligible for 5-digit or NDC prices. Place machinable parcels at mixed NDC prices in origin NDC trays or approved alternate containers or on origin NDC pallets, then in mixed NDC trays or approved alternate containers, or on mixed NDC pallets. See 445.5.3.2 and 705.8.10.

5.4 Prices for Irregular Parcels and Not Flat-Machinable (NFM) Pieces

5.4.1 5-Digit Price

The 5-digit price applies to irregular parcels and NFMs that are dropshipped to a DNDC (or ASF when claiming DNDC prices), DSCF, or DDU and presented:

[Revise 5.4.1a as follows:]

a. In a 5-digit/scheme (L606) tray, approved alternate container or sack containing at least 10 pounds of pieces.

* * * * *

5.4.2 SCF Price

The SCF price applies to irregular parcels or NFMs that are dropshipped and presented to a DSCF or DNDC:

[Revise 5.4.2a as follows:]

a. In an SCF tray or approved alternate container containing at least 10 pounds of parcels.

* * * * *

5.4.3 NDC Price

The NDC price applies to qualifying irregular parcels or NFMs as follows under either of the following conditions:

a. When dropshipped to an ASF or NDC and presented:

[Revise 5.4.3a1 as follows:]

1. In an ASF or NDC tray or approved alternate container containing at least 10 pounds of parcels, or

* * * * *

5.4.4 Mixed NDC Price

[Revise the last sentence of 5.4.4 as follows:]

* * * Place irregular parcels or NFMs at mixed NDC prices in origin NDC or mixed NDC trays or approved alternate containers under 445.5.4.4 or on origin NDC or mixed NDC pallets under 705.8.10.

6.0 Additional Eligibility Standards for Enhanced Carrier Route Standard Mail Parcels

* * * * *

6.3 Basic Price Enhanced Carrier Route Standards

* * * * *

6.3.2 Basic Price Discount for Irregular Parcels

[Revise 6.3.2 as follows:]

Basic prices apply to each piece in a carrier route or 5-digit carrier routes tray, approved alternate container or sack containing at least 125 pieces or 15 pounds of pieces. DALs must be in carrier route bundles of 10 or more pieces and prepared under 602.4.0.

6.4 High Density Enhanced Carrier Route Standards

* * * * *

6.4.2 High Density Price Discount for Irregular Parcels

[Revise 6.4.2 as follows:]

High density prices apply to each piece in a carrier route or 5-digit carrier routes tray, approved alternate container or sack containing at least 125 pieces or 15 pounds of pieces. DALs must be in carrier route bundles of 10 or more pieces and prepared under 602.4.0.

6.5 Saturation Enhanced Carrier Route Standards

* * * * *

6.5.2 Saturation Price Discount for Irregular Parcels

[Revise the first two sentences of 6.5.2 as follows:]

Saturation prices apply to each piece in a carrier route, or 5-digit carrier routes tray, approved alternate container or sack containing at least 125 pieces or 15 pounds of pieces. * * *

* * * * *

445 Mail Preparation

1.0 General Information for Mail Preparation

* * * * *

1.3 Terms for Presort Levels

Terms used for presort levels are defined as follows:

* * * * *

[Revise 1.3c as follows:]

c. 5-digit scheme (pallets, trays, alternate containers and sacks) for Standard Mail parcels: The ZIP Code in the delivery address on all pieces begins with one of the 5-digit ZIP Codes in a single scheme, as shown in L606.

* * * * *

[Revise 1.3g as follows:]

g. Origin/entry SCF: The separation includes bundles or pieces for one or more 3-digit areas served by the same sectional center facility (SCF) (see L005) in whose service area the mail is verified/entered. Mailpieces may be optionally separated for each such 3-digit area regardless of the volume of mail. Mailers making these separations must segregate flat trays, approved alternate containers or pallets labeled to destinations within the origin SCF area from the remainder of the mailing as described in 446.1.3.

* * * * *

[Revise the first sentence of 1.3l as follows:]

l. Residual pieces/bundles/trays/alternate containers contain material remaining after completion of a presort sequence. * * *

1.4 Preparation Definitions and Instructions

For purposes of preparing mail:

* * * * *

[Resequence items 1.4b through j as the new c through k and add a new item b as follows:]

b. An approved alternate container is a container that is authorized by the appropriate USPS official, instead of a flat tray (tub) or pallet, for the handling and transport of bundled flat-size mailpieces or parcels. Alternate containers could include sacks, other USPS-supplied mail transport equipment, or mailer-supplied containers.

* * * * *

[Revise resequenced 1.4d as follows:]

d. A 5-digit/scheme sort for Standard Mail parcels yields 5-digit scheme trays, approved alternate containers, sacks or pallets for 5-digit ZIP Codes listed in L606 and 5-digit trays, alternate containers, sacks or pallets for other ZIP Codes. The 5-digit ZIP Codes in each scheme are treated as one presort destination subject to a single minimum volume (if required). Trays, alternate containers, sacks or pallets prepared for a 5-digit scheme destination that contain pieces for only one of the schemed 5-digit ZIP Codes are considered 5-digit scheme sorted.

* * * * *

[Revise resequenced 1.4f as follows:]

f. The required at [quantity] instruction means that the particular unit must be prepared for the corresponding presort level whenever the specified quantity of mail is reached or exceeded, up to the maximum size or weight.

[Revise resequenced 1.4g as follows:]

g. The optional at [quantity] instruction means that the particular unit may be prepared for the corresponding presort level whenever the specified quantity is reached or exceeded, up to the maximum size or weight.

* * * * *

[Revise resequenced item k as follows:]

k. A “logical” presort destination represents the total number of pieces that are eligible for a specific presort level based on the required sortation, but which might not be contained in one bundle or in one container due to preparation requirements or the size of the individual pieces. For example, there may be 42 mailpieces for ZIP Code 43112 forming a “logical” 5-digit bundle, and the pieces are prepared in three physical 5-digit bundles.

* * * * *

[Add a new 1.5 as follows:]

1.5 Required Pallet Preparation

Mailers must prepare pallets under 705.8 when they have reached the minimum load requirements described in 705.8.5.3. If a mailer is unable to palletize, mail must be separated and placed in flat trays or approved alternate containers.

2.0 Bundles

* * * * *

2.2 Address Visibility

* * * This standard does not apply to the following:

[Revise items 2.2a and b as follows:]

a. Bundles placed in or on 5-digit or 5-digit scheme (L001) trays, approved alternate containers, sacks or pallets.

b. Bundles placed in carrier route and 5-digit carrier routes trays or approved alternate containers.

* * * * *

[Revise the title and text of the introductory sentence of 2.6 as follows:]

2.6 Preparing Bundles in Trays or Sacks

In addition to the standards in 2.5, mailers must prepare and secure bundles placed in trays, approved alternate containers or sacks as follows:

* * * * *

2.7 Pieces With Simplified Address

[Revise the last sentence of 2.7 as follows:]

* * * Bundles must be secure and stable subject to weight limits in 705.8.0 if placed on pallets, and weight and height limits in 2.6 if placed in trays, approved alternate containers or sacks.

* * * * *

[Revise title of 3.0 as follows:]

3.0 Trays and Alternate Containers

3.1 Standard Containers

[Revise the first sentence of the introductory paragraph of 3.1 as follows:]

If mailers are unable to palletize, mailings must be prepared in flat trays or approved alternate containers, except that 5-digit, 5-digit scheme, carrier route and 5-digit carrier route separations may be prepared in sacks. * * *

* * * * *

[Revise title and text of 3.2 as follows:]

3.2 Tray Preparation

Tray and alternate container preparation is subject to these standards:

a. Each tray or alternate container must bear the correct tray label.

b. The weight of a tray, or alternate container, and its content must not exceed 70 pounds.

[Revise title of 4.0 as follows:]

4.0 Tray Labels

4.1 Basic Standards

[Revise 4.1 as follows:]

Tray labels are subject to the following:

a. Barcoded tray labels are subject to 4.9 and 708.6.5.

b. Illegible labels are not acceptable. Machine-printed labels (available from the USPS) ensure legibility. Legible hand-printed labels are acceptable.

* * * * *

[Revise title of 4.2 as follows:]

4.2 Physical Characteristics of a Tray Label

[Revise 4.2 as follows:]

A tray label must meet these specifications:

a. Color: White or manila.

b. Weight: 70-pound or heavier stock (required for mailings of automation-compatible flats, optional for others).

c. Length (parallel to printing): 3.250 inches minimum; 3.515 inches maximum.

d. Height (perpendicular to printing): 1.860 inches minimum; 2.015 inches maximum.

4.3 Line 1 (Destination Line)

Line 1 (destination line) must meet these standards:

* * * * *

[Revise 4.3c as follows:]

c. Overseas Military Mail. On 5-digit trays, approved alternate containers or sacks for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray, alternate container or sack.

4.4 Line 2 (Content Line)

Line 2 (content line) must meet these standards:

[Revise 4.4a as follows:]

a. Placement: Line 2 must be the second visible line on the label. This line must show the class and processing category of the mail in the tray, alternate container or sack, and other information as specified by standards.

[Revise the introductory sentence of 4.4b as follows:]

b. Codes: The codes shown below must be used as appropriate on Line 2 of tray labels:

* * * * *

4.5 Line 3 (Origin Line)

[Revise the first sentence of 4.5 as follows:]

Line 3 (origin line showing office of mailing or mailer information) must be the bottom line of required information unless the tray, alternate container or sack contains mail manifested using the Electronic Verification System (eVS) under 705.2.9. * * *

* * * * *

[Add a new 4.9 as follows:]

4.9 Basic Standards for Barcoded Tray Labels

Trays, approved alternate containers or sacks may bear barcoded tray labels. When used, barcoded labels must meet these general standards:

a. Mailers must use the appropriate size label as described in 3.1.

b. Mailer-produced barcoded labels must meet the standards in 708.6.0.

c. All information on barcoded labels must be machine-printed. Do not make alterations to preprinted barcoded labels.

d. Mailers must insert a barcoded label completely into the label holder on the tray or alternate container.

e. Intelligent Mail tray labels (see 708.6.0) may optionally be used on trays or alternate containers.

5.0 Preparing Presorted Parcels

* * * * *

5.3 Preparing Machinable Parcels

[Revise title and text of 5.3.1 as follows:]

5.3.1 Containerization

Mailers must prepare pallets under 705.8 when they have reached the minimum load requirements described in 705.8.5.3. Otherwise, mailers may prepare 5-digit trays, approved alternate containers or sacks only for parcels that will be dropshipped to a DNDC (or ASF when claiming DNDC prices), DSCF, or DDU. Mailers may prepare ASF or NDC trays or alternate containers only for parcels that will be dropshipped to a DNDC (or ASF when claiming DNDC prices). There is no minimum for parcels prepared in 5-digit/scheme trays, alternate containers or sacks entered at a DDU. Mailers choosing to combine the preparation of either irregular parcels or any Not Flat-Machinable pieces with machinable parcels placed in 5-digit/scheme trays, alternate containers or sacks must prepare those containers or sacks under 5.3.2a.

[Revise title of 5.3.2 and text of the introductory sentence as follows:]

5.3.2 Containerization and Labeling

Preparation sequence and labeling:

[Revise 5.3.2a as follows:]

a. 5-digit/scheme (optional, but required for 5-digit price), sacking allowed, see definition in 1.4c; allowed only for mail deposited at DNDC (or ASF when claiming DNDC prices), DSCF, or DDU. Trays, approved alternate containers or sacks must contain a 10-pound minimum except at DDU which has no minimum; labeling:

1. Line 1: For 5-digit scheme trays, containers or sacks, use L606, Column B. For 5-digit trays, containers or sacks, use city, state, and 5-digit ZIP Code destination on pieces (see 4.0 for overseas military mail).

2. Line 2: For 5-digit scheme trays, containers or sacks, “STD MACH 5D SCH.” For 5-digit trays, containers or sacks, “STD MACH 5D.”

* * * * *

[Delete 5.3.2e in its entirety and add new items 5.3.2e and f as follows:]

e. Tier 2 Network (required); no minimum; labeling:

1. Line 1: L603, Column C information for the facility serving the 3-digit ZIP Code prefix of entry Post Office.

2. Line 2: “STD MACH WKG.”

f. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C information for the facility serving the 3-digit ZIP Code prefix of entry Post Office.

2. Line 2: “STD MACH WKG.”

5.4 Preparing Irregular Parcels

* * * * *

[Revise title and text of 5.4.2 as follows:]

5.4.2 Containerization

Mailers must prepare pallets under 705.8 when they have reached the minimum load requirements described in 705.8.5.3. Otherwise, mailers may prepare 5-digit trays, approved alternate containers or sacks only for parcels that will be dropshipped to a DNDC (or ASF when claiming DNDC prices), DSCF, or DDU. See 5.4.4 for restrictions on SCF, ASF, and NDC trays or alternate containers. Mailers must prepare a tray, alternate container or sack when the quantity of mail for a required presort destination reaches 10 pounds of pieces. There is no minimum for parcels prepared in 5-digit/scheme trays, alternate containers or sacks entered at a DDU. Mailers choosing to combine irregular parcels with machinable parcels and NFMs in 5-digit/scheme trays, alternate containers or sacks must prepare the mailing under 5.3.2. Mailers may combine irregular and machinable parcels to other presort levels. Mailers may combine irregular parcels with NFMs weighing less than 6 ounces in trays, alternate containers or sacks under 5.4.4.

5.4.3 Drop Shipment

[Revise 5.4.3 as follows:]

A mailer using Priority Mail or Express Mail to drop ship Standard Mail irregular parcels may prepare containers or sacks containing fewer than 125 pieces or less than 15 pounds of mail.

[Revise title and text of the introductory paragraph only of 5.4.4 as follows:]

5.4.4 Containerization and Labeling

Mailers must segregate trays, alternate containers or sacks destined within the origin/entry SCF (no piece minimum) as described in 446.1.3. Preparation sequence and labeling:

* * * * *

[Revise items 5.4.4a1 and 5.4.4a2 as follows:]

1. Line 1: For 5-digit scheme trays, alternate containers or sacks, use L606, Column B. For 5-digit trays, alternate containers or sacks, use city, state, and 5-digit ZIP Code destination on pieces (see 4.0 for overseas military mail).

2. Line 2: For 5-digit scheme trays, alternate containers or sacks, “STD IRREG 5D SCH.” For 5-digit trays, alternate containers or sacks, “STD IRREG 5D.”

[Renumber current items 5.4.4b through f as the new 5.4.4c through g and add a new b as follows:]

b. Origin SCF, optional; no minimum; labeling:

1. For Line 1, L002, Column C.

2. For Line 2, “STD IRREG SCF.”

* * * * *

[Delete renumbered 5.4.4g in its entirety and add new items g and h as follows:]

g. Tier 2 Network (required); no minimum; labeling:

1. Line 1: L603, Column C information for the facility serving the 3-digit ZIP Code prefix of entry Post Office.

2. Line 2: “STD IRREG WKG.”

h. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C information for the facility serving the 3-digit ZIP Code prefix of entry Post Office.

2. Line 2: “STD IRREG WKG.”

* * * * *

6.0 Preparing Not Flat-Machinable Pieces

* * * * *

[Revise title of 6.3 as follows:]

6.3 Containerization and Labeling

[Revise title and text of 6.3.1 as follows:]

6.3.1 Containerization

Mailers must prepare pallets under 705.8 when they have reached the minimum load requirements described in 705.8.5.3. Otherwise, mailers may prepare 5-digit trays, approved alternate containers or sacks only for NFMs that will be dropshipped to a DNDC (or ASF when claiming DNDC prices), DSCF, or DDU. See 6.3.2 and 6.3.3 for restrictions on SCF, ASF, and NDC trays or containers.

6.3.2 NFM Pieces Weighing Less Than 6 Ounces

[Revise the introductory paragraph only of 6.3.2 as follows:]

Mailers must segregate trays, alternate containers or sacks destined within the origin/entry SCF (no piece minimum) as described in 446.1.3. Preparation sequence and labeling of NFM pieces weighing less than 6 ounces:

[Revise 6.3.2a as follows:]

a. 5-digit/scheme (optional, but required for 5-digit price), sacking allowed; see definition in 1.4c; allowed only for mail deposited at DNDC (or ASF when claiming DNDC prices), DSCF, or DDU. Trays, approved alternate containers or sacks must contain a 10-pound minimum except at DDU entry (which has no minimum); labeling:

1. Line 1: For 5-digit scheme trays, alternate containers or sacks, use L606, Column B. For 5-digit trays, alternate containers or sacks, use city, state, and 5-digit ZIP Code destination on pieces (see 4.0 for overseas military mail).

2. Line 2: For 5-digit scheme trays, alternate containers or sacks, “STD NFM 5D SCH.” For 5-digit trays, alternate containers or sacks, “STD NFM 5D.”

[Renumber current 6.3.2b through f as the new 6.3.2c through g and add a new 6.3.2b as follows:]

b. Origin SCF (optional); no minimum; labeling:

1. For Line 1, L002, Column C.

2. For Line 2, “STD NFM SCF.”

* * * * *

[Delete renumbered 6.3.2g in its entirety and add a new 6.3.2 g and h as follows:]

g. Tier 2 Network (required); no minimum; labeling:

1. Line 1: L603, Column C information for the facility serving the 3-digit ZIP Code prefix of entry Post Office.

2. Line 2: “STD NFM WKG.”

h. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C information for the facility serving the 3-digit ZIP Code prefix of entry Post Office.

2. Line 2: “STD NFM WKG.”

6.3.3 NFM Pieces Weighing 6 Ounces or More

[Revise the introductory paragraph of 6.3.3 as follows:]

Preparation sequence and labeling for trays, alternate containers or sacks of NFM pieces that weigh 6 ounces or more:

[Revise 6.3.3a as follows:]

a. 5-digit/scheme (optional, but required for 5-digit price), sacking allowed; see definition in 1.4c; allowed only for mail deposited at DNDC (or ASF when claiming DNDC prices), DSCF, or DDU. Trays, alternate containers or sacks must contain a 10-pound minimum except at DDU entry (which has no minimum); labeling:

1. Line 1: For 5-digit scheme trays, alternate containers or sacks, use L606, Column B. For 5-digit trays, alternate containers or sacks, use city, state, and 5-digit ZIP Code destination on pieces (see 4.0 for overseas military mail).

2. Line 2: For 5-digit scheme trays, alternate containers or sacks, “STD NFM MACH 5D SCH.” For 5-digit trays, alternate containers or sacks, “STD NFM MACH 5D.”

* * * * *

[Delete 6.3.3e in its entirety and add new 6.3.3e and f as follows:]

e. Tier 2 Network (required); no minimum; labeling:

1. Line 1: L603, Column C information for the facility serving the 3-digit ZIP Code prefix of entry Post Office.

2. Line 2: “STD NFM WKG.”

f. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C information for the facility serving the 3-digit ZIP Code prefix of entry Post Office.

2. Line 2: “STD NFM WKG.”

7.0 Preparing Enhanced Carrier Route Parcels

* * * * *

7.4 Bundling

7.4.1 Carrier Route Bundle Preparation

Prepare carrier route bundles of parcels as follows:

* * * * *

[Revise 7.4.1c as follows:]

c. The method of labeling a carrier route bundle is based on the following tray, sack or alternate container levels:

1. Carrier route tray, sack or alternate container: No bundle labeling is required.

2. 5-digit scheme or 5-digit carrier routes trays, sacks or alternate containers: Bundles must have a facing slip unless the pieces in the bundle have a carrier information line or an optional endorsement line (OEL).

7.4.2 Bundles and Sacks With Fewer Than the Minimum Number of Pieces Required

[Revise 7.4.2 as follows:]

As a general exception to 7.4.1, a mailer may prepare a bundle with fewer than 10 pieces and a less-than-full tray or alternate container with fewer than 125 pieces and less than 15 pounds of pieces to a carrier route when claiming the saturation price for the contents and the density standard is met.

7.5 Preparing Irregular Parcels

[Revise title of 7.5.1 and text of the introductory sentence as follows:]

7.5.1 Container Minimums

A tray, sack or approved alternate container must be prepared when the quantity of mail for a required presort destination reaches either 125 pieces or 15 pounds of pieces subject to these conditions:

* * * * *

[Revise 7.5.1b as follows:]

b. For nonidentical-weight pieces, mailers must either use the minimum that applies to the average piece weight for the entire mailing (divide the net weight of the mailing by the number of pieces; the resulting average single-piece weight determines whether the 125-piece or 15-pound minimum applies) or tray (sacking or use of alternate containers allowed) by the actual piece count or mail weight for each tray, sack or container, if documentation shows the number of pieces and their total weight of the pieces in each tray or container.

* * * * *

[Revise title and text of the introductory paragraph of 7.5.2 only as follows:]

7.5.2 Containerization and Labeling

Mailers must segregate trays or alternate containers destined within the origin/entry SCF as described in 446.1.3. Preparation sequence and labeling:

* * * * *

446 Enter and Deposit

1.0 Presenting a Mailing

* * * * *

[Add a new 1.3 as follows:]

1.3 Segregation of Origin SCF Trays

Mailers must make all required, and may make any optional, separations containing irregular parcels destinating in the service area of the SCF serving the Post Office where the mail is verified, or the service area of the SCF/plant where mail is entered. For all such separations, mailpieces must be trayed or placed in alternative containers under 445.0 and segregated from the remainder of the mailing. Mailers must segregate the origin/entry trays by one of these methods: Separately containerize the trays; place the trays in a conspicuous location on top of origin SCF pallet or other container; or present them separately to acceptance personnel.

* * * * *

3.0 Destination Network Distribution Center (DNDC) Entry

* * * * *

3.3 Additional Standards for Machinable Parcels

[Delete the introductory sentence of 3.3 and 3.3b in their entirety. Use the text of 3.3a as the complete 3.3, and revise the second sentence as follows:]

* * * Machinable parcels palletized, trayed, sacked or placed in approved alternate containers may be sorted to destination NDCs or to destination NDCs and ASFs. * * *

* * * * *

4.0 Destination Sectional Center Facility (DSCF) Entry

* * * * *

4.2 Eligibility

Pieces in a mailing that meets the standards in 2.0 and 4.0 are eligible for the DSCF price, as follows:

[Revise items 4.2a and b as follows:]

a. When deposited at a DSCF (or USPS-designated facility), addressed for delivery within that facility's service area, and placed in a tray or approved alternate container, or on a pallet, that is labeled to that DSCF or to a postal facility within its service area.

b. When prepared in 5-digit bundles and placed on a 5-digit pallet or in a 5-digit scheme or 5-digit tray, alternate container or sack that is deposited at the destination delivery unit as defined in 5.1.

* * * * *

5.0 Destination Delivery Unit (DDU) Entry

* * * * *

5.2 Eligibility

Pieces in a mailing that meets the standards in 2.0 and 5.0 are eligible for the DDU price when deposited at a DDU, addressed for delivery within that facility's service area, and prepared as follows:

[Revise item 5.2a as follows:]

a. Irregular parcels in carrier route bundles sorted to carrier route trays, approved alternate containers or sacks, and otherwise eligible for and claimed at a carrier route price.

* * * * *

450 Parcel Select

453 Prices and Eligibility

* * * * *

3.0 Price Eligibility for Parcel Select

3.1 Destination Entry Price Eligibility

* * * * *

3.1.2 Basic Standards

For Parcel Select destination entry, pieces must meet the applicable standards in 455.4.0 and the following criteria:

[Revise 3.1.2a as follows:]

a. Pieces may be bedloaded on pallets, in pallet boxes on pallets, in flat trays, approved alternate containers or sacks as specified in 456.2.1 through 456.2.16, depending on the facility at which the pieces are deposited.

* * * * *

3.1.3 DNDC Prices

For DNDC prices, pieces must meet the applicable standards in 3.0 and the following:

* * * * *

[Revise 3.1.3d as follows:]

d. Pieces must be within a ZIP Code eligible for DNDC prices under Exhibit 3.1.3 and must be prepared according to 455.4.0 and 705.8.0. Mail meeting the additional criteria in 456.2.15 or 456.2.16 may be deposited at an SCF.

* * * * *

455 Mail Preparation

1.0 General Information for Mail Preparation

1.1 Basic Standards

All mailings at Parcel Select prices are subject to these general standards:

* * * * *

[Revise 1.1b as follows:]

b. All pieces must be prepared on pallets when they have reached the minimum load requirements described in 705.8.5.3. If a mailer is unable to palletize, mail must be separated and placed in flat trays or approved alternate containers.

* * * * *

1.4 Terms for Presort Level

Terms used for presort levels are defined as follows:

* * * * *

[Revise 1.4b as follows:]

b. 5-digit scheme (pallets, trays, approved alternate containers and sacks): The ZIP Code in the delivery address on all pieces begins with one of the 5-digit ZIP Code in a single scheme, as shown in L606.

* * * * *

1.5 Preparation Definitions and Instructions

For purposes of preparing mail:

* * * * *

[Resequence items 1.5 b through i as the new 1.5c through j and add a new 1.5b as follows:]

b. An approved alternate container is a container that is authorized by the appropriate USPS official, instead of a flat tray (tub) or pallet, for the handling and transport of bundled flat-size mailpieces or parcels. Alternate containers could include sacks, other USPS-supplied mail transport equipment, or mailer-supplied containers.

* * * * *

[Revise resequenced 1.5d as follows:]

d. A 5-digit scheme sort for parcels yields 5-digit scheme pallets, trays, approved alternate containers or sacks for those 5-digit ZIP Codes listed in L606, and 5-digit pallets, trays, alternate containers or sacks for other ZIP Codes. The 5-digit ZIP Codes in each scheme are treated as one presort destination subject to a single minimum volume. Pallets, trays, alternate containers or sacks prepared for a 5-digit scheme destination that contain pieces for only one of the schemed 5-digit ZIP Codes are considered 5-digit scheme sorted. The 5-digit scheme sort is always optional, including when 5-digit sortation is required for price eligibility and need not be used for all possible 5-digit scheme sorts.

* * * * *

[Revise resequenced 1.5h as follows:]

h. An overflow container for Parcel Select DSCF mail is a 5-digit scheme or 5-digit tray, approved alternate container or sack prepared with fewer than seven pieces after all other required trays, alternate containers or sacks for that same 5-digit scheme or 5-digit ZIP Code area are prepared under 4.2. If all of the mail is trayed, containerized or sacked under 4.0, only one overflow container is permitted for each 5-digit scheme or 5-digit ZIP Code. If a mailing is prepared on pallets, remaining Parcel Select pieces mail may be prepared in one or more 5-digit scheme or 5-digit overflow containers only after one or more 5-digit scheme or 5-digit pallets are prepared to meet the minimum pallet requirement in 705.8.0. Pieces in overflow containers qualify for the Parcel Select DSCF prices.

* * * * *

1.6 Separation

[Revise the last sentence of 1.6 as follows:]

* * * If DSCF trays or approved alternate containers prepared under 4.2.3 are included in the same mailing as DSCF pallets prepared under 705.8.20.1e., then at the time of acceptance the mailer must separate the trays or alternate containers that are overflow from palletized mail from those trays or alternate containers prepared under 4.2.

* * * * *

[Renumber current items 1.7 and 1.8 as the new 1.8 and 1.9, and add a new 1.7 as follows:]

1.7 Required Pallet Preparation

Mailers must prepare pallets under 705.8 when they have reached the minimum load requirements described in 705.8.5.3. If a mailer is unable to palletize, mail must be separated and placed in flat trays or approved alternate containers.

* * * * *

[Revise title of 2.0 as follows:]

2.0 Trays and Alternate Containers

[Renumber current 2.1 as the new 2.2 and add a new 2.1 as follows:]

2.1 Standard Containers

If mailers are unable to palletize, mailings must be prepared in flat trays or approved alternate containers, except that 5-digit and 5-digit scheme separations may be prepared in sacks.

[Revise title and text of renumbered 2.2 as follows:]

2.2 Tray Preparation

All tray, approved alternate container and sack preparation is subject to these standards:

a. Each tray, alternate container or sack must bear the correct tray label.

b. The weight of a tray, alternate container or sack, and its contents, must not exceed 70 pounds.

[Revise title of 3.0 as follows:]

3.0 Tray Labels

3.1 Basic Standards

[Revise 3.1 as follows:]

Tray labels are subject to the following:

a. Barcoded labels for mailings placed in flat trays or approved alternate containers are subject to 3.9 and 708.6.0.

b. Illegible labels are not acceptable. Machine-printed labels (available from the USPS) ensure legibility. Legible hand-printed labels are acceptable.

[Revise title of 3.2 as follows:]

3.2 Physical Characteristics of a Tray Label

[Revise 3.2 as follows:]

A tray label must meet these specifications:

a. Color: White or manila.

b. Weight: 70-pound or heavier stock (required for mailings of automation-compatible flats, optional for others).

c. Length (parallel to printing): 3.250 inches minimum; 3.515 inches maximum.

d. Height (perpendicular to printing): 1.860 inches minimum; 2.015 inches maximum.

3.3 Line 1 (Destination Line)

Line 1 (destination line) must meet these standards:

* * * * *

[Revise 3.3c as follows:]

c. Overseas Military Mail. On 5-digit trays, approved alternate containers or sacks for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray, alternate container or sack.

3.4 Line 2 (Content Line)

Line 2 (content line) must meet these standards:

[Revise items 3.4a and b as follows:]

a. Placement: Line 2 must be the second visible line on the label. This line must show the class and processing category of the mail in the tray, alternate container or sack, and other information as specified by standards.

b. Codes: The codes shown below must be used as appropriate on Line 2 of tray labels.

* * * * *

3.5 Line 3 (Origin Line)

[Revise the first sentence of 3.5 as follows:]

Line 3 (origin line showing office of mailing or mailer information) must be the bottom line of required information unless the tray, approved alternate container or sack contains mail manifested using the Electronic Verification System (eVS) (see 4.6 for eVS labeling information). * * *

3.6 Electronic Verification System

[Revise the first sentence of 3.6 as follows:]

All trays, approved alternate containers or sacks containing parcels prepared and identified using the Electronic Verification System (eVS) under 705.2.9 must show “eVS” (or the alternatives “EVS” or “E-VS”) directly below Line 3 using the same size and lettering used for Line 3. * * *

* * * * *

[Add a new 3.9 as follows:]

3.9 Basic Standards for Barcoded Tray Labels

Trays, approved alternate containers or sacks may bear barcoded tray labels. When used, barcoded labels must meet these general standards:

a. Mailers must use the appropriate size label as described in 3.1.

b. Mailer-produced barcoded labels must meet the standards in 708.6.0.

c. All information on barcoded labels must be machine-printed. Do not make alterations to preprinted barcoded labels.

d. Mailers must insert a barcoded label completely into the label holder on the tray or alternate container.

e. Intelligent Mail tray labels (see 708.6.0) may optionally be used on trays or alternate containers.

4.0 Preparing Destination Entry Parcel Select

4.1 Preparing Destination Delivery Unit (DDU) Parcel Select

* * * * *

4.1.2 Basic Standards

Pieces must meet the applicable standards in 4.0 and the following criteria:

* * * * *

[Revise the first sentence of 4.1.2c as follows:]

c. If the delivery unit serves more than one 5-digit ZIP Code, the pieces must be separated by 5-digit ZIP Code when unloaded, unless prepared as optional 5-digit scheme trays, approved alternate containers, sacks or pallets. * * *

[Revise title of 4.1.3 and text of the introductory paragraph as follows:]

4.1.3 Containerization and Labeling

There are no minimum traying, containerization, sacking or pallet preparation standards. DDU pieces may be bedloaded, trayed, placed in approved alternate containers, sacked, placed directly on pallets or placed in pallet boxes. Machinable and nonmachinable pieces may be combined in the same tray, alternate container or sack, or on the same pallet (including pallet boxes). Trayed, containerized and sacked mail must be labeled as follows:

* * * * *

4.2 Preparing Destination SCF (DSCF) Parcel Select

* * * * *

4.2.2 Basic Standards

Pieces must meet the applicable standards in 4.0 and the following criteria:

* * * * *

[Revise the first sentence of 4.2.2c as follows:]

c. Sorted to optional 5-digit scheme destinations under L606, Column B, and 5-digit destinations, either in trays, approved alternate containers, sacks or directly on pallets or in pallet boxes.

* * * * *

[Revise title and text of 4.2.3 as follows:]

4.2.3 Containerization and Labeling

Containerization requirements for DSCF entry:

a. Only 5-digit scheme and 5-digit trays, approved alternate containers or sacks are permitted.

b. Each 5-digit scheme and 5-digit tray, alternate container or sack must contain a minimum of seven pieces. Machinable and nonmachinable pieces may be combined in the same tray, alternate container or sack to meet this requirement. One overflow tray, alternate container or sack per 5-digit ZIP Code is permitted (no piece minimum).

c. 5-digit scheme tray, alternate container or sack labeling: Line 1, use L606, Column B; for Line 2, “PSVC PARCELS 5D SCH.”

d. 5-digit tray, alternate container or sack labeling: Line 1, use city, state, and 5-digit ZIP Code on mail (see 3.3 for overseas military mail); for Line 2, “PSVC PARCELS 5D.”

e. 3-digit nonmachinable tray or alternate container labeling: Line 1, use L002, Column A; for Line 2, “PSVC IRREG 3D.”

f. See 705.8.0 for option to place 5-digit scheme and 5-digit DSCF trays, alternate containers or sacks and 3-digit nonmachinable trays or alternate containers on an SCF pallet.

4.3 Preparing Destination NDC (DNDC) Parcel Select

* * * * *

4.3.2 Basic Standards

Pieces must meet the applicable standards in 4.0 and the following criteria:

* * * * *

[Revise the first sentence of 4.3.2e as follows:]

e. Pieces must be within a ZIP Code eligible for DNDC prices under Exhibit 453.3.1.3 and, if trayed, placed in approved alternate containers, sacked or palletized, must be prepared according to 4.0 and 705.8.0. * * *

[Revise title and text of 4.3.3 as follows:]

4.3.3 Containerization and Labeling

DNDC mailing (if not bedloaded), must be prepared as follows:

a. DNDC machinable parcels must be trayed, placed in approved alternate containers or sacked under 6.0, or prepared on pallets under 705.8.0.

b. DNDC nonmachinable parcels that each weigh 35 pounds or less must be trayed, placed in approved alternate containers or sacked under 6.0, if the parcels do not contain perishables and the size of the parcels allows a tray, alternate container or sack to hold at least two pieces. DNDC nonmachinable parcels that cannot be containerized in this manner or that weigh more than 35 pounds must be transported as outside (uncontainerized) pieces. If authorized by the USPS, DNDC nonmachinable parcels may be palletized.

* * * * *

6.0 Preparing Barcoded Machinable Parcels

* * * * *

[Revise title of 6.3 and the text of the first sentence as follows:]

6.3 Containerization and Labeling

Traying, containerization or sacking is not required, however mailers may opt to prepare Parcel Select machinable parcels in trays, approved alternate containers or sacks under 2.0 or on pallets under 705.8.0. * * *

[Revise title of 6.3.1 and text of the introductory sentence as follows:]

6.3.1 Container Preparation

Container and preparation sequence, and Line 1 labeling:

[Revise items 6.3.1a and b as follows:]

a. 5-digit scheme: Optional (minimum of 10 pieces or 20 pounds); sacking allowed; for Line 1, use L606, Column B.

b. 5-digit; required (minimum of 10 pieces or 20 pounds); sacking allowed; for Line 1, use city, state and 5-digit ZIP Code destination of pieces (see 3.3c. for military mail).

* * * * *

[Delete 6.3.1e in its entirety and add new items e and f as follows:]

e. Tier 2 Network: Required (no minimum); for Line 1, use L603, Column C information for the Tier 2 facility serving the 3-digit ZIP Code prefix of entry Post Office.

f. Tier 2 Network: Required for specified acceptance locations (no minimum); if the origin NDC is Chicago, Cincinnati or Saint Louis, use Labeling List L603 to separate the remaining mail into two east or west directionally-based containers; if the origin NDC is San Francisco, use Labeling List L603 to separate the remaining mail into two north or south directionally-based containers. For Line 1, use L603, Column C information for the facility serving the 3-digit ZIP Code prefix of entry Post Office.

[Revise title of 6.3.2 as follows:]

6.3.2 Tray Line 2

* * * * *

[Delete 6.3.2e in its entirety and add new items e and f as follows:]

e. Tier 2 Network: “PSVC MACH WKG.”

f. Tier 2 Network, Directional: “PSVC MACH WKG.”

456 Enter and Deposit

* * * * *

2.0 Deposit

2.1 Bedloaded Parcels

* * * * *

2.1.1 Containers

DNDC mailings (if not bedloaded), DDU mailings (if not bedloaded), and all DSCF mailings must be prepared as follows:

[Revise 2.1.1a through d as follows:]

a. Machinable parcels for which a DNDC, DSCF, or DDU price is claimed must be trayed, placed in approved alternate containers or sacked under 455.4.0, Preparing Destination Entry Parcel Select, or prepared on pallets under 705.8.0.

b. For DNDC price, nonmachinable parcels must be prepared under 455.4.3.3.

c. For DSCF, if prepared under 455.4.0, trays, alternate containers or sacks must contain at least seven pieces. If the tray, alternate container or sack is overflow from a 5-digit scheme, 5-digit, or 3-digit tray, alternate container or sack that contains at least seven pieces, then a tray, alternate container or sack may contain fewer than seven pieces. For DSCF, if trayed, placed in approved alternate containers or sacked as overflow from a 5-digit scheme, 5-digit, or 3-digit pallet that meets the pallet minimum, may contain any number of pieces. Machinable and nonmachinable pieces may be included in the same tray, alternate container or sack.

d. For DSCF, 5-digit scheme, 5-digit, and 3-digit trays, approved alternate containers or sacks may be bedloaded or be placed on SCF pallets that are labeled and otherwise prepared under 705.8.0.

* * * * *

[Revise 2.1.1f as follows:]

f. For DDU, there are no minimums for trays, approved alternate containers, sacks, pallets, or pallet boxes. DDU mail must be separated by 5-digit scheme and 5-digit and, if placed in trays, alternate containers, or sacks, on pallets, or in pallet boxes, it must be labeled to the 5-digit scheme or 5-digit destination. Machinable and nonmachinable pieces may be combined in 5-digit scheme and 5-digit trays, approved alternate containers or sacks, or on 5-digit scheme and 5-digit pallets (including pallet boxes).

* * * * *

2.12 Vehicle Unloading

Unloading of destination entry mailings is subject to these conditions:

* * * * *

[Revise the first sentence of 2.1.2c as follows:]

c. At destination delivery units (DDUs), drivers must unload all mail, whether bedloaded, trayed, containerized, sacked, or palletized (including boxes on pallets), within 1 hour of arrival. Unloading procedures are as follows:

* * * * *

2.16 Acceptance at Designated SCF-USPS Benefit

A mailing that is otherwise eligible for DNDC prices may be deposited, and accepted, at an SCF designated by the USPS when it benefits the USPS and:

[Revise item 2.16a as follows:]

a. The mailing contains only machinable parcels prepared in 5-digit scheme and 5-digit trays, alternate containers, sacks or pallets, and nonmachinable parcels prepared under 2.1.1.

* * * * *

460 Bound Printed Matter

* * * * *

465 Mail Preparation

1.0 General Information for Mail Preparation

1.1 Basic Preparation—Nonpresorted

[Revise 1.1 as follows:]

There are no presort, traying, containerization, or labeling standards for nonpresorted price Bound Printed Matter.

* * * * *

1.5 Preparation Definitions and Instructions

For purposes of preparing mail:

* * * * *

[Resequence 1.5b through j as the new 1.5c through k and add a new item 1.5b as follows:]

b. An approved alternate container is a container that is authorized by the appropriate USPS official, instead of a flat tray (tub) or pallet. Alternate containers could include sacks, other USPS-supplied mail transport equipment, or mailer-supplied containers.

* * * * *

[Revise the first three sentences of resequenced 1.5d as follows:]

d. A 5-digit scheme sort for Bound Printed Matter parcels yields 5-digit scheme trays, approved alternate containers, sacks or pallets for those 5-digit ZIP Codes listed in L606 and 5-digit trays, alternate containers, sacks or pallets for other ZIP Codes. The 5-digit ZIP Codes in each scheme are treated as one presort destination subject to a single minimum volume. Trays, alternate containers, sacks or pallets prepared for a 5-digit scheme destination that contain pieces for only one of the schemed 5-digit ZIP Codes are considered 5-digit scheme sorted. * * *

[Revise resequenced 1.5e as follows:]

e. An origin 3-digit (or origin 3-digit scheme) tray or approved alternate container includes all mail (regardless of quantity) for a 3-digit ZIP Code (or 3-digit scheme) area processed by the SCF in whose service area the mail is verified. If more than one 3-digit (or 3-digit scheme) area is served, as indicated in L005, a separate tray or alternate container may be prepared for each. These separations are optional, but mailers making these separations must segregate flat trays, approved alternate containers or pallets labeled to destinations within the origin SCF area from the remainder of the mailing as described in 466.2.7.

[Revise resequenced 1.5f as follows:]

f. The required at [quantity] instruction means that the particular unit must be prepared for the corresponding presort level whenever the specified quantity of mail is reached or exceeded, up to the maximum size or weight.

[Revise resequenced 1.5g as follows:]

g. The optional at [quantity] instruction means that the particular unit may be prepared for the corresponding presort level whenever the specified quantity is reached or exceeded, up to the maximum size or weight.

* * * * *

[Add a new 1.6 as follows:]

1.6 Required Pallet Preparation

Mailers must prepare pallets under 705.8 when they have reached the minimum load requirements described in 705.8.5.3. If a mailer is unable to palletize, mail must be separated and placed in flat trays or approved alternate containers.

2.0 Bundles

* * * * *

2.2 Address Visibility

* * * This standard does not apply to the following:

[Revise 2.2a and b as follows:]

a. Bundles placed in or on 5-digit or 5-digit scheme (L001) trays, approved alternate containers, sacks or pallets.

b. Bundles placed in carrier route and 5-digit carrier routes trays, approved alternate containers or sacks.

* * * * *

2.6 Bundle Sizes

[Revise 2.6 as follows:]

Mailers must prepare uncontainerized, nonpalletized bundles of Presorted irregular parcels for DDU entry according to 2.8 and 5.2 for parcels weighing less than 10 pounds and 5.3 for parcels weighing 10 pounds or more. Mailers must prepare uncontainerized, nonpalletized bundles of carrier route irregular parcels for DDU entry according to 2.7 and 6.2 for parcels weighing less than 10 pounds and 6.3 for parcels weighing 10 pounds or more.

[Revise title of 2.7 and the text of the introductory sentence of 2.7 as follows:]

2.7 Additional Standards for Uncontainerized Bundles Entered at DDU Facilities

Mailers may enter uncontainerized, nonpalletized bundles of irregular parcels at destination delivery units (DDUs) if all of the following conditions are met:

* * * * *

2.8 Pieces With Simplified Addresses

[Revise the last sentence of 2.8 as follows:]

* * * Bundles must be secure and stable subject to specific weight limits in 705.8.0 if placed on pallets, and for parcels in trays or approved alternate containers, specific weight limits in 5.0 and 6.0.

* * * * *

[Revise title of 3.0 as follows:]

3.0 Trays and Alternate Containers

[Renumber current 3.1 as the new 3.2 and add a new 3.1 as follows:]

3.1 Standard Containers

If mailers are unable to palletize, mailings must be prepared in flat trays or approved alternate containers, except that 5-digit, 5-digit scheme and carrier route separations may be prepared in sacks.

[Revise title and text of 3.2 as follows:]

3.2 Tray Preparation

All tray, approved alternate container and sack preparation is subject to these standards:

a. Each tray, alternate container or sack must bear the correct tray label.

b. The weight of a tray, alternate container or sack, and its contents, must not exceed 70 pounds.

[Revise title of 4.0 as follows:]

4.0 Tray Labels

4.1 Basic Standards

[Revise 4.1 as follows:]

Tray labels are subject to the following:

a. Barcoded labels for mailings placed in flat trays or approved alternate containers are subject to 4.9 and 708.6.0.

b. Illegible labels are not acceptable. Machine-printed labels (available from the USPS) ensure legibility. Legible hand-printed labels are acceptable.

[Revise title of 4.2 as follows:]

4.2 Physical Characteristics of a Tray Label

[Revise 4.2 as follows:]

A tray label must meet these specifications:

a. Color: White or manila.

b. Weight: 70-pound or heavier stock (required for mailings of automation-compatible flats, optional for others).

c. Length (parallel to printing): 3.250 inches minimum; 3.515 inches maximum.

d. Height (perpendicular to printing): 1.860 inches minimum; 2.015 inches maximum.

4.3 Line 1 (Destination Line)

Line 1 (destination line) must meet these standards:

* * * * *

[Revise 4.3c as follows:]

c. Overseas Military Mail. On 5-digit trays, approved alternate containers or sacks for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray, alternate container or sack.

4.4 Line 2 (Content Line)

Line 2 (content line) must meet these standards:

* * * * *

[Revise the text of 4.4b as follows:]

b. Codes: The codes shown below must be used as appropriate on Line 2 of tray labels.

* * * * *

[Revise the “code” description for nonbarcoded “content type” (ninth from the top) as follows:]

CONTENT TYPE CODE

* * * * *

Nonbarcoded NON BC (trays/alternate containers) NBC (pallets and combined mail under 705.9.0)

* * * * *

4.5 Line 3 (Origin Line)

[Revise the first sentence of 4.5 as follows:]

Line 3 (origin line showing office of mailing or mailer information) must be the bottom line of required information unless the tray, approved alternate container or sack contains mail manifested using the Electronic Verification System (eVS). * * *

4.6 Electronic Verification System

[Revise the first sentence of 4.6 as follows:]

All trays, approved alternate containers or sacks containing parcels prepared and identified using the Electronic Verification System (eVS) under 705.2.9 must show “eVS” (or the alternatives “EVS” or “E-VS”) directly below Line 3 using the same size and lettering used for Line 3. * * *

* * * * *

[Add a new 4.9 as follows:]

4.9 Basic Standards for Barcoded Tray Labels

Trays, approved alternate containers or sacks may bear barcoded tray labels. When used, barcoded labels must meet these general standards:

a. Mailers must use the appropriate size label as described in 3.1.

b. Mailer-produced barcoded labels must meet the standards in 708.6.0.

c. All information on barcoded labels must be machine-printed. Do not make alterations to preprinted barcoded labels.

d. Mailers must insert a barcoded label completely into the label holder on the tray or alternate container.

e. Intelligent Mail tray labels (see 708.6.0) may optionally be used on trays or alternate containers.

5.0 Preparing Presorted Parcels

5.1 Basic Standards

* * * * *

5.1.2 Separation

[Revise 5.1.2 as follows:]

Pieces for each zone must be trayed, sacked or placed in approved alternate containers separately, separated by zone. Exception: Pieces for different zones may be trayed or placed in alternate containers together, and the trays or alternate containers do not have to be separated by zone for verification if the mailing is prepared under 705.2.0, 705.3.0, 705.4.0 or under 5.1.3, Commingling Zones.

* * * * *

5.2 Preparing Irregular Parcels Weighing Less Than 10 Pounds

5.2.1 Required Bundling

[Revise the introductory paragraph of 5.2.1 as follows:]

Bundling is required before placing pieces into trays, approved alternate containers or sacks, except for pieces placed in 5-digit scheme and 5-digit trays, alternate containers or sacks when such pieces are enclosed in an envelope, full-length sleeve, full-length wrapper, or polybag and the minimum bundle size is met. Otherwise, a bundle must be prepared when the quantity of addressed pieces for a required presort level reaches a minimum of 10 pieces or 10 pounds, whichever occurs first. Smaller volumes are not permitted (except mixed ADC bundles). The maximum weight of each physical bundle is 20 pounds, except that 5-digit bundles placed in 5-digit scheme and 5-digit trays, alternate containers or sacks, or prepared for and entered at DDU prices, may weigh a maximum of 40 pounds each. Each physical bundle must contain at least two addressed pieces (except mixed ADC bundles). Bundling also is subject to these conditions:

* * * * *

[Revise title of 5.2.3 and text of the introductory paragraph as follows:]

5.2.3 Containerization

Mailers must prepare pallets under 705.8 when they have reached the minimum load requirements described in 705.8.5.3. Otherwise a tray, approved alternate container or sack must be prepared when the quantity of mail for a required presort destination reaches either 10 addressed pieces or 20 pounds, whichever occurs first. Smaller volumes are not permitted (except mixed ADC trays or alternate containers). Optional SCF trays or alternate containers may be prepared only when there are at least 10 addressed pieces or 20 pounds, whichever occurs first. Containerization is not required for 5-digit bundles when entered at DDU prices. Such bundles may be bedloaded and may weigh up to 40 pounds. Containerization is also subject to these conditions:

* * * * *

[Revise the last sentence of 5.2.3b as follows:]

b. * * * Alternatively, place pieces in trays, alternate containers or sacks by the actual piece count or mail weight for each bundle destination, provided that documentation shows the number of pieces and their total weight in each container.

* * * * *

[Revise title and introductory paragraph of 5.2.4 as follows:]

5.2.4 Containerization and Labeling

Mailers must segregate trays, alternate containers or sacks destined within the origin/entry SCF (no piece minimum) as described in 466.2.7. Preparation sequence and labeling:

[Revise 5.2.4a as follows:]

a. 5-digit/scheme (required); sacking allowed; labeling:

1. Line 1: For 5-digit scheme trays, approved alternate containers or sacks, use L606, Column B. For 5-digit trays, alternate containers or sacks, use city, state, and 5-digit ZIP Code on mail (see 4.4 for overseas military mail).

2. Line 2: For 5-digit scheme sacks, “PSVC IRREG 5D SCH.” For 5-digit trays, approved alternate containers or sacks, “PSVC IRREG 5D.”

* * * * *

[Resequence current 5.2.4c through e as the new 5.2.4d through f and add a new 5.2.4c as follows:]

c. Origin SCF, optional; no minimum; labeling:

1. For Line 1, L005, Column B.

2. For Line 2, “PSVC IRREG SCF.”

* * * * *

[Delete resequenced 5.2.4f in its entirety and add 5.2.4f through h as follows:]

f. Origin Network Distribution Center (NDC) Network (required); no minimum; labeling:

1. Line 1: L601, Column B.

2. Line 2: “PSVC IRREG NDC.”

g. Tier 2 Network (required); no minimum; labeling:

1. Line 1: L603, Column C.

2. Line 2: “PSVC IRREG WKG.”

h. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C.

2. Line 2: “PSVC IRREG WKG.”

5.3 Preparing Irregular Parcels Weighing 10 Pounds or More

* * * * *

[Revise title and text of 5.3.2 as follows:]

5.3.2 Containerization

Mailers must prepare pallets under 705.8 when they have reached the minimum load requirements described in 705.8.5.3. Otherwise a tray, approved alternate container or sack must be prepared when the quantity of mail for a required presort destination reaches 20 pounds. Smaller volumes are not permitted (except mixed ADC trays or alternate containers). Optional 5-digit scheme and optional SCF trays or alternate containers or sacks may be prepared only when there are at least 20 pounds. Smaller volumes are not permitted. Containerization is not required for 5-digit bundles when prepared for and entered at DDU prices. Such bundles may be bedloaded and may weigh up to 40 pounds.

[Revise title and text of the introductory paragraph only of 5.3.3 as follows:]

5.3.3 Containerization and Labeling

Mailers must segregate trays, alternate containers or sacks destined within the origin/entry SCF (no piece minimum) as described in 466.2.7. Preparation sequence and labeling:

[Revise 5.3.3a as follows:]

a. 5-digit/scheme (required); sacking allowed; labeling:

1. Line 1: For 5-digit scheme trays, approved alternate containers or sacks, use L606, Column B. For 5-digit trays, alternate containers or sacks, use city, state, and 5-digit ZIP Code on mail (see 4.4 for overseas military mail).

2. Line 2: For 5-digit scheme trays, alternate containers or sacks, “PSVC IRREG 5D SCH.” For 5-digit trays, alternate containers or sacks, “PSVC IRREG 5D.”

* * * * *

[Renumber current 5.3.3c through e as the new 5.3.3d through f and add a new 5.3.3c as follows:]

c. Origin SCF, optional; no minimum; labeling:

1. For Line 1, L005, Column B.

2. For Line 2, “PSVC IRREG SCF.”

* * * * *

[Delete renumbered 5.3.3 f and add new 5.3.3 f through h as follows:]

f. Origin Network Distribution Center (NDC) Network (required); no minimum; labeling:

1. Line 1: L601, Column B.

2. Line 2: “PSVC IRREG NDC.”

g. Tier 2 Network (required); no minimum; labeling:

1. Line 1: L603, Column C.

2. Line 2: “PSVC IRREG WKG.”

h. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C.

2. Line 2: “PSVC IRREG WKG.”

5.4 Preparing Machinable Parcels Not Claiming DNDC Prices

[Revise title of 5.4.1 and text of the introductory paragraph as follows:]

5.4.1 Containerization

Mailers must prepare pallets under 705.8 when they have reached the minimum load requirements described in 705.8.5.3. Otherwise a tray, approved alternate container or sack must be prepared when the quantity of mail for a required presort destination reaches either 10 addressed pieces or 20 pounds, whichever occurs first. Smaller volumes are not permitted (except origin (mixed) NDC trays or alternate containers). Optional 5-digit scheme trays, approved alternate containers or sacks may be prepared only when there are at least 10 addressed pieces or 20 pounds, whichever occurs first. Smaller volumes are not permitted. Containerization is also subject to these conditions:

* * * * *

[Revise 5.4.1b as follows:]

b. For nonidentical-weight pieces, mailers must use either the minimum that applies to the average piece weight for the entire mailing or containerize by the actual piece count or mail weight for each bundle destination, provided that documentation can be provided with the mailing that shows the number of pieces and their total weight for each container.

* * * * *

[Revise title of 5.4.2 as follows:]

5.4.2 Containerization and Labeling

Preparation sequence and labeling:

[Revise 5.4.2a as follows:]

a. 5-digit/scheme (required); sacking allowed; labeling:

1. Line 1: For 5-digit scheme trays, approved alternate containers or sacks, use L606, Column B. For 5-digit trays, approved alternate containers or sacks, use city, state, and 5-digit ZIP Code on mail (see 4.4 for overseas military mail).

2. Line 2: For 5-digit scheme trays, approved alternate containers or sacks, “PSVC MACH 5D SCH.” For 5-digit trays, approved alternate containers or sacks, “PSVC MACH 5D.”

* * * * *

[Delete current 5.4.2c in its entirety and add new 5.4.2c and d as follows:]

c. Tier 2 Network (required); no minimum; labeling:

1. Line 1: L603, Column C information for the facility serving the 3-digit ZIP Code prefix of entry Post Office.

2. Line 2: “PSVC MACH WKG.”

d. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C information for the facility serving the 3-digit ZIP Code prefix of entry Post Office.

2. Line 2: “PSVC MACH WKG.”

5.5 Preparing Machinable Parcels Claiming DNDC Prices

[Revise title of 5.4.1 and text of the introductory paragraph as follows:]

5.5.1 Containerization

Mailers must prepare pallets under 705.8 when they have reached the minimum load requirements described in 705.8.5.3. Otherwise a tray, approved alternate container or sack must be prepared when the quantity of mail for a required presort destination reaches either 10 addressed pieces or 20 pounds, whichever occurs first. Smaller volumes are not permitted (except origin (mixed) NDC trays or alternate containers). Optional 5-digit scheme and optional ASF trays or alternate containers may be prepared only when there are at least 10 addressed pieces or 20 pounds, whichever occurs first. Smaller volumes are not permitted. See 466.4.0 for DNDC price eligibility. Containerization is also subject to these conditions:

* * * * *

[Revise 5.5.1b as follows:]

b. For nonidentical-weight pieces, mailers must either use the minimum that applies to the average piece weight for the entire mailing or containerize by the actual piece count or mail weight for each container destination, provided that documentation can be provided with the mailing that shows the number of pieces and their total weight for each container.

* * * * *

[Revise title of 5.5.2 as follows:]

5.5.2 Containerization and Labeling

Preparation sequence and labeling:

[Revise 5.5.2a as follows:]

a. 5-digit/scheme (required); sacking allowed; labeling:

1. Line 1: For 5-digit scheme trays, approved alternate containers or sacks, use L606, Column B. For 5-digit trays, approved alternate containers or sacks, use city, state, and 5-digit ZIP Code on mail (see 4.4 for overseas military mail).

2. Line 2: “PSVC MACH 5D SCHEME” or “PSVC MACH 5D SCH.”

* * * * *

[Delete current 5.5.2d in its entirety and add new 5.5.2d and e as follows:]

d. Tier 2 Network (required); no minimum; labeling:

1. Line 1: L603, Column C information for the facility serving the 3-digit ZIP Code prefix of entry Post Office.

2. Line 2: “PSVC MACH WKG.”

e. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C information for the facility serving the 3-digit ZIP Code prefix of entry Post Office.

2. Line 2: “PSVC MACH WKG.”

6.0 Preparing Carrier Route Parcels

6.1 Basic Standards

* * * * *

6.1.2 Separation

[Revise 6.1.2 as follows:]

Pieces for each zone must be separately placed in trays, approved alternate containers or sacks. When presented for verification, trays, alternate containers or sacks must be separated by zone. Exception: Pieces for different zones may be containerized together, and the containers do not have to be separated by zone for verification if the mailing is prepared under 705.2.0, 705.3.0, 705.4.0, or under 6.1.3, Commingling Zones.

* * * * *

6.2 Preparing Irregular Parcels Weighing Less Than 10 Pounds

6.2.1 Bundle Preparation

[Revise the first sentence of the introductory paragraph of 6.2.1 as follows:]

Bundling is not required in direct carrier route trays or approved alternate containers. * * *

* * * * *

[Revise title of 6.2.2 and text of the introductory paragraph as follows:]

6.2.2 Containerization

Mailers may prepare irregular parcels in bundles on pallets or prepare uncontainerized bundles under 2.7. Otherwise, mailers must prepare a direct carrier route tray, sack or approved alternate container when the quantity of mail for an individual carrier route reaches either 10 addressed pieces or 20 pounds, whichever occurs first; smaller volumes are not permitted. Mailers then must place remaining bundles in 5-digit scheme carrier routes trays or alternate containers or 5-digit carrier routes trays or alternate containers, which have no minimum container size. Carrier route containers also are subject to these conditions:

* * * * *

[Revise 6.2.2b as follows:]

b. For nonidentical-weight pieces, mailers must either use the minimum that applies to the average piece weight for the entire mailing or containerize by the actual piece count or mail weight for each container destination, provided that documentation can be provided with the mailing that shows the number of pieces and their total weight for each container.

* * * * *

[Revise title of 6.2.3 and text of the introductory sentence as follows:]

6.2.3 Containerization and Labeling

Mailers must segregate trays, alternate containers or sacks destined within the origin/entry SCF (no piece minimum) as described in 466.2.7. Preparation sequence and Line 1 labeling:

[Revise items 6.2.3a through c as follows:]

a. Carrier route: required; sacking permitted; for Line 1, use city, state, and 5-digit ZIP Code on mail (see 4.3 for overseas military mail).

b. 5-digit scheme carrier routes: Optional (no minimum); sacking permitted; for Line 1, use L606, Column B.

c. 5-digit carrier routes: Required (no minimum); sacking permitted; for Line 1, use city, state, and 5-digit ZIP Code destination of bundles (for military mail, the ZIP Code is preceded by the prefixes under 4.3).

[Revise title of 6.2.4 as follows:]

6.2.4 Tray Label Line 2

* * * * *

6.3 Preparing Irregular Parcels Weighing 10 Pounds or More

[Revise the introductory paragraph of 6.3 as follows:]

Mailers may prepare irregular parcels in bundles on pallets or prepare uncontainerized bundles under 2.6. When preparing irregular parcels in trays, approved alternate containers or sacks, place parcels only in direct carrier route containers. Each carrier route container must contain a minimum of 20 pounds. Required preparation:

* * * * *

6.4 Preparing Machinable Parcels

[Revise title of 6.4.1 and text of introductory paragraph as follows:]

6.4.1 Required Carrier Route Containerization

Machinable parcels may be prepared only in direct carrier route containers. Each carrier route tray, sack or approved alternate container must contain a minimum of 10 addressed pieces or 20 pounds, whichever occurs first. Carrier route trays, sacks or alternate containers also are subject to these conditions:

* * * * *

[Revise 6.4.1b as follows:]

b. For nonidentical-weight pieces, mailers must use either the minimum that applies to the average piece weight for the entire mailing or container by the actual piece count or mail weight for each container destination, provided that documentation can be provided with the mailing that shows the number of pieces and their total weight for each container.

* * * * *

[Revise title of 6.4.2 as follows:]

6.4.2 Tray Label

* * * * *

466 Enter and Deposit

* * * * *

2.0 Presenting a Mailing

* * * * *

[Add a new 2.7 as follows:]

2.7 Segregation of Origin SCF Trays

Mailers must make all required, and may make any optional, separations containing irregular parcels destinating in the service area of the SCF serving the Post Office where the mail is verified, or the service area of the SCF/plant where mail is entered. For all such separations, mailpieces must be trayed or placed in alternative containers in accordance with 465.0 and segregated from the remainder of the mailing. Mailers must segregate the origin/entry trays by one of these methods: Separately containerize the trays; place the trays in a conspicuous location on top of origin SCF pallet or other container; or present them separately to acceptance personnel.

3.0 Destination Entry

3.1 General

[Revise the second sentence of 3.1 as follows:]

* * * Eligibility for a destination entry price is determined by the sort level, processing category of the mail, and the type of container the mail is in (tray, alternate container, sack or pallet). * * *

* * * * *

[Revise title and text of 3.7 as follows:]

3.7 Mailings of Uncontainerized Bundles

Mailers may present untrayed or uncontainerized, nonpalletized bundles of BPM irregular parcels that are properly prepared for and entered at DDU prices and unloaded according to standards in 3.9.9. Pieces in these bundles are not eligible for barcode discounts.

* * * * *

4.0 Destination Network Distribution Center (DNDC) Entry

4.1 Eligibility

Pieces in a mailing meeting the standards in 3.0 and 4.0 are eligible for the DNDC price when they meet all of the following conditions:

* * * * *

[Revise 4.1d as follows:]

d. Are placed in a tray, approved alternate container, sack or on a pallet that is labeled to the NDC or ASF where deposited, or labeled to a postal facility within that NDCs or ASFs service area (see Exhibit 4.4).

* * * * *

4.3 Presorted Machinable Parcels

[Revise 4.3 as follows:]

Presorted machinable parcels in trays, approved alternate containers or sacks, or on pallets, at all sort levels may claim DNDC prices. Machinable parcels containerized under 465.5.0, or palletized under 705.8.0 may be sorted to destination NDCs under L601 or to destination NDCs and ASFs under L601 and L602. Except as provided in Exhibit 4.4, sortation of machinable parcels to ASFs is optional but is required for the ASF mail to be eligible for DNDC prices. Mailers may opt to sort some or all machinable parcels for ASF service area ZIP Codes to ASFs only when the mail will be deposited at the respective ASFs where the DNDC prices are claimed, under applicable volume standards, using L602. Mailers also may opt to sort machinable parcels only to destination NDCs under L601. When machinable parcels are sorted under L601, only mail for 3-digit ZIP Codes served by a NDC as listed in Exhibit 4.4 is eligible for DNDC prices (i.e., mail for 3-digit ZIP Codes served by an ASF in Exhibit 4.4 is not eligible for DNDC prices, nor are 3-digit ZIP Codes that do not appear on Exhibit 4.4).

[Delete items 4.3a and b in their entirety.]

4.4 Presorted Irregular Parcels

[Revise item 4.4 as follows:]

Presorted irregular parcels in trays, approved alternate containers or on pallets at all sort levels may claim DNDC prices. All pieces in an ADC tray or alternate container, or in a palletized ADC bundle, are eligible for the DNDC price if the ADC facility ZIP Code (as shown in Line 1 of the corresponding tray label or the ADC facility that is the destination of the palletized ADC bundle as would be shown on an ADC tray label for that facility using L004, Column B) is within the service area of the NDC at which the tray or alternate container is deposited under Exhibit 4.4. Separate mixed ADC trays or alternate containers must be prepared for pieces eligible for and claimed at the DNDC price and for parcels not claimed at the DNDC price. Use the “label to” ZIP Code for the ADC to assign ADC bundles to the respective mixed ADC tray or alternate container. Use the address on the parcels to assign parcels to the respective mixed ADC bundle, tray or alternate container, as appropriate. Mail must be entered at the appropriate facility under 4.1.

* * * * *

4.5 Carrier Route Machinable Parcels

[Revise the text of 4.5 as follows:]

Carrier Route machinable parcels in individual carrier route trays, sacks or alternate containers may claim DNDC prices. Mail must be entered at the appropriate facility under 4.1.

* * * * *

5.0 Destination Sectional Center Facility (DSCF) Entry

* * * * *

[Revise the text of 5.2 through 5.5 as follows:]

5.2 Presorted Machinable Parcels

Presorted machinable parcels in trays, alternate containers, sacks, or on pallets, at the 5-digit scheme and 5-digit sort levels may claim DSCF prices. Mail must be entered at the appropriate facility under 5.1.

5.3 Presorted Irregular Parcels

Presorted irregular parcels in trays, alternate containers or sacks, at the 5-digit scheme, 5-digit, 3-digit, and SCF sort levels, or on pallets at the 5-digit scheme, 5-digit, 3-digit, SCF, and ASF sort levels may claim DSCF prices. Mail must be entered at the appropriate facility under 5.1.

5.4 Carrier Route Machinable Parcels

Carrier Route machinable parcels in individual carrier route trays, sacks or alternate containers may claim DSCF prices. Mail must be entered at the appropriate facility under 5.1.

5.5 Carrier Route Irregular Parcels

Carrier Route irregular parcels in trays, sacks or alternate containers at all sort levels or on pallets at the 5-digit scheme, 5-digit, 3-digit, SCF, and ASF sort levels may claim DSCF prices. Mail must be entered at the appropriate facility under 5.1.

6.0 Destination Delivery Unit (DDU) Entry

* * * * *

[Revise the text of 6.2 through 6.5 as follows:]

6.2 Presorted Machinable Parcels

Presorted machinable parcels in 5-digit scheme and 5-digit trays, alternate containers or sacks, or on 5-digit scheme and 5-digit pallets, may claim DDU prices. Mail must be entered at the appropriate facility under 6.1.

6.3 Presorted Irregular Parcels

Presorted irregular parcels in 5-digit scheme or 5-digit trays, alternate containers or sacks, or on 5-digit scheme or 5-digit pallets, or prepared as uncontainerized 5-digit bundles may claim DDU prices. Mailers must enter mail at the appropriate facility under 6.1.

6.4 Carrier Route Machinable Parcels

Carrier Route machinable parcels sorted to carrier route trays, sacks or alternate containers may claim DDU prices. Mail must be entered at the appropriate facility under 6.1.

6.5 Carrier Route Irregular Parcels

Carrier Route irregular parcels in trays or alternate containers, on 5-digit scheme and 5-digit pallets, or prepared as uncontainerized carrier route bundles may claim DDU prices. Mailers must enter mail at the appropriate facility under 6.1.

470 Media Mail

473 Prices and Eligibility

* * * * *

3.0 Price Eligibility for Media Mail Parcels

* * * * *

3.4 Price Categories for Media Mail

Media Mail prices are based on the weight of the piece without regard to zone. The price categories and discounts are as follows:

[Revise the first sentence of 3.4a as follows:]

a. To qualify for the 5-digit price, a piece must be prepared and sorted to either 5-digit scheme (machinable parcels only) and 5-digit trays, approved alternate containers or sacks under 475.5.0 or to 5-digit scheme (machinable parcels only) and 5-digit pallets under 705.8.0, or 705.20.0. * * *

* * * * *

475 Mail Preparation

1.0 General Information for Mail Preparation

* * * * *

1.3 Terms for Presort Levels

Terms used for presort levels are defined as follows:

* * * * *

[Revise 1.3b as follows:]

b. 5-digit scheme (pallets, trays, approved alternate containers and sacks) for Media Mail parcels: The ZIP Code in the delivery address on all pieces begins with one of the 5-digit ZIP Code zones processed by the USPS as a single scheme, as shown in L606.

* * * * *

1.4 Preparation Definitions and Instructions

For purposes of preparing mail:

* * * * *

[Resequence items 1.4b through h as the new 1.4c through i and add a new 1.4b as follows:]

b. An approved alternate container is a container that is authorized by the appropriate USPS official, instead of a flat tray (tub) or pallet, for the handling and transport of bundled flat-size mailpieces or parcels. Alternate containers could include sacks, other USPS-supplied mail transport equipment, or mailer-supplied containers.

* * * * *

[Revise the first three sentences of resequenced 1.4d as follows:]

d. A 5-digit scheme sort for Media Mail parcels yields 5-digit scheme trays approved alternate containers, sacks or pallets for those 5-digit ZIP Codes listed in L606 and 5-digit trays approved alternate containers, sacks or pallets for other ZIP Codes. The 5-digit ZIP Codes in each scheme are treated as one presort destination subject to a single minimum volume (if required), with no further separation by 5-digit ZIP Code required. Trays approved alternate containers, sacks or pallets prepared for a 5-digit scheme destination that contain pieces for only one of the schemed 5-digit ZIP Codes are still considered 5-digit scheme sorted and are labeled accordingly. * * *

[Redesignate resequenced 1.4e through i as the new 1.4f through j and insert a new 1.4e as follows:]

e. An origin 3-digit (or origin 3-digit scheme) tray/sack contains all mail (regardless of quantity) for a 3-digit ZIP Code (or 3-digit scheme) area processed by the SCF in whose service area the mail is verified. If more than one 3-digit (or 3-digit scheme) area is served, as indicated in L005, a separate tray/sack must be prepared for each. These separations are optional, but mailers making these separations must segregate flat trays, approved alternate containers or pallets labeled to destinations within the origin SCF area from the remainder of the mailing under 476.2.1.

* * * * *

[Add a new 1.5 as follows:]

1.5 Required Pallet Preparation

Mailers must prepare pallets under 705.8 when they have reached the minimum load requirements described in 705.8.5.3. If a mailer is unable to palletize, mail must be separated and placed in properly labeled flat trays or approved alternate containers.

* * * * *

[Revise title of 3.0 as follows:]

3.0 Trays and Alternate Containers

[Renumber current 3.1 as the new 3.2 and add a new 3.1 as follows:]

3.1 Standard Containers

If mailers are unable to palletize, mailings must be prepared in flat trays or approved alternate containers, except that 5-digit and 5-digit scheme separations may be prepared in sacks.

[Revise title and text of renumbered 3.2 as follows:]

3.2 Tray Preparation

All tray, approved alternate container and sack preparation is subject to these standards:

a. Each tray, alternate container or sack must bear the correct tray label.

b. The weight of a tray, alternate container or sack, and its contents, must not exceed 70 pounds.

* * * * *

[Revise title of 4.0 as follows:]

4.0 Tray Labels

4.1 Basic Standards

[Revise 4.1 as follows:]

Tray labels are subject to the following:

a. Barcoded labels for mailings placed in flat trays or approved alternate containers are subject to 4.9 and 708.6.5.

b. Illegible labels are not acceptable. Machine-printed labels (available from the USPS) ensure legibility. Legible hand-printed labels are acceptable.

[Revise title of 4.2 as follows:]

4.2 Physical Characteristics of a Tray Label

[Revise 4.2 as follows:]

A tray label must meet these specifications:

a. Color: white or manila.

b. Weight: 70-pound or heavier stock (required for mailings of automation-compatible flats, optional for others).

c. Length (parallel to printing): 3.250 inches minimum; 3.515 inches maximum.

d. Height (perpendicular to printing): 1.860 inches minimum; 2.015 inches maximum.

4.3 Line 1 (Destination Line)

Line 1 (destination line) must meet these standards:

* * * * *

[Revise 4.3c as follows:]

c. Overseas Military Mail. On 5-digit trays, approved alternate containers or sacks for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray, alternate container or sack.

4.4 Line 2 (Content Line)

Line 2 (content line) must meet these standards:

[Revise 4.4a and b as follows:]

a. Placement: Line 2 must be the second visible line on the label. This line must show the class and processing category of the mail in the tray, alternate container or sack, and other information as specified by standards.

b. Codes: The codes shown below must be used as appropriate on Line 2 of tray labels.

* * * * *

4.5 Line 3 (Origin Line)

[Revise the first sentence of 4.5 as follows:]

Line 3 (origin line showing office of mailing or mailer information) must be the bottom line of required information unless the tray, approved alternate container or sack contains mail manifested using the Electronic Verification System (eVS) (see 4.6 for eVS labeling information). * * *

4.6 Electronic Verification System

[Revise the first sentence of 4.6 as follows:]

All trays, approved alternate containers or sacks containing parcels prepared and identified using the Electronic Verification System (eVS) under 705.2.9 must show “eVS” (or the alternatives “EVS” or “E-VS”) directly below Line 3 using the same size and lettering used for Line 3. * * *

* * * * *

[Add a new 4.9 as follows:]

4.9 Basic Standards for Barcoded Tray Labels

Trays, approved alternate containers or sacks may bear barcoded tray labels. When used, barcoded labels must meet these general standards:

a. Mailers must use the appropriate size label as described in 3.1.

b. Mailer-produced barcoded labels must meet the standards in 708.6.0.

c. All information on barcoded labels must be machine-printed. Do not make alterations to preprinted barcoded labels.

d. Mailers must insert a barcoded label completely into the label holder on the tray or alternate container.

e. Intelligent Mail tray labels (see 708.6.0) may optionally be used on trays or alternate containers.

5.0 Preparing Media Mail Parcels

* * * * *

5.2 Preparing Machinable Parcels

[Revise title of 5.2.1 as follows:]

5.2.1 Containerization

[Revise the introductory paragraph of 5.2.1 as follows:]

Mailers must prepare pallets under 705.8 when they have reached the minimum load requirements described in 705.8.5.3. Otherwise, mailers must prepare a tray, approved alternate container or sack when the quantity of mail for a required presort destination reaches 10 addressed pieces or 20 pounds, whichever occurs first. At the mailer's option, a tray, approved alternate container or sack may be prepared when the quantity of mail reaches 1,000 cubic inches. Smaller volumes are not permitted (except in mixed NDC trays or alternate containers). Containerization also is subject to these conditions:

[Revise 5.2.1a as follows:]

a. Identical-weight pieces that weigh 2 pounds or less must be containerized using the 10-piece minimum; those that weigh more must be containerized using the 20-pound or 1,000 cubic inch minimum.

[Revise the second sentence of item 5.2.1b as follows:]

b. * * * Alternately, mailers may containerize by the actual piece count, mail weight for each bundle destination, or 1,000 cubic inch minimum, provided that documentation can be provided with the mailing that shows (specifically for each container) the number of pieces and their total weight.

* * * * *

[Revise title of 5.2.2 as follows:]

5.2.2 Containerization and Labeling

Preparation sequence and labeling:

[Revise 5.2.2a as follows:]

a. 5-digit/scheme (optional, but required for 5-digit price); sacking allowed; labeling:

1. Line 1: For 5-digit scheme trays, approved alternate containers or sacks, use L606, Column B. For 5-digit trays, alternate containers or sacks, use city, state, and 5-digit ZIP Code on mail (see 4.3 for overseas military mail).

2. Line 2: For 5-digit scheme trays, alternate containers or sacks, “PSVC MACH 5D SCH.” For 5-digit trays, alternate containers or sacks, “PSVC MACH 5D.”

* * * * *

[Delete 5.2.2c in its entirety and add new 5.2.2 c and d as follows:]

c. Tier 2 Network (required); no minimum; labeling:

1. Line 1: L603, Column C information for the facility serving the 3-digit ZIP Code prefix of entry Post Office.

2. Line 2: “PSVC MACH WKG.”

d. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C information for the facility serving the 3-digit ZIP Code prefix of entry Post Office.

2. Line 2: “PSVC MACH WKG.”

* * * * *

5.3 Preparing Irregular Parcels

5.3.1 Required Bundling

[Revise the last four sentences of the introductory paragraph of 5.3.1 as follows:]

* * * Bundling is not required for pieces placed in 5-digit scheme trays, approved alternate containers or sacks and 5-digit trays, approved alternate containers or sacks when such pieces are enclosed in an envelope, full-length sleeve, full-length wrapper, or polybag and the minimum bundle volume is met. The maximum weight of each physical bundle is 20 pounds, except that 5-digit bundles placed in 5-digit trays, approved alternate containers or sacks may weigh a maximum of 40 pounds. Each physical bundle must contain at least two addressed pieces. Bundling is also subject to these conditions:

* * * * *

[Revise 5.3.1b as follows:]

b. For nonidentical-weight pieces, mailers must either use the minimum that applies to the average piece weight for the entire mailing (divide the net weight of the mailing by the number of pieces; the resulting average single-piece weight determines whether the 10-piece or 10-pound minimum applies), or bundle by the actual piece count or mail weight for each container, if documentation can be provided with the mailing that shows (specifically for each container) the number of pieces in each bundle and their total weight.

* * * * *

[Revise title of 5.3.3 as follows:]

5.3.3 Containerization

[Revise the introductory paragraph of 5.3.3 as follows:]

Mailers must prepare pallets under 705.8 when they have reached the minimum load requirements described in 705.8.5.3. Otherwise, mailers must prepare a tray, approved alternate container or sack when the quantity of mail for a required presort destination reaches 10 addressed pieces or 20 pounds, whichever occurs first. At the mailer's option, a tray, alternate container or sack may be prepared when the quantity of mail reaches 1,000 cubic inches. Smaller volumes are not permitted (except in mixed ADC containers). Optional 5-digit scheme containers may be prepared only when there are at least 10 addressed pieces or 20 pounds. Smaller volumes are not permitted (except in mixed ADC containers). Containerization is also subject to these conditions:

[Revise 5.3.3a as follows:]

a. Identical-weight pieces weighing 2 pounds or less must be containerized using the 10-piece minimum; those that weigh more must be containerized using the 20-pound or 1,000 cubic inch minimum.

[Revise the second sentence of 5.3.3b as follows:

b. * * * Alternatively, mailers may containerize by the actual piece count, mail weight for each destination, or 1,000 cubic inch minimum, provided that documentation can be provided with the mailing that shows (specifically for each container) the number of pieces in each container and their total weight.

[Revise 5.3.3c as follows:]

c. Mailers must note on the postage statement which containerization method was used except for eVS mailings prepared under 705.2.9.

[Revise the title and introductory paragraph of 5.3.4 as follows:]

5.3.4 Containerization and Labeling

Mailers must segregate trays, alternate containers or sacks destined within the origin/entry SCF (no piece minimum) as described in 476.2.1. Preparation sequence and labeling:

[Revise 5.3.4a as follows:]

a. 5-digit/scheme (optional, but required for 5-digit price); sacking allowed; when making these separations; labeling:

1. Line 1: For 5-digit scheme trays, approved alternate containers or sacks, use L606, Column B. For 5-digit trays, approved alternate containers or sacks, use city, state, and 5-digit ZIP Code on mail (see 4.3 for overseas military mail).

2. Line 2: For 5-digit scheme trays, approved alternate containers or sacks, “PSVC IRREG 5D SCH.” For 5-digit trays, approved alternate containers or sacks, “PSVC IRREG 5D.”

* * * * *

[Delete 5.3.4d in its entirety and add new 5.3.4d through f as follows:]

d. Origin Network Distribution Center (NDC) Network (required); no minimum; labeling:

1. Line 1: L601, Column B.

2. Line 2: “PSVC IRREG NDC.”

e. Tier 2 Network (required); no minimum; labeling:

1. Line 1: L603, Column C.

2. Line 2: “PSVC IRREG WKG.”

f. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C.

2. Line 2: “PSVC IRREG WKG.”

476 Enter and Deposit

* * * * *

[Add a new 2.0 and 2.1 as follows:]

2.0 Presenting a Mailing

2.1 Segregation of Origin SCF Trays

Mailers must make all required, and may make any optional, separations containing origin/entry 3-digit and irregular parcels origin/entry 5-digit (scheme) trays, approved alternate containers or sacks destinating in the service area of the SCF serving the Post Office where the mail is verified, or the service area of the SCF/plant where mail is entered. For all such separations, mailpieces must be trayed or placed in alternative containers in accordance with 475.0 and segregated from the remainder of the mailing. Mailers must segregate the origin/entry trays by one of these methods: Separately containerize the trays; place the trays in a conspicuous location on top of origin SCF pallet or other container; or present them separately to acceptance personnel.

480 Library Mail

483 Prices and Eligibility

* * * * *

3.0 Price Eligibility for Library Mail Parcels

* * * * *

3.4 Price Categories for Library Mail

Library Mail prices are based on the weight of the piece without regard to zone. The price categories and discounts are as follows:

[Revise the first sentence 3.4a as follows:]

a. To qualify for the 5-digit price, a piece must be prepared and sorted to either 5-digit scheme (machinable parcels only) and 5-digit trays, approved alternate containers or sacks under 485.5.0 or to 5-digit scheme (machinable parcels only) and 5-digit pallets under 705.8.0, or 705.20.0. * * *

* * * * *

485 Mail Preparation

1.0 General Information for Mail Preparation

* * * * *

1.3 Terms for Presort Levels

Terms used for presort levels are defined as follows:

* * * * *

[Revise 1.3b as follows:]

b. 5-digit scheme (pallets, trays, approved alternate containers and sacks) for Library Mail parcels: The ZIP Code in the delivery address on all pieces begins with one of the 5-digit ZIP Code zones processed by the USPS as a single scheme, as shown in L606.

* * * * *

1.4 Preparation Definitions and Instructions

For purposes of preparing mail:

* * * * *

[Resequence items 1.4b through h as the new 1.4c through i and add a new 1.4b as follows:]

b. An approved alternate container is a container that is authorized by the appropriate USPS official, instead of a flat tray (tub) or pallet, for the handling and transport of bundled flat-size mailpieces or parcels. Alternate containers could include sacks, other USPS-supplied mail transport equipment, or mailer-supplied containers.

* * * * *

[Revise the first three sentences of resequenced 1.4d as follows:]

d. A 5-digit scheme sort for Library Mail parcels yields 5-digit scheme trays, approved alternate containers, sacks or pallets for those 5-digit ZIP Codes listed in L606 and 5-digit trays, approved alternate containers, sacks or pallets for other ZIP Codes. The 5-digit ZIP Codes in each scheme are treated as one presort destination subject to a single minimum volume, with no further separation by 5-digit ZIP Code required. Trays, approved alternate containers, sacks or pallets prepared for a 5-digit scheme destination that contain pieces for only one of the schemed 5-digit ZIP Codes are still considered 5-digit scheme sorted. * * *

[Redesignate resequenced items 1.4e through i as the new 1.4f through j and insert a new 1.4e as follows:]

e. An origin 3-digit (or origin 3-digit scheme) tray or alternate container contains all mail (regardless of quantity) for a 3-digit ZIP Code (or 3-digit scheme) area processed by the SCF in whose service area the mail is verified. If more than one 3-digit (or 3-digit scheme) area is served, as indicated in L005, a separate tray or alternate container must be prepared for each. These separations are optional, but mailers making these separations must segregate flat trays, approved alternate containers or pallets labeled to destinations within the origin SCF area be segregated from the remainder of the mailing under 486.2.1.

* * * * *

[Add a new 1.5 as follows:]

1.5 Required Pallet Preparation

Mailers must prepare pallets under 705.8 when they have reached the minimum load requirements described in 705.8.5.3. If a mailer is unable to palletize, mail must be separated and placed in properly labeled flat trays or approved alternate containers.

* * * * *

[Revise title of 3.0 as follows:]

3.0 Trays and Alternate Containers

[Renumber current 3.1 as the new 3.2 and add a new 3.1 as follows:]

3.1 Standard Containers

If mailers are unable to palletize, mailings must be prepared in flat trays or approved alternate containers, except that 5-digit and 5-digit scheme separations may be prepared in sacks.

[Revise title and text of renumbered 3.2 as follows:]

3.2 Tray Preparation

All tray, approved alternate container and sack preparation is subject to these standards:

a. Each tray, alternate container or sack must bear the correct tray label.

b. The weight of a tray, alternate container or sack, and its contents, must not exceed 70 pounds.

[Revise title of 4.0 as follows:]

4.0 Tray Labels

4.1 Basic Standards

[Revise 4.1 as follows:]

Tray labels are subject to the following:

a. Barcoded labels for mailings placed in flat trays or approved alternate containers are subject to 4.9 and 708.6.5.

b. Illegible labels are not acceptable. Machine-printed labels (available from the USPS) ensure legibility. Legible hand-printed labels are acceptable.

[Revise title of 4.2 as follows:]

4.2 Physical Characteristics of a Tray Label

[Revise 4.2 as follows:]

A tray label must meet these specifications:

a. Color: white or manila.

b. Weight: 70-pound or heavier stock (required for mailings of automation-compatible flats, optional for others).

c. Length (parallel to printing): 3.250 inches minimum; 3.515 inches maximum.

d. Height (perpendicular to printing): 1.860 inches minimum; 2.015 inches maximum.

4.3 Line 1 (Destination Line)

Line 1 (destination line) must meet these standards:

* * * * *

[Revise 4.3c as follows:]

c. Overseas Military Mail. On 5-digit trays, approved alternate containers or sacks for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray, alternate container or sack.

4.4 Line 2 (Content Line)

Line 2 (content line) must meet these standards:

[Revise items 4.4a and b as follows:]

a. Placement: Line 2 must be the second visible line on the label. This line must show the class and processing category of the mail in the tray, alternate container or sack, and other information as specified by standards.

b. Codes: The codes shown below must be used as appropriate on Line 2 of tray labels.

* * * * *

4.5 Line 3 (Origin Line)

[Revise the first sentence of 4.5 as follows:]

Line 3 (origin line showing office of mailing or mailer information) must be the bottom line of required information unless the tray, approved alternate container or sack contains mail manifested using the Electronic Verification System (eVS) (see 4.6 for eVS labeling information). * * *

4.6 Electronic Verification System

[Revise the first sentence of 4.6 as follows:]

All trays, approved alternate containers or sacks containing parcels prepared and identified using the Electronic Verification System (eVS) under 705.2.9 must show “eVS” (or the alternatives “EVS” or “E-VS”) directly below Line 3 using the same size and lettering used for Line 3. * * *

* * * * *

[Add a new 4.9 as follows:]

4.9 Basic Standards for Barcoded Tray Labels

Trays, approved alternate containers or sacks may bear barcoded tray labels.

When used, barcoded labels must meet these general standards:

a. Mailers must use the appropriate size label as described in 3.1.

b. Mailer-produced barcoded labels must meet the standards in 708.6.0.

c. All information on barcoded labels must be machine-printed. Do not make alterations to preprinted barcoded labels.

d. Mailers must insert a barcoded label completely into the label holder on the tray or alternate container.

e. Intelligent Mail tray labels (see 708.6.0) may optionally be used on trays or alternate containers.

5.0 Preparing Library Mail Parcels

* * * * *

5.2 Preparing Machinable Parcels

[Revise title of 5.2.1 as follows:]

5.2.1 Containerization

[Revise the introductory paragraph of 5.2.1 as follows:]

Mailers must prepare pallets under 705.8 when they have reached the minimum load requirements described in 705.8.5.3. Otherwise, mailers must prepare a tray, approved alternate container or sack when the quantity of mail for a required presort destination reaches 10 addressed pieces or 20 pounds, whichever occurs first. At the mailer's option, a tray, approved alternate container or sack may be prepared when the quantity of mail reaches 1,000 cubic inches. Smaller volumes are not permitted (except in mixed NDC trays or alternate containers). Containerization also is subject to these conditions:

[Revise 5.2.1a as follows:]

a. Identical-weight pieces that weigh 2 pounds or less must be containerized using the 10-piece minimum; those that weigh more must be containerized using the 20-pound or 1,000 cubic inch minimum.

[Revise the second sentence 5.2.1b as follows:]

b. * * * Alternately, mailers may containerize by the actual piece count, mail weight for each bundle destination, or 1,000 cubic inch minimum, provided that documentation can be provided with the mailing that shows (specifically for each container) the number of pieces and their total weight.

* * * * *

[Revise title of 5.2.2 as follows:]

5.2.2 Containerization and Labeling

Preparation sequence and labeling:

[Revise 5.2.2a as follows:]

a. 5-digit/scheme (optional, but required for 5-digit price); sacking allowed; labeling:

1. Line 1: For 5-digit scheme trays, approved alternate containers or sacks, use L606, Column B. For 5-digit trays, alternate containers or sacks, use city, state, and 5-digit ZIP Code on mail (see 4.3 for overseas military mail).

2. Line 2: For 5-digit scheme trays, alternate containers or sacks, “PSVC MACH 5D SCH.” For 5-digit trays, alternate containers or sacks, “PSVC MACH 5D.”

* * * * *

[Delete 5.2.2c in its entirety and add new 5.2.2c and d as follows:]

c. Tier 2 Network (required); no minimum; labeling:

1. Line 1: L603, Column C information for the facility serving the 3-digit ZIP Code prefix of entry Post Office.

2. Line 2: “PSVC MACH WKG.”

d. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C information for the facility serving the 3-digit ZIP Code prefix of entry Post Office.

2. Line 2: “PSVC MACH WKG.”

5.3 Preparing Irregular Parcels

5.3.1 Required Bundling

[Revise the last four sentences of the introductory paragraph of 5.3.1 as follows:]

* * * Bundling is not required for pieces placed in 5-digit scheme trays, approved alternate containers or sacks and 5-digit trays, approved alternate containers or sacks when such pieces are enclosed in an envelope, full-length sleeve, full-length wrapper, or polybag and the minimum bundle volume is met. The maximum weight of each physical bundle is 20 pounds, except that 5-digit bundles placed in 5-digit trays, approved alternate containers or sacks may weigh a maximum of 40 pounds. Each physical bundle must contain at least two addressed pieces. Bundling is also subject to these conditions:

* * * * *

[Revise 5.3.1b as follows:]

b. For nonidentical-weight pieces, mailers must either use the minimum that applies to the average piece weight for the entire mailing, or bundle by the actual piece count or mail weight for each container, if documentation can be provided with the mailing that shows the number of pieces in each bundle and their total weight for each container.

* * * * *

[Revise title of 5.3.3 as follows:]

5.3.3 Containerization

[Revise the introductory paragraph of 5.3.3 as follows:]

Mailers must prepare pallets under 705.8 when they have reached the minimum load requirements described in 705.8.5.3. Otherwise, mailers must prepare a tray, approved alternate container or sack when the quantity of mail for a required presort destination reaches 10 addressed pieces or 20 pounds, whichever occurs first. At the mailer's option, a tray, alternate container or sack may be prepared when the quantity of mail reaches 1,000 cubic inches. Smaller volumes are not permitted (except in mixed ADC containers). Optional 5-digit scheme containers may be prepared only when there are at least 10 addressed pieces or 20 pounds. Smaller volumes are not permitted (except in mixed ADC containers). Containerization is also subject to these conditions:

[Revise 5.3.3a as follows:]

a. Identical-weight pieces weighing 2 pounds or less must be containerized using the 10-piece minimum; those that weigh more must be containerized using the 20-pound or 1,000 cubic inch minimum.

[Revise the second sentence 5.3.3b as follows:]

b. * * * Alternatively, mailers may containerize by the actual piece count, mail weight for each destination, or 1,000 cubic inch minimum, provided that documentation can be provided with the mailing that shows (specifically for each container) the number of pieces in each container and their total weight.

[Revise 5.3.3c as follows:]

c. Mailers must note on the postage statement which containerization method was used except for eVS mailings prepared under 705.2.9.

[Revise the title and introductory paragraph only of 5.4.2 as follows:]

5.3.4 Containerization and Labeling

Mailers must segregate trays, alternate containers or sacks destined within the origin/entry SCF (no piece minimum) as described in 486.2.1. Preparation sequence and labeling:

[Revise 5.3.4a as follows:]

a. 5-digit/scheme (optional, but required for 5-digit price); sacking allowed; labeling:

1. Line 1: For 5-digit scheme trays, approved alternate containers or sacks, use L606, Column B. For 5-digit trays, approved alternate containers or sacks, use city, state, and 5-digit ZIP Code on mail (see 4.3 for overseas military mail).

2. Line 2: For 5-digit scheme trays, approved alternate containers or sacks, “PSVC IRREG 5D SCH.” For 5-digit trays, approved alternate containers or sacks, “PSVC IRREG 5D.”

* * * * *

[Delete 5.3.4d in its entirety and add new 5.3.4d through f as follows:]

d. Origin Network Distribution Center (NDC) Network (required); no minimum; labeling:

1. Line 1: L601, Column C.

2. Line 2: “PSVC IRREG NDC.”

e. Tier 2 Network (required); no minimum; labeling:

1. Line 1: L603, Column C.

2. Line 2: “PSVC IRREG WKG.”

f. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C.

2. Line 2: “PSVC IRREG WKG.”

* * * * *

486 Enter and Deposit

* * * * *

[Add a new 2.0 and 2.1 as follows:]

2.0 Presenting a Mailing

2.1 Segregation of Origin SCF Trays

Mailers must make all required, and may make any optional, separations containing origin/entry 3-digit and irregular parcels origin/entry 5-digit (scheme) trays, approved alternate containers or sacks destinating in the service area of the SCF serving the Post Office where the mail is verified, or the service area of the SCF/plant where mail is entered. For all such separations, mailpieces must be trayed or placed in alternative containers in accordance with 485.0 and segregated from the remainder of the mailing. Mailers must segregate the origin/entry trays by one of these methods: separately containerize the trays; place the trays in a conspicuous location on top of origin SCF pallet or other container; or present them separately to acceptance personnel.

500 Additional Services

* * * * *

507 Mailer Services

* * * * *

11.0 Merchandise Return Service

* * * * *

11.7 Priority Mail Reshipment

* * * * *

[Revise the title of 11.7.3 as follows:]

11.7.3 Container Tag

[Revise the first sentence of 11.7.3 as follows:]

If a sack, or approved alternate container is used as the mail container for Priority Mail reshipment, the permit holder must provide a tag and an address label containing the delivery address of the postage due unit at the Post Office where the permit is held, the permit holder's address, a space for the customer's return address, and otherwise meet the format standards in 11.6 for each affected postal facility. * * *

* * * * *

700 Special Standards

* * * * *

705 Advanced Preparation and Special Postage Payment Systems

1.0 Customized MarketMail

* * * * *

1.4 Preparation Standards

* * * * *

1.4.5 Required Bundling

[Revise the first sentence of 1.4.5 as follows:]

Bundling is required before traying or filling other mailing containers. * * *

* * * * *

1.4.7 Required Containerizing

The following standards apply to containerizing CMM pieces:

* * * * *

[Revise the first sentence of 1.4.7b as follows:]

b. Bundles in drop shipment mailings under 246.2.0 and 246.5.0 must be placed in letter trays, flat trays, or approved alternate containers.

* * * * *

1.4.8 Containerizing and Labeling

Prepare and label containers as follows:

[Revise 1.4.8a as follows:]

a. Drop shipments under 246.2.0 and 246.5.0 must be prepared in 5-digit trays or approved alternate containers, or as an option, in 5-digit scheme (under L606, Column B), carrier route, or 5-digit carrier routes trays or containers, labeled as follows:

* * * * *

[Revise 14.8a2 and 8a3 as follows:]

2. Line 2: “DEL LTR STD CMM MAN” (for letter trays); “DEL FLTS STD CMM MAN” (for flat trays); “DEL STD CMM MAN” (for other approved alternate containers).

3. Line 3: Office of mailing or mailer information (see 707.21.0).

* * * * *

6.0 Combining Mailings of Standard Mail, Package Services, and Parcel Select Parcels

6.1 Basic Standards for Combining Parcels and NFMs

6.1.1 Basic Standards

Standard Mail parcels, NFMs, Package Services, and Parcel Select parcels in combined mailings must meet the following standards:

* * * * *

[Revise the last sentence of 6.1.1d as follows:]

d. * * * Pieces claimed at other prices in the same flat tray or approved alternate container or on the same pallet do not count towards these minimum volume requirements.

* * * * *

6.2 Combining Parcels and NFMs—DNDC Entry

* * * * *

6.2.2 Additional Standards

Standard Mail machinable parcels, NFMs 6 ounces or more, and Package Services and Parcel Select machinable parcels prepared for DNDC entry must meet the following conditions in addition to the basic standards in 6.1:

* * * * *

[Revise 6.2.2d as follows:]

d. Mailers must prepare all parcels on pallets or in pallet boxes under 8.0; or in flat trays, approved alternate containers or sacks under 6.2.3, or to achieve the finest level of sortation.

* * * * *

[Revise title and text of introductory sentence of 6.2.3 as follows:]

6.2.3 Containerization and Labeling

Preparation sequence and labeling:

[Revise the opening paragraphs of 6.2.3a and b as follows:]

a. 5-digit scheme, optional, but required for Standard Mail 5-digit price eligibility, 10-piece or 20-pound minimum; sacking permitted; labeling:

* * * * *

b. 5-digit, optional, but required for Standard Mail 5-digit price eligibility, 10-piece or 20-pound minimum; sacking permitted; labeling:

* * * * *

[Delete 6.2.3e in its entirety and add new 6.2.3e and f as follows:]

e. Tier 2 Network (required); no minimum; labeling:

1. Line 1: “MXD” followed by L601, Column C, based on information for the facility serving the 3-digit ZIP Code prefix of entry Post Office.

2. Line 2: “STD/PSVC MACH WKG.”

f. Tier 2 Network (required for specified acceptance locations); if the origin NDC is Chicago, Cincinnati or Saint Louis, use Labeling List L603 to separate the remaining mail into two east or west directionally-based containers; if the origin NDC is San Francisco, use Labeling List L603 to separate the remaining mail into two north or south directionally-based containers; no minimum; labeling:

1. Line 1: L603, Column C, based on information for the facility serving the 3-digit ZIP Code prefix of entry Post Office.

2. Line 2: “STD/PSVC MACH WKG.”

* * * * *

6.3 Combining Parcels—Parcel Select ONDC Presort, NDC Presort, DSCF, and DDU Prices

* * * * *

6.3.2 Preparation and Prices

Combined parcels must be prepared as follows:

* * * * *

[Revise the introductory paragraph of 6.3.2b as follows:]

b. Parcel Select or Bound Printed Matter Qualifying for DSCF Prices. Mailers must prepare the combined mailings under the 5-digit scheme and 5-digit tray, sack or approved alternate container requirements in 455.4.2 or the 5-digit scheme and 5-digit pallet requirements in 8.0 for the Parcel Select DSCF prices. All other requirements for Parcel Select DSCF prices and Standard Mail prices must be met. The following additional requirements apply:

[Revise 6.3.2b1 as follows:]

1. If trayed, sacked or placed in approved alternate containers under 455.4.2, the minimum requirement of seven pieces per tray, sack or container must be met with only Package Services and Parcel Select parcels. After the minimum tray, sack or container volume has been met; Standard Mail parcels may be included in the same tray, sack or container or in overflow trays, sacks or containers.

* * * * *

[Revise 6.3.2b5 as follows:]

5. Line 2 of 5-digit scheme pallet and tray labels must read: “STD/PSVC MACH 5D SCH.” Line 2 of 5-digit pallet and tray labels must read: “STD/PSVC MACH 5D.”

* * * * *

7.0 Combining Package Services and Parcel Select Parcels for Destination Entry

* * * * *

7.1 Combining Parcels—DSCF and DDU Entry

7.1.1 Qualification

[Revise the first sentence of the introductory paragraph of 7.1.1 as follows:]

Mailers may combine Package Services and Parcel Select parcels in 5-digit scheme and 5-digit flat trays, sacks or approved alternate containers or on 5-digit scheme and 5-digit pallets for entry either at a destination sectional center facility (DSCF) or a destination delivery unit (DDU) when authorized by the USPS under 7.5. * * *

7.1.2 Basic Standards

[Revise the introductory sentence of 7.1.2 as follows:]

All Package Services and Parcel Select parcels that meet the following conditions may be combined in 5-digit scheme and 5-digit flat trays, sacks or approved alternate containers or 5-digit scheme and 5-digit pallets under these conditions:

* * * * *

[Revise the first sentence of 7.1.2c as follows:]

c. All parcels must be prepared in flat trays, sacks or approved alternate containers under 7.2 or on pallets under 7.3. * * *

* * * * *

[Revise title of 7.1.3 as follows:]

7.1.3 Combined Parcels Prepared in Trays or Sacks—Price Eligibility

[Revise the introductory paragraph of 7.1.3 and items 7.1.3a through e as follows:]

In addition to the applicable standards in 455.4.0 and 466.3.0 through 466.6.0 for destination entry Parcel Select and Bound Printed Matter, the following standards apply for combined parcels prepared in flat trays, sacks or approved alternate containers:

a. Parcel Select DSCF prices apply to parcels that are in 5-digit scheme and 5-digit flat trays, sacks or approved alternate containers, each with at least 10 pieces of any combination of Parcel Select and Package Services mail, or that are in overflow trays, sacks or alternate containers under 7.2.2, when all other requirements for the DSCF price in 453.3.0 and 455.4.2 are met. Parcel Select DDU prices apply to parcels that are contained in 5-digit scheme and 5-digit trays, sacks or alternate containers, each with at least 10 pieces of any combination of Parcel Select and Package Services mail, or that are in overflow trays, sacks or alternate containers under 7.2.2, when all other requirements for the DDU price in 453.3.0 and 455.4.1 are met.

b. Presorted Bound Printed Matter DSCF prices apply to parcels that are in 5-digit scheme and 5-digit trays, sacks or alternate containers, each with at least 10 pieces of any combination of Parcel Select and Package Services mail, or that are in overflow trays, sacks or alternate containers under 7.2.2, when all other requirements for the DSCF price in 466.3.0 through 466.6.0 are met. Presorted Bound Printed Matter DDU prices apply to parcels that are contained in 5-digit scheme and 5-digit trays, sacks or alternate containers, each containing at least 10 pieces of any combination of Parcel Select and Package Services mail, or contained in overflow trays, sacks or alternate containers under 7.2.2, provided all other requirements for the DDU price in 466.3.0 through 466.6.0 are met.

c. Presorted Library Mail 5-digit prices apply to parcels that are in 5-digit scheme and 5-digit trays, sacks or alternate containers sacks, each with at least 10 pieces of any combination of Parcel Select and Package Services mail, or that are in overflow trays, sacks or alternate containers under 7.2.2.

d. Presorted Media Mail 5-digit prices apply to parcels that are in 5-digit scheme and 5-digit trays, sacks or alternate containers, each with at least 10 pieces of any combination of Parcel Select and Package Services mail, or that are in overflow trays, sacks or alternate containers under 7.2.2.

e. Single-piece price parcels that are in 5-digit scheme and 5-digit trays, sacks or alternate containers, each with at least 10 pieces of any combination of Parcel Select and Package Services mail, or that are in overflow trays, sacks or alternate containers under 7.2.2, qualify for single-piece prices.

[Revise title and text 7.1.4 as follows:]

7.1.4 Containerization

Only 5-digit scheme and 5-digit trays, sacks or alternate containers may be prepared. Each tray, sack or alternate container of combined Parcel Select and Package Services mail must contain at least 10 pieces. One overflow tray, alternate container or sack containing fewer than 10 pieces is permitted per destination.

[Revise title and text of the introductory sentence only of 7.15 as follows:]

7.1.5 Labeling

Tray labels must be prepared as follows:

* * * * *

7.2 Combining Parcel Select and Package Services Machinable Parcels for DNDC Entry

* * * * *

[Revise title and text of the introductory sentence only of 7.2.3 as follows:]

7.2.3 Containerization and Labeling

Preparation sequence, container type, and labeling:

* * * * *

[Revise the opening sentence of items 7.2.3c and d as follows:]

c. ASF, optional, allowed only for mail deposited at an ASF to claim DNDC price, 10-piece or 20-pound minimum; flat trays or approved alternate containers required; labeling:

* * * * *

d. NDC, required,10-piece or 20-pound minimum; flat trays or approved alternate containers required; labeling:

* * * * *

8.0 Preparing Pallets

* * * * *

8.2 Top Caps

8.2.1 Use

Top caps are used as follows:

[Revise 8.2.1a as follows:]

a. Except as provided below, all pallets or pallet boxes must be top-capped if the pallets are stacked two, three, or four tiers high when presented to the USPS for acceptance.

* * * * *

8.5 General Preparation

8.5.1 Presort

[Revise 8.5.1, starting with the forth sentence as follows:]

* * * For trays, approved alternate containers or machinable parcels on pallets, the mailer must prepare all required pallet levels before preparing any mixed ADC or mixed NDC pallets for a mailing job. Bundles that cannot be placed on pallets must be prepared in flat trays or other approved alternate containers under the applicable standards. Bundle reallocation standards (8.11, 8.13, and 8.14) to protect the SCF, ADC, or NDC pallets may result in some bundles of Periodicals flats and irregular parcels and Standard Mail flats not being placed on the finest level of pallet possible. Mailers must use PAVE-certified presort software to prepare mailings using bundle reallocation (bundle reallocation is optional, but if performed, it must be done for the complete mailing job).

8.5.2 Required Preparation

The following standards apply to Periodicals, Standard Mail, Parcel Select, and Package Services, except Parcel Select mailed at NDC Presort, ONDC Presort, DSCF, and DDU prices.

* * * * *

[Revise 8.5.2c as follows:]

c. Trays, bundles or parcels that cannot be prepared on a direct pallet must be placed on the appropriate Origin Network Distribution Center, Tier 2 Network, Directional Tier 2 Network, Local Surface Transport or Extended Surface Network pallet, when the volume reaches 150 pounds, or three layers of trays, for any pallet level. Mailers may optionally make pallets with less than 150 pounds or 36 linear feet of trays for these pallet levels. Mailers choosing not to make optional pallets, or unable to palletize, must prepare bundles in flat trays or approved alternate containers under applicable preparation standards.

8.5.3 Minimum Load

The following minimum load standards apply to mail prepared on pallets:

a. For Periodicals, Standard Mail, Parcel Select, and Package Services (except for Parcel Select mailed at NDC Presort, ONDC Presort, DSCF, and DDU prices):

[Revise 8.5.3a1 as follows:]

1. In a single mailing, the minimum load per pallet is 250 pounds of bundles, parcels, or approved alternate containers, except as provided in items 2 through 4 below. When preparing letter trays on pallets, the minimum load is 36 linear feet or three layers of trays, except as provided in item 3 below.

* * * * *

[Add a new 8.5.3a6 as follows:]

6. There is no minimum load for Origin Entry 3-Digit, Origin Network Distribution Center, Tier 2 Network, Directional Tier 2 Network, Local Surface Transport or Extended Surface Network pallets.

* * * * *

8.5.5 Maximum Load

[Revise the first sentence of 8.5.5 as follows:]

The maximum weight (mail and pallet) is 2,200 pounds. The maximum height of a single pallet (mail and pallet) is 77 inches for bundles, parcels, approved alternate containers, or pallet boxes, or 77 inches or 12 layers of trays (whichever occurs first) for letter trays. * * *

8.5.6 Mail on Pallets

These standards apply to mail on pallets:

[Revise 8.5.6a as follows:]

a. Pieces in trays, bundles, and approved alternate containers must be prepared under the standards for the class of mail and price claimed.

* * * * *

[Delete 8.5.6g in its entirety and renumber current 8.5.6h and i as the new 8.5.6g and h.]

* * * * *

8.5.9 Address Visibility

This standard does not apply to the following:

* * * * *

[Revise 8.5.9b and c as follows:]

b. Bundles placed in or on 5-digit or 5-digit scheme (L001) approved alternate containers or pallets.

c. Bundles placed in carrier route and 5-digit carrier routes approved alternate containers.

* * * * *

[Revise title and text of 8.5.12 as follows:]

8.5.12 Alternate Containers

All mailers are required to palletize when possible. Mail that is not palletized (e.g. the mailer is physically unable to palletize, the USPS acceptance location is unable to accept pallets, or the bundles do not meet the machinability standards in 8.5.7 through 8.5.11) must be prepared in flat trays or approved alternate containers under the standards for the price claimed. For Periodicals, the mailer must separately place bundles of each publication, which are not palletized, into flat trays or approved alternate containers. Alternate containers that are not palletized must be bedloaded. Alternate containers not placed on pallets may be presented with the palletized mail (and reported on the same postage statement) if separated from the palletized portion of the mailing.

* * * * *

8.8 Basic Uses

These types of mail may be palletized:

* * * * *

[Revise items 8.8b and c as follows:]

b. Bundles of nonletter-size mail not prepared in approved alternate containers.

c. Bundles or parcels in approved alternate containers or in sacks (5-digit or 5-digit scheme only).

* * * * *

8.9 Bundles on Pallets

8.9.1 Applicability

[Revise 8.9.1 as follows:]

Presort bundles of Periodicals, Standard Mail, and Package Services flats and irregular parcels must be placed directly on pallets under 8.9.2 through 8.9.5 and 8.10. Mail that cannot be placed on pallets (e.g. the mailer is physically unable to palletize, the USPS acceptance location is unable to accept pallets, or the bundles do not meet the machinability standards in 8.5.7 through 8.5.11) must be prepared in flat trays or approved alternate containers under the applicable standards. Flat trays or alternate containers that contain any remaining bundles after all pallets are prepared may be presented with the palletized portion of the mailing job (and, subject to 8.16.5, reported on the same postage statement) if the trayed or containerized portion is presented separately from the palletized portion.

* * * * *

8.9.5 Bound Printed Matter

Bound Printed Matter on pallets must be bundled as follows:

* * * * *

b. Presorted and Carrier Route Bound Printed Matter:

[Revise 8.9.5b1 as follows:]

1. Only individual pieces of flats or irregular parcels that weigh less than 10 pounds each may be prepared as bundles on pallets. Presorted pieces that weigh 10 or more pounds each must be prepared and palletized as machinable parcels under 8.10.4. Carrier route pieces that individually weigh 10 or more pounds each must either be prepared and palletized as machinable parcels under 8.10.4, and qualify for Presorted prices or be prepared in alternate containers under 365.6.0 for flats and 465.6.0 for parcels and qualify for carrier route prices.

* * * * *

8.10 Pallet Presort and Labeling

* * * * *

[Revise title of 8.10.2 as follows:]

8.10.2 Periodicals—Bundles, Trays, or Alternate Containers

[Revise the fourth and last sentence of the introductory paragraph of 8.10.2 as follows:]

* * * For mailings of letter trays or bundles of flat-size pieces in approved alternate containers on pallets, pallet preparation begins with 8.10.2e. * * * For pieces meeting the standards in 707.26.0, mailers may prepare the nonpalletized (residual) portion of a mailing in flat trays or approved alternate containers under 10.0.

* * * * *

[Revise the opening paragraph of items 8.10.2e and f as follows:]

e. 5-digit carrier routes, required, except for trays; permitted for bundles, alternate containers, and trays. Pallet must contain only carrier route mail for the same 5-digit ZIP Code. Labeling:

* * * * *

f. 5-digit, required, except for trays; permitted for bundles, alternate containers, and trays. Pallet must contain only automation price and/or Presorted price mail for the same 5-digit ZIP Code or the same 5-digit scheme under L007 (for automation- compatible flats only under 301.3.0). Five-digit scheme bundles are assigned to pallets according to the “label to” 5-digit ZIP Code in L007. Labeling:

* * * * *

[Revise the opening paragraph of items 8.10.2h through j as follows:]

h. SCF, required, permitted for bundles, alternate containers, and trays. Pallet may contain carrier route, automation price, and/or Presorted price mail for the 3-digit ZIP Code groups in L005. Mailers may place origin mixed ADC (OMX) containers on origin SCF pallets. Labeling:

* * * * *

i. ADC, required, permitted for bundles, alternate containers, and trays. Pallet may contain carrier route, automation price, and/or Presorted price mail for the 3-digit ZIP Code groups in L004. Labeling:

* * * * *

j. Local Surface Transport; required; no minimum, permitted for Origin Mixed ADC (OMX) trays, bundles and alternate containers. Pallet may contain carrier route, automation price, and/or presorted price mail. Labeling:

* * * * *

[Revise 8.10.2k as follows:]

k. Extended Surface Network; required; no minimum; permitted for bundles, trays and alternate containers. Pallet may contain carrier route, automation, and/or presorted mail. Pallets must not contain origin mixed ADC (OMX) trays, bundles or alternate containers. labeling:

1. Line 1: “MXD” followed by L009, Column B for the facility serving the 3-digit ZIP Code prefix of entry Post Office.

2. Line 2: “PER” or “NEWS,” as applicable; followed by “FLTS,” “IRREG,” or “LTRS,” as applicable; followed by “BARCODED” (or “BC”) if pallet contains automation price mail; followed by “NONBARCODED” (or “NBC”) if pallet contains carrier route and/or Presorted price mail; followed by “WKG.”

* * * * *

[Revise title of 8.10.3 as follows:]

8.10.3 Standard Mail—Bundles, Trays, or Alternate Containers

[Revise the third and fourth sentences of 8.10.3 as follows:]

* * * For irregular parcels, use this preparation only for pieces in carrier route bundles or bundles placed in approved alternate containers. Palletize unbundled or uncontainerized irregular parcels under 8.10.8. * * *

* * * * *

[Revise the opening paragraph of items 8.10.3b and c as follows:]

b. 5-digit carrier routes, required except for trays, permitted for bundles, trays and approved alternate containers. Pallet must contain only carrier route mail for the same 5-digit ZIP Code. Labeling:

* * * * *

c. 5-digit, required except for trays, permitted for bundles, trays and approved alternate containers. Pallet must contain only automation price and/or Presorted price mail for the same 5-digit ZIP Code or same 5-digit scheme. 5-digit scheme bundles and alternate containers are assigned to 5-digit pallets according to the “label to” 5-digit ZIP Code. Labeling:

* * * * *

[Revise the first sentence of the opening paragraph of 8.10.3e as follows:]

e. SCF, required, permitted for bundles, trays, and approved alternate containers. * * *

* * * * *

[Revise the opening paragraph of 8.10.3f as follows:]

f. ASF, required unless bundle reallocation used under 8.13, permitted for bundles, trays, and approved alternate containers. Pallet may contain carrier route, automation price, and/or Presorted price mail for the 3-digit ZIP Code groups in L602. ADC bundles, trays, or alternate containers are assigned to pallets according to the “label to” ZIP Code in L004 as appropriate. AADC trays are assigned to pallets according to the “label to” ZIP Code in L801. Labeling:

* * * * *

[Revise 8.10.3g as follows:]

g. NDC, required, permitted for bundles, trays, and approved alternate containers. Required for the Origin NDC pallet when volume reaches 150 pounds. Pallet may contain carrier route, automation price, and/or Presorted price mail for the 3-digit ZIP Code groups in L604 (L601 for parcels). ADC bundles, trays, or alternate containers are assigned to pallets according to the “label to” ZIP Code in L004 as appropriate. AADC trays are assigned to pallets according to the “label to” ZIP Code in L801. Labeling:

1. Line 1: L604 (L601 for parcels).

2. Line 2: For flats and irregular parcels, “STD” followed by “FLTS” or “IRREG,” as applicable; followed by “NDC”; followed by “BARCODED” (or “BC”) if pallet contains automation price mail; followed by “NONBARCODED” (or “NBC”) if pallet contains carrier route and/or Presorted price mail. For letters, “STD LTRS NDC”; followed by “BC” if pallet contains barcoded letters; followed by “MACH” if pallet contains machinable letters; followed by “MAN” if pallet contains nonmachinable letters.

[Delete 8.10.3h in its entirety and add new 8.10.3h and i as follows:]

h. Tier 2 Network, required, required, permitted for bundles, trays and approved alternate containers. Pallet may contain carrier route, automation, and/or Presorted price mail. Labeling:

1. Line 1: L604 (L603 for parcels), Column C, based on information for the facility serving the 3-digit ZIP Code prefix of entry Post Office Column B, for NDC serving 3-digit ZIP Code prefix of entry Post Office.

2. Line 2: For flats and irregular parcels, “STD” followed by “FLTS” or “IRREG,” as applicable; followed by “BARCODED” (or “BC”) if pallet contains automation price mail; followed by “NONBARCODED” (or “NBC”) if pallet contains carrier route and/or Presorted price mail; followed by “WKG.” For letters, “STD LTRS”; followed by “BC” if pallet contains barcoded letters; followed by “MACH” if pallet contains machinable letters; followed by “MAN” if pallet contains nonmachinable letters; followed by “WKG.”

i. Directional Tier 2 Network (required for specified acceptance locations); if the origin NDC of the acceptance and/or induction facility is Chicago, Cincinnati or Saint Louis, use Labeling List 604 (L603 for parcels) to separate the remaining mail into two east or west directionally-based containers; if the origin NDC is San Francisco, use Labeling List 604 (L603 for parcels) to separate the remaining mail into two north or south directionally-based containers; required; permitted for bundles, trays and approved alternate containers. Pallet may contain carrier route, automation, and/or Presorted price mail. Labeling:

1. Line 1: L604 (L603 for parcels), Column C, based on information for the facility serving the 3-digit ZIP Code prefix of entry Post Office.

2. Line 2: For flats and irregular parcels, “STD” followed by “FLTS” or “IRREG,” as applicable; followed by “BARCODED” (or “BC”) if pallet contains automation price mail; followed by “NONBARCODED” (or “NBC”) if pallet contains carrier route and/or Presorted price mail; followed by “WKG.” For letters, “STD LTRS”; followed by “BC” if pallet contains barcoded letters; followed by “MACH” if pallet contains machinable letters; followed by “MAN” if pallet contains nonmachinable letters; followed by “WKG.”

[Revise title of 8.10.4 as follows:]

8.10.4 Package Services Flats—Bundles or Alternate Containers

[Revise the sixth sentence of 8.10.4 as follows:]

* * * For mailings of alternate containers placed on pallets, pallet preparation begins with 8.10.4b. * * *

* * * * *

[Revise the opening paragraph of items 8.10.4b and c as follows:]

b. 5-digit carrier routes, required, permitted for bundles and approved alternate containers. Pallet must contain only carrier route mail for the same 5-digit ZIP Code. Labeling:

* * * * *

c. 5-digit, required, permitted for bundles and approved alternate containers. Pallet must contain only Presorted price mail with or without a barcode for the same 5-digit ZIP Code or same 5-digit scheme under L007 (for automation-compatible flats only under 301.3.0). Five-digit scheme bundles are assigned to pallets according to the “label to” 5-digit ZIP Code in L007. Labeling:

* * * * *

[Revise the opening paragraph of items 8.10.4e through f as follows:]

e. SCF, required, permitted for bundles and approved alternate containers. Pallet may contain carrier route and/or Presorted mail for the 3-digit ZIP Code groups in L005. Labeling:

* * * * *

f. ASF, required, permitted for bundles and approved alternate containers. Pallet may contain carrier route and/or Presorted price mail with or without a barcode for the 3-digit ZIP Code groups in L602. ADC bundles or alternate containers are assigned to pallets according to the “label to” ZIP Code in L004. At the mailer's option, appropriate mixed ADC bundles or alternate containers may be sorted to ASF pallets according to the “label to” ZIP Code in L010. All mixed ADC bundles and alternate containers must contain only pieces destinating within the ASF as shown in Exhibit 6.2.3. Labeling:

* * * * *

[Revise 8.10.4g as follows:]

g. NDC, required, permitted for bundles and approved alternate containers. Required for the Origin NDC pallet when volume reaches 150 pounds. Pallet may contain carrier route and/or Presorted price mail with or without a barcode for the 3-digit ZIP Code groups in L601. ADC bundles or alternate containers are assigned to pallets according to the “label to” ZIP Code in L004. At the mailer's option, appropriate mixed ADC bundles or alternate containers may be sorted to NDC pallets according to the “label to” ZIP Code in L010. All mixed ADC bundles and alternate containers must contain only pieces destinating within the NDC as shown in Exhibit 6.2.3. Labeling:

1. Line 1: L604.

2. Line 2: “PSVC FLTS NDC”; followed by “BARCODED” (or “BC”) if pallet contains Presorted price mail with a barcode; followed by “NONBARCODED” (or “NBC”) if pallet contains carrier route and/or Presorted price mail without a barcode.

[Delete current 8.10.4h in its entirety and add new 8.10.4h and i as follows:]

h. Tier 2 Network, required, permitted for trays, bundles and approved alternate containers. Pallet may contain carrier route and/or Presorted price mail. Labeling:

1. Line 1: L603, Column C, based on information for the facility serving the 3-digit ZIP Code prefix of entry Post Office Column B, for NDC serving

2. Line 2: “PSVC FLTS WKG.”

i. Directional Tier 2 Network (required for specified acceptance locations); if the origin NDC of the acceptance and/or induction facility is Chicago, Cincinnati or Saint Louis, use L603, Column B, to separate the remaining mail into two east or west directionally-based containers; if the origin NDC is San Francisco, use L603, Column B, to separate the remaining mail into two north or south directionally-based containers; required; permitted for trays, bundles and approved alternate containers. Pallet may contain carrier route and/or Presorted price mail. Labeling:

1. Line 1: L603, Column C, based on information for the facility serving the 3-digit ZIP Code prefix of entry Post Office

2. Line 2: “PSVC FLTS WKG.”

[Revise title of 8.10.5 as follows:]

8.10.5 Package Services Irregular Parcels—Bundles or Alternate Containers

[Revise the sixth sentence of 8.10.5 as follows:]

* * * For mailings of approved alternate containers placed on pallets, pallet preparation begins with 8.10.5e. * * *

* * * * *

[Revise the opening paragraph of items 8.10.5e and f as follows:]

e. 5-digit carrier routes, required, permitted for bundles and approved alternate containers. Pallet must contain only carrier route mail for the same 5-digit ZIP Code. Labeling:

* * * * *

f. 5-digit, required, permitted for bundles and approved alternate containers. Pallet must contain only Presorted price mail for the same 5-digit ZIP Code. Labeling:

* * * * *

[Revise the opening paragraph of items 8.10.5h through j as follows:]

h. SCF, required, permitted for bundles and approved alternate containers. Pallet may contain carrier route and/or Presorted price mail for the 3-digit ZIP Code groups in L005. Labeling:

* * * * *

i. ASF, required, permitted for bundles and approved alternate containers. Pallet may contain carrier route and/or Presorted price mail for the 3-digit ZIP Code groups in L602. ADC trays, bundles or alternate containers are assigned to pallets according to the “label to” ZIP Code in L004. At the mailer's option, appropriate mixed ADC bundles or alternate containers may be sorted to ASF pallets according to the “label to” ZIP Code in L010. All mixed ADC bundles and alternate containers must contain only pieces destinating within the ASF as shown in Exhibit 6.2.3. Labeling:

* * * * *

j. NDC, required, permitted for bundles and approved alternate containers. No minimum for the Origin NDC pallet. Pallet may contain carrier route and/or Presorted price mail for the 3-digit ZIP Code groups in L601. ADC (L004) bundles or approved alternate containers are assigned to pallets according to the “label to” ZIP Code in L004. At the mailer's option, appropriate mixed ADC bundles or alternate containers may be sorted to NDC pallets according to the “label to” ZIP Code in L010. All mixed ADC bundles and alternate containers must contain only pieces destinating within the NDC as shown in Exhibit 6.2.3. Labeling:

* * * * *

[Delete current 8.10.5k in its entirety and add new items 8.10.5k and l as follows:]

k. Tier 2 Network, required, permitted for bundles and approved alternate containers. Pallet may contain carrier route and/or Presorted price mail. Labeling:

1. Line 1: L603, Column C, based on information for the facility serving the 3-digit ZIP Code prefix of entry Post Office Column B, for NDC serving 3-digit ZIP Code prefix of entry Post Office.

2. Line 2: “PSVC IRREG WKG.”

l. Directional Tier 2 Network (required for specified acceptance locations); if the origin NDC of the acceptance and/or induction facility is Chicago, Cincinnati or Saint Louis, use L603 to separate the remaining mail into two east or west directionally-based containers; if the origin NDC is San Francisco, use L603 to separate the remaining mail into two north or south directionally-based containers; required; permitted for bundles and approved alternate containers.

Pallet may contain carrier route and/or Presorted price mail. Labeling:

1. Line 1: L603, Column C, based on information for the facility serving the 3-digit ZIP Code prefix of entry Post Office

2. Line 2: “PSVC IRREG WKG.”

8.10.6 Package Services, Parcel Select

* * * Pallets must be labeled according to the Line 1 and Line 2 information listed below and under 8.6.

* * * * *

[Revise the opening paragraph of 8.10.6d as follows:]

d. NDC, required. Pallets must contain only parcels or NFMs for the 3-digit ZIP Code groups in L601. Labeling:

* * * * *

[Delete current 8.10.6e in its entirety and add new items 8.10.6e and f as follows:]

e. Tier 2 Network, required, no minimum. Labeling:

1. Line 1: L603, Column C, based on information for the facility serving the 3-digit ZIP Code prefix of entry Post Office Column B, for NDC serving 3-digit ZIP Code prefix of entry Post Office.

2. Line 2: “STD MACH WKG,” “STD NFM MACH WKG,” or “PSVC MACH WKG,” as applicable.

f. Directional Tier 2 Network (required for specified acceptance locations); if the origin NDC of the acceptance and/or induction facility is Chicago, Cincinnati or Saint Louis, use L603 to separate the remaining mail into two east or west directionally-based containers; if the origin NDC is San Francisco, use L603 to separate the remaining mail into two north or south directionally-based containers; required. Labeling:

1. Line 1: L603, Column C, based on information for the facility serving the 3-digit ZIP Code prefix of entry Post Office.

2. Line 2: “STD MACH WKG,” “STD NFM MACH WKG,” or “PSVC MACH WKG,” as applicable.

8.10.7 Standard Mail Machinable Parcels and Not Flat-Machinable Pieces Weighing 6 Ounces or More

* * * Pallets must be labeled according to Line 1 and Line 2 information listed below and under 8.6.

* * * * *

[Delete current 8.10.7f in its entirety and add new items 8.10.6 f and g as follows:]

f. Tier 2 Network, required; no minimum. Labeling:

1. Line 1: L603, Column C, based on information for the facility serving the 3-digit ZIP Code prefix of entry Post Office Column B, for NDC serving 3-digit ZIP Code prefix of entry Post Office.

2. Line 2: “STD MACH WKG” or “STD NFM MACH WKG” as applicable.

g. Directional Tier 2 Network (required for specified acceptance locations); if the origin NDC of the acceptance and/or induction facility is Chicago, Cincinnati or Saint Louis, use L603 to separate the remaining mail into two east or west directionally-based containers; if the origin NDC is San Francisco, use L603 to separate the remaining mail into two north or south directionally-based containers; required; no minimum. Labeling:

1. Line 1: L603, Column C, based on information for the facility serving the 3-digit ZIP Code prefix of entry Post Office

2. Line 2: “STD MACH WKG” or “STD NFM MACH WKG” as applicable.

8.10.8 Standard Mail Irregular Parcels Weighing 2 Ounces or More

[Revise the first and last sentence of the introductory paragraph of 8.10.8 as follows:]

Mailers who palletize unbundled or uncontainerized irregular parcels must make pallets or pallet boxes when there are 250 pounds or more for the destination levels below for DNDC, DSCF, or DDU prices. * * * Mailers may not prepare tubes, rolls, and similar pieces or pieces that weigh less than 2 ounces on pallets or in pallet boxes, except for pieces in carrier route bundles or in alternate containers under 8.10.3.

* * * * *

[Delete current 8.10.8g in its entirety and add new items 8.10.8g and h as follows:]

g. Tier 2 Network, required, no minimum. Labeling:

1. Line 1: L603, Column C, based on information for the facility serving the 3-digit ZIP Code prefix of entry Post Office Column B, for NDC serving 3-digit ZIP Code prefix of entry Post Office.

2. Line 2: “STD IRREG WKG.”

h. Directional Tier 2 Network (required for specified acceptance locations); if the origin NDC of the acceptance and/or induction facility is Chicago, Cincinnati or Saint Louis, use L603 to separate the remaining mail into two east or west directionally-based containers; if the origin NDC is San Francisco, use L603 to separate the remaining mail into two north or south directionally-based containers; no minimum. Labeling:

1. Line 1: L603, Column C, based on information for the facility serving the 3-digit ZIP Code prefix of entry Post Office.

2. Line 2: “STD IRREG WKG.”

8.10.9 Standard Mail Not Flat-Machinable Pieces Weighing Less Than 6 Ounces

[Revise the first sentence of the introductory paragraph of 8.10.9 as follows:]

Mailers must prepare uncontainerized pieces on pallets or in pallet boxes when there are 250 pounds or more of NFMs for the destination levels below for DNDC, DSCF, or DDU prices. * * *

* * * * *

[Delete current 8.10.9g in its entirety and add new items 8.10.9g and h as follows:]

g. Tier 2 Network, required, no minimum. Labeling:

1. Line 1: L603, Column C, based on information for the facility serving the 3-digit ZIP Code prefix of entry Post Office Column B, for NDC serving 3-digit ZIP Code prefix of entry Post Office.

2. Line 2: “STD NFM WKG.”

h. Directional Tier 2 Network (required for specified acceptance locations); if the origin NDC of the acceptance and/or induction facility is Chicago, Cincinnati or Saint Louis, use L603 to separate the remaining mail into two east or west directionally-based containers; if the origin NDC is San Francisco, use L603 to separate the remaining mail into two north or south directionally-based containers; no minimum. Labeling:

1. Line 1: L603, Column C, based on information for the facility serving the 3-digit ZIP Code prefix of entry Post Office

2. Line 2: “STD NFM WKG.”

* * * * *

[Revise title of 8.14 as follows:]

8.14 Pallets of Bundles, Trays, and Alternate Containers

* * * * *

[Revise title of 8.14.3 as follows:]

8.14.3 NDC and Mixed Tier 2 Network Pallets

[Revise the last sentence of 8.14.3 as follows:]

* * * A NDC, tier 2 network or directional tier 2 network (trays and approved alternate containers only) pallet may include pieces that are eligible for the DNDC price and others that are ineligible

* * * * *

[Revise title and text of 8.15 as follows:]

8.15 Approved Alternate Containers

All flat trays, approved alternate containers or sacks remaining after all pallets are prepared may be presented with the palletized mailing (on the same postage statement) if the containers are set apart from the palletized portion of the mailing.

8.16 Copalletized Flat-Size Pieces—Periodicals or Standard Mail

* * * * *

8.16.2 Periodicals

Additional standards are as follows:

* * * * *

c. * * * Approval is based on the mailer's demonstrated ability to provide documentation meeting these standards:

* * * * *

[Revise 8.16.2c6 as follows:]

6. If a portion of the mailing is placed in approved alternate containers and presented with the copalletized portion, a report by container showing the number of pieces (and copies) at each presort level.

* * * * *

8.18 Parcel Select—Network Distribution Center (NDC) Presort Discount

8.18.1 Machinable Parcels

To qualify for the NDC Presort discount:

[Revise the last sentence of 8.18.1a as follows:]

a. * * * Preparation directly on pallets, or in other containers is not permitted.

* * * * *

8.18.2 Nonmachinable Parcels

To qualify for the NDC Presort discount:

[Revise the last sentence of 8.18.2a as follows:]

a. * * * Preparation in other containers, or directly on pallets, is not permitted.

* * * * *

8.20 Parcel Select DSCF Prices—Parcels on Pallets

8.20.1 Basic Preparation, Parcels on Pallets

[Revise the introductory sentence of 8.20.1 as follows:]

Unless prepared under 8.20.2, in sacks, or approved alternate containers, mail must be prepared for the DSCF price as follows:

* * * * *

c. Overflow. After filling a pallet(s) to a 5-digit scheme, 5-digit, or 3-digit destination, any remaining pieces that do not meet the minimum pallet requirements may be prepared in one or both of the following ways:

[Revise text of 8.20.1c1 as follows:]

1. Placed in 5-digit scheme or 5-digit, overflow sacks, flat trays or approved alternate containers; or in or 3-digit flat trays or approved alternate containers (no minimum number of pieces per sack, tray or container); that are labeled in accordance with the 5-digit scheme, 5-digit, or 3-digit containerization requirements for the DSCF price in 455.4.2. Overflow pieces sacked, trayed or containerized in this manner are eligible for the DSCF prices.

* * * * *

[Revise 8.20.1g as follows:]

g. Separation. If sacks, trays or approved alternate containers prepared under 455 are included in the same mailing as pallets prepared under this section, at the time of acceptance the mailer must separate those sacks, trays or containers that are overflow from the palletized mail from those sacks, trays or containers that were prepared under the provisions of 455.

8.20.2 Alternate Preparation, Parcels on Pallets

DSCF price mailings not prepared under 8.20.1 may be prepared as follows:

[Revise the first sentence of 8.20.2a as follows:]

a. General. All DSCF pieces in the mailing must be sorted to 5-digit scheme, 5-digit, or 3-digit destinations under 8.20.2 (i.e., mail prepared under 8.20.1 and mail prepared under 455.4.2 must not be included in a mailing prepared under 8.20.2). * * *

* * * * *

c. Overflow. After filling pallets to a 5-digit scheme, 5-digit, or 3-digit destination, any remaining pieces that do not meet the minimum pallet requirements may be prepared in one or both of the following ways:

[Revise 8.20.2c1 as follows:]

1. Placed in 5-digit scheme or 5-digit, overflow sacks, flat trays or approved alternate containers; or in or 3-digit flat trays or approved alternate containers (no minimum number of pieces per sack, tray or container); that are labeled in accordance with the 5-digit scheme, 5-digit, or 3-digit containerization requirements for the DSCF price in 455.4.2. Overflow pieces sacked, trayed or containerized in this manner are eligible for the DSCF prices.

* * * * *

[Revise the last sentence of 8.20.2g as follows:]

g. Documentation. * * * This documentation must not include: Pieces prepared in overflow sacks, trays or alternate containers at the DSCF prices, pieces prepared on overflow pallets at the DNDC prices, or pieces claimed at any other price in the mailing.

8.20.3 5-Digit ZIP Codes for Which Pallets May Not Be Prepared

[Revise the last sentence of 8.20.3 as follows:]

* * * If a facility cannot handle pallets, the DSCF price is not applicable unless the mail can be prepared under the containerization requirements in 455.4.2.

[Revise title of 8.21 as follows:]

8.21 Parcel Select DSCF Prices—Containers on Pallets

[Revise the third sentence of the introductory paragraph of 8.21 as follows:]

* * * See 8.20.1g for requirements concerning separation of sacks, trays or approved alternate containers under 455.4.2 from sacks, trays or alternate containers prepared under 8.20.1. * * *

* * * * *

[Revise title of 9.0 as follows:]

9.0 Combining Bundles of Automation and Nonautomation Flats in Trays and Alternate Containers

* * * * *

9.2 Periodicals

9.2.1 Basic Standards

[Revise the introductory paragraph of 9.2.1 as follows:]

Bundles of flat-size pieces in a machinable barcoded price mailing must be cotrayed, or combined in approved alternate containers, with bundles of flat-size pieces in a machinable nonbarcoded mailing under the following conditions:

* * * * *

[Revise items 9.2.1b through f as follows:]

b. The machinable barcoded mailing must meet the eligibility criteria in 707.14.0, except that the traying and documentation criteria in 9.2.1, 9.2.3, and 9.2.4 must be met rather than the traying and documentation criteria in 707.25.0.

c. The machinable nonbarcoded mailing must meet the eligibility criteria in 707.12.0, except that the traying and documentation criteria in 9.2.1, 9.2.3, and 9.2.4 must be met rather than the criteria in 707.25.0.

d. The bundles must be sorted into the same trays or approved alternate containers under 9.2.3 and 9.2.4.

e. A complete postage statement(s) must accompany each mailing job prepared under these procedures. Standardized documentation under 708.1.0 must also be submitted with each cotrayed mailing job that describes for each tray sortation level the number of pieces qualifying for each applicable price.

f. Barcoded tray labels under 708.6.0 must be used to label trays or containers.

* * * * *

9.2.3 Bundles With Fewer Than Six Pieces

[Revise the second sentence of 9.2.3 as follows:]

* * * These low-volume bundles may be placed in 5-digit, 3-digit, and SCF trays or alternate containers that contain at least 24 pieces or on 5-digit, 3-digit, or SCF pallets. * * *

[Revise title of 9.2.4 as follows:]

9.2.4 Tray Preparation and Labeling

[Revise the introductory paragraph of 9.2.4 as follows:]

Machinable barcoded price and machinable nonbarcoded price bundles must be presorted together into trays (cotrayed), or combined in approved alternate containers in the sequence listed below. Trays or containers must be labeled under 9.2.4a through g for Lines 1 and 2 and 707.21.0 for other tray label criteria.

[Revise 9.2.4a as follows:]

a. 5-digit/scheme, required; scheme sort required only for pieces meeting the criteria in 301.3.0; 24-piece minimum, fewer pieces not permitted; labeling:

1. Line 1: For 5-digit scheme trays, sacks or containers, use L007, Column B. For 5-digit trays, sacks or containers, use city, state, and 5-digit ZIP Code destination on pieces.

2. Line 2: “PER” or “NEWS” as applicable and, for 5-digit scheme trays or containers, “FLT 5D SCH BC/NBC”; for 5-digit trays or containers, “FLT 5D BC/NBC.”

* * * * *

[Revise the opening paragraph of 9.2.4f as follows:]

f. Local Surface Transport, required, required for any remaining pieces for destinations in L201, Column B, corresponding to the origin ZIP Code in Column A. There is no minimum for the number of pieces in the tray or authorized container, but bundles of fewer than six pieces at 5-digit, 3-digit, and ADC bundle levels are not permitted.

* * * * *

[Revise the opening paragraph of 9.2.4g as follows:]

g. Extended Surface Network, required, no minimum, except that bundles of fewer than six pieces at 5-digit, 3-digit, and ADC bundle levels are not permitted. Labeling:

* * * * *

9.2.5 Optional Tray Preparation—Machinable Flat-Size Pieces

[Revise the first sentence of 9.2.5 as follows:]

As an option, mailers may place unbundled and bundled machinable pieces meeting the criteria in 301.3.0 in flats trays (see 707.20.4). * * *

* * * * *

9.3 Standard Mail

9.3.1 Basic Standards

[Revise the introductory sentence of 9.3.1 as follows:]

Bundles of flats in an automation mailing must be cotrayed or placed in approved alternate containers with bundles of flats in a Presorted mailing under the following conditions:

* * * * *

[Revise items 9.3.1c and d as follows:]

c. The automation mailing must meet the eligibility criteria in 343.7.0, except that the traying and documentation criteria in 9.3.1, 9.3.4, and 9.3.5 must be met rather than the criteria in 345.7.0.

d. The Presorted mailing must meet the eligibility criteria in 343.2.0 and 343.3.0, except that the traying and documentation criteria in 9.3.1, 9.3.4, and 9.3.5 must be met rather than the criteria in 345.5.0.

[Revise the second sentence of 9.3.1e as follows:]

e. * * * The prices for pieces in the Presorted price mailing are based on the number of pieces in the bundle and the level of tray or alternate container in which they are placed under 343.3.6 and 343.3.7.

* * * * *

[Revise 9.3.1g as follows:]

g. The bundles prepared from the automation mailing and the bundles prepared from the Presorted mailing must be sorted into the same trays or alternate containers as described in 9.3.4 and 9.3.5.

[Revise the second sentence of 9.3.1h as follows:]

h. * * * In addition to the applicable postage statement, standardized documentation under 708.1.0 must be submitted with each cotrayed mailing job that describes for each tray or container sortation level the number of pieces qualifying for each automation price and the number of pieces qualifying for each Presorted price.

[Revise 9.3.1i as follows:]

i. Barcoded tray labels under 708.6.0 must be used to label trays or alternate containers.

* * * * *

[Revise title and text of 9.3.4 as follows:]

9.3.4 Traying or Containerization Under 125-Piece or 15-Pound Rules

When the minimum quantity of 125 pieces or 15 pounds of mail is specified for a tray or authorized alternative container sortation level in 9.3.5, the provisions of 345.7.4.2 apply.

[Revise title of 9.3.5 as follows:]

9.3.5 Tray Preparation and Labeling

[Revise the introductory paragraph of 9.3.5 as follows:]

Presorted and automation bundles prepared under 9.3.2 and 9.3.3 must be presorted together into trays (cotrayed), or placed in authorized alternate containers, in the sequence listed below. Trays or alternate containers must be labeled using 9.3.5a through g for Lines 1 and 2, and 345.4.0 for other tray label criteria.

[Revise 9.3.5a as follows:]

a. 5-digit/scheme, required; scheme sort required, only for pieces meeting the automation-compatibility criteria in 301.3.0; 125-piece/15-pound minimum; labeling:

1. Line 1: For 5-digit scheme trays or containers, use L007, Column B. For 5-digit trays or containers, use city, state, and 5-digit ZIP Code destination on pieces.

2. Line 2: For 5-digit scheme trays or containers, “STD FLT 5D SCH BC/NBC”; for 5-digit sacks, “STD FLT 5D BC/NBC.”

* * * * *

[Delete current 9.3.5e in its entirety and add new items 9.3.5e through g as follows:]

e. Origin Network Distribution Center (NDC) Network (required); no minimum; labeling:

1. Line 1: L604, Column C.

2. Line 2: “STD FLTS NDC BC/NBC.”

f. Tier 2 Network (required); no minimum; labeling:

1. Line 1: L604, Column C.

2. Line 2: “STD FLTS BC/NBC WKG.”

g. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C.

2. Line 2: “STD FLTS BC/NBC WKG.”

* * * * *

9.4 Bound Printed Matter

9.4.1 Basic Standards

Bundles of flat-size pieces in a Presorted mailing qualifying for and claiming the barcode discount under 363.2.0, 363.3.0, and 363.5.0 must be cotrayed, or combined in approved alternate containers, with bundles of presorted flat-size pieces not claiming the barcode discount under the following conditions:

* * * * *

[Revise 9.4.1c and d as follows:]

c. The Presorted barcode-discount mailing must meet the eligibility criteria in 363.2.0, 363.3.0, and 363.5.0, the mail preparation standards in 365.7.0, the traying requirements in 9.4.4, and the documentation criteria in 9.4.1h.

d. The Presorted mailing must meet the eligibility criteria in 363.2.0, 363.3.0, and 363.5.0, the mail preparation standards in 365.5.0, the traying requirements in 9.4.4, and the documentation criteria in 9.4.1h.

* * * * *

[Revise 9.4.1g as follows:]

g. The bundles must be sorted into the same tray or alternate container as described in 9.4.4.

[Revise the second sentence of 9.4.1h as follows:]

h. * * * In addition to the applicable postage statement, standardized documentation under 708.1.0 must be submitted with each cotrayed mailing job that describes for each tray or container sortation level the number of pieces qualifying for the barcode discount and the number of pieces qualifying for each applicable Presorted price.

[Revise 9.3.1i as follows:]

i. Barcoded tray labels under 708.6.0 must be used to label trays or alternate containers.

* * * * *

[Revise title of 9.4.4 as follows:]

9.4.4 Tray Preparation and Labeling

[Revise the introductory paragraph of 9.4.4 as follows:]

Bundles of Presorted pieces qualifying for and claiming the barcode discount and Presorted pieces prepared under 9.4.2 or 9.4.3 must be presorted together in trays (cotrayed), or combined in approved alternate containers, using the following preparation sequence and labeling:

[Revise 9.4.4a as follows:]

a. 5-digit/scheme, required; scheme sort required, only for pieces meeting the automation-compatibility criteria in 301.3.0; minimum 20 addressed pieces; labeling:

1. Line 1: For 5-digit scheme trays or containers, use L007, Column B. For 5-digit trays or containers, use city, state, and 5-digit ZIP Code destination on pieces.

2. Line 2: For 5-digit scheme trays or containers, “PSVC FLT 5D SCH BC/NBC”; for 5-digit trays or containers, “PSVC FLT 5D BC/NBC.”

[Revise the opening paragraph of item b as follows:]

b. 3-digit, required, except for optional bundles with 3-digit ZIP Code prefixes indicated by an “N” in L002, when optional SCF trays or containers are prepared; minimum 20 addressed pieces; labeling:

* * * * *

[Delete current 9.4.4e in its entirety and add new items 9.4.4e through g as follows:]

e. Origin Network Distribution Center (NDC) Network (required); no minimum; labeling:

1. Line 1: L604, Column C.

2. Line 2: “PSVC FLTS NDC BC/NBC.”

f. Tier 2 Network (required); no minimum; labeling:

1. Line 1: L604, Column C.

2. Line 2: “PSVC FLTS BC/NBC WKG.”

g. Tier 2 Network (required for specified acceptance locations); if the origin NDC is Chicago, Cincinnati or Saint Louis, use Labeling List L604 to separate the remaining mail into two east or west directionally-based containers; if the origin NDC is San Francisco, use Labeling List L604 to separate the remaining mail into two north or south directionally-based containers; no minimum; labeling:

1. Line 1: L604, Column C.

2. Line 2: “PSVC FLTS BC/NBC WKG.”

[Revise title of 705.10 as follows:]

10.0 Merging Bundles of Flats on Pallets or in Trays Using the City State Product

10.1 Periodicals

10.1.1 Basic Standards

[Revise the introductory paragraph of 10.1.1 as follows:]

Carrier route bundles in a carrier route mailing may be placed on the same pallet or in the same tray or approved alternate container as 5-digit bundles from a machinable barcoded mailing and 5-digit bundles from a machinable nonbarcoded mailing (including pieces cobundled under 11.0) under the following conditions:

[Revise 10.1.1a as follows:]

a. A carrier route mailing must be part of the mailing job, unless cobundled under 11.0 using 5-digit scheme (L007) or 3-digit scheme (L008) bundle preparation, and trayed or placed in alternate containers under 10.1.4.

* * * * *

[Revise the first sentence of 10.1.1c as follows:]

c. Pieces in the machinable price mailing must meet the flats criteria in 301.3.0. * * *

* * * * *

[Revise 10.1.1e through j as follows:]

e. Carrier route bundles may be copalletized, cotrayed in combined in approved alternate containers with machinable barcoded 5-digit bundles, machinable nonbarcoded 5-digit bundles, and cobundled 5-digit bundles only for those 5-digit ZIP Codes that have an “A” or “C” indicator in the Carrier Route Indicators field in the City State Product indicating eligibility for such copalletization or cotraying. Containers of mail sorted in this manner are called “merged 5-digit” pallets or trays. Containers of mail sorted in this manner for which scheme (L001) sortation is also performed are called “merged 5-digit scheme” pallets or trays. Pieces in 5-digit scheme (L007) bundles may not be placed in merged 5-digit containers.

f. If sortation under this section is performed, merged 5-digit pallets, trays or approved alternate containers must be prepared for all 5-digit ZIP Codes with an “A” or “C” indicator in the City State Product that permits such preparation when there is enough volume for the 5-digit ZIP Code to prepare such a tray or alternate container under 10.1.4 or such a pallet under 10.1.5. In addition, all possible merged 5-digit scheme trays or containers must be prepared under 10.1.4, or all possible merged 5-digit scheme and 5-digit scheme pallets must be prepared under 10.1.5.

g. For mailings prepared in trays or approved alternate containers, mailers may not combine firm bundles and 5-digit scheme pieces in 5-digit scheme bundles or in 5-digit scheme trays or containers. Firm bundles must be placed in a separate individual 5-digit tray or container under 10.1.4g to maintain 5-digit price eligibility. Mailers may combine firm bundles with 5-digit scheme, 3-digit scheme, and other presort destination bundles in carrier route, 5-digit, 3-digit, SCF, ADC, and mixed ADC trays or containers. Only an In-County firm bundle can contribute toward the six-piece minimum for price eligibility.

h. The bundles from each separated mailing must be sorted together into trays or approved alternate containers (cotrayed) under 10.1.4 or on pallets (copalletized) under 10.1.5 using presort software that is PAVE-certified.

i. A complete, signed postage statement(s), using the correct USPS form or an approved facsimile, must accompany each mailing job prepared under these procedures. In addition to the postage statement(s), documentation prepared by PAVE-certified software must be submitted with each cotrayed or copalletized mailing job that describes for each tray or container sortation level and tray or container, or each pallet sortation level and pallet, the number of pieces qualifying for each applicable price.

j. Barcoded tray labels under 708.6.0 must be used to label trays or alternate containers.

10.1.2 Bundle Preparation

Bundles must be prepared as follows:

[Revise the first sentence of 10.1.2a as follows:]

a. Trayed mailings, or mailings prepared in approved alternate containers. * * *

* * * * *

10.1.3 Bundles With Fewer Than Six Pieces

[Revise the last sentence of the introductory paragraph of 10.1.3 as follows:]

* * * Low-volume bundles are permitted only when they are prepared on pallets, trayed or placed in approved alternate containers as follows:

a. Place low-volume carrier route, 5-digit, 3-digit scheme, and 3-digit bundles in only the following containers:

[Revise 10.1.3a1 through a3 as follows:]

1. Carrier route, merged 5-digit scheme, 5-digit scheme carrier routes, merged 5-digit, 5-digit carrier routes, 5-digit, 3-digit, and SCF trays or alternate containers that contain at least 24 pieces.

2. Merged 3-digit trays or alternate containers that contain at least one six-piece carrier route bundle.

3. Origin/entry SCF trays or alternate containers.

* * * * *

[Revise 10.1.3b as follows:]

b. Place low-volume 5-digit scheme bundles in only 5-digit scheme, 3-digit, and SCF trays or alternate containers that contain at least 24 pieces, or in origin/entry SCF trays or alternate containers, or on 3-digit or SCF pallets, as appropriate.

[Revise title of 10.1.4 as follows:]

10.1.4 Tray Preparation and Labeling

[Revise the introductory paragraph of 10.1.4 as follows:]

Mailers must prepare trays or approved alternate containers for the individual carrier route and 5-digit bundles from the carrier route, barcoded, and nonbarcoded price mailings in the mailing job in the following manner and sequence. All carrier route bundles must be placed in trays or alternate containers under 10.1.4a through 10.1.4e and 10.1.4h as described below. When sorting is performed under this section, mailers must prepare merged 5-digit scheme trays or alternate containers, 5-digit scheme carrier routes trays or alternate containers, and merged 5-digit trays or alternate containers for all possible 5-digit schemes or 5-digit ZIP Codes as applicable, using L001 (merged 5-digit scheme and 5-digit scheme carrier routes sort only) and the Carrier Route Indicators field in the City State Product when there is enough volume for the 5-digit scheme or 5-digit ZIP Code to prepare such trays or alternate containers under 10.1.4. Mailers must label trays or alternate containers according to the Line 1 and Line 2 information listed below and under 707.20.1. If a mailing job does not contain barcoded pieces and the carrier route pieces and the nonbarcoded pieces are irregular parcel shaped, use “IRREG” for the processing category on the contents line of the label.

* * * * *

[Revise the last two sentences of the opening paragraph of 10.1.4b as follows:]

b. * * * For 5-digit ZIP Code(s) in a scheme that has a “B” or “D” indicator in the City State Product, prepare tray(s) or alternate container(s) under 10.1.4g and 10.1.4h. For 5-digit ZIP Codes not included in a scheme, prepare trays or alternate containers under 10.1.4d through 10.1.4h. Labeling:

* * * * *

[Revise the last sentence of the opening paragraph of 10.1.4c as follows:]

c. * * * Mailers must prepare this tray or container if there are any carrier route bundle(s) for such a scheme. Labeling:

* * * * *

[Revise the second sentence of the opening paragraph of 10.1.4e as follows:]

e. * * * Include only carrier route bundles for a 5-digit ZIP Code remaining after preparing trays or alternate containers under 10.1.4a through 10.1.4d. * * *

* * * * *

[Revise the opening paragraph of items 10.1.4h and i as follows:]

h. Merged 3-digit. May contain carrier route bundles, any 5-digit and 5-digit scheme bundles remaining after preparing trays or alternate containers under 10.1.4a through 10.1.4g, and any 3-digit and 3-digit scheme bundles. When preparation of this tray level is permitted, mailers must prepare a tray or alternate container if there are any remaining carrier route bundles for the 3-digit area. Required with at least one six-piece carrier route bundle. Must contain at least one carrier route bundle for the 3-digit area, or a minimum of 24 pieces. Labeling:

* * * * *

i. SCF through extended surface network. Any 5-digit scheme and 5-digit bundles remaining after preparing trays or alternate containers under 10.1.4a through 10.1.4h and all 3-digit, 3-digit scheme, ADC, origin mixed ADC, and mixed ADC bundles must be trayed or placed in alternate containers and labeled under 9.2 for cotraying of barcoded and nonbarcoded bundles, except if there are no barcoded bundles in the mailing job, tray or place in an alternate container and label under 707.22.6, or if there are no nonbarcoded price bundles in the mailing job, tray or containerize and label under 707.25.4.

* * * * *

10.2 Standard Mail

10.2.1 Basic Standards

[Revise the introductory paragraph of 10.2.1 as follows:]

Carrier route bundles from a carrier route mailing may be placed on the same pallet, in the same tray or in an approved alternate container as 5-digit bundles from an automation mailing and 5-digit bundles from a Presorted mailing (including pieces cobundled under 11.0) under the following conditions:

[Revise 10.2.1a as follows:]

a. A carrier route mailing must be part of the mailing job, unless cobundled under 11.0 utilizing 5-digit scheme (L007) or 3-digit scheme (L008) bundle preparation and trayed or placed in alternate containers under 10.1.4.

* * * * *

[Revise items 10.2.1e through g as follows:]

e. Carrier route bundles may be copalletized, cotrayed or placed in alternate containers with automation 5-digit bundles, Presorted 5-digit bundles, and cobundled 5-digit bundles only for those 5-digit ZIP Codes that have an “A” or “C” indicator in the Carrier Route Indicators field in the City State Product indicating eligibility for such copalletization or cotraying. Containers of mail sorted in this manner are called “merged 5-digit” pallets, trays or containers. Containers of mail sorted in this manner for which scheme (L001) sortation is also performed are called “merged 5-digit scheme” pallets, trays or containers. Pieces in 5-digit scheme (L007) bundles may not be placed in merged 5-digit containers.

f. If sortation under this section is performed, merged 5-digit pallets, trays or alternate containers must be prepared for all 5-digit ZIP Codes with an “A” or “C” indicator in the City State Product that permits such preparation when there is enough volume for the 5-digit ZIP Code to prepare that pallet, tray or container.

g. For trayed or containerized mailings, the prices for pieces in the carrier route mailing are based on the criteria in 343.6.0, the prices for pieces in the automation mailing are applied based on the number of pieces in the bundle and the level of bundle to which they are sorted under 343.7.0, and the prices for pieces in the Presorted price mailing are based on the number of pieces in the bundle and the level of tray or container to which they are sorted under 343.5.0.

* * * * *

[Revise 10.2.1j as follows:]

j. The bundles from each separate mailing must be sorted together into trays or approved alternate containers (cotrayed) under 10.2.3 and 10.2.4 or on pallets (copalletized) under 10.2.5 using presort software that is PAVE-certified.

* * * * *

[Revise 10.2.1m as follows:]

m. Barcoded tray labels under 708.6.0 must be used to label trays or alternate containers.

10.2.2 Bundle Preparation

Bundles must be prepared as follows:

[Revise the first sentence of 10.2.2a as follows:]

a. Trayed mailings. * * *

* * * * *

[Revise title and text of 10.2.3 as follows:]

10.2.3 Traying Under 125-Piece or 15-Pound Rules

When the minimum quantity of 125 pieces or 15 pounds of mail is specified for a tray or alternate container sortation level in 10.2.4, the provisions of 345.7.4.2 apply.

[Revise title of 10.2.4 as follows:]

10.2.4 Tray Preparation and Labeling

Mailers must prepare trays or alternate containers in the following manner and sequence. All carrier route bundles must be placed in trays or alternate containers under 10.2.4a through 10.2.4e as described below. Mailers must prepare all merged 5-digit scheme trays or alternate containers, 5-digit scheme carrier routes trays or alternate containers, and merged 5-digit trays or alternate containers that are possible in the mailing based on the volume of mail to the destination using L001 and the Carrier Route Indicators field in the City State Product. Mailers must label trays or alternate containers according to the Line 1 and Line 2 information listed below and under 345.4.0, Tray Labels.

* * * * *

[Revise the third through sixth sentences of the opening paragraph of 10.2.4b as follows:]

b. * * * When preparation of this tray or alternate container level is permitted, a tray or container must be prepared if there are any carrier route bundle(s) for the scheme. If there is not at least one carrier route bundle for any 5-digit destination in the scheme, preparation of this tray or alternate container is required when there are at least 125 pieces or 15 pounds of pieces in 5-digit bundles for any of the 5-digit ZIP Codes in the scheme that have an “A” or “C” indicator in the City State Product (smaller volume not permitted). For a 5-digit ZIP Code(s) in a scheme with a “B” or “D” indicator in the City State Product, prepare tray(s) or alternate container(s) for the automation and Presorted bundles under 10.2.4g and 10.2.4h. For 5-digit ZIP Codes not included in a scheme, prepare trays or alternate containers under 10.2.4d through 10.2.4h. Labeling:

* * * * *

[Revise the opening paragraph of 10.2.4e as follows:]

e. 5-digit carrier routes, required. Tray or containerize only carrier route bundles for a 5-digit ZIP Code remaining after preparing trays or alternate containers under 10.2.4a through 10.2.4d to this level. May contain only carrier route bundles for any 5-digit ZIP Code that is not part of a scheme listed in L001 and that has a “B” or “D” indicator in the City State Product. No tray or container minimum. Labeling:

* * * * *

[Revise 10.2.4h as follows:]

h. 3-digit through mixed ADC trays or alternate containers. Any 5-digit scheme and 5-digit bundles remaining after preparing trays or alternate containers under 10.2.4a through 10.2.4g, and all 3-digit, ADC, and Mixed ADC bundles, must be trayed or containerized and labeled according to the applicable requirements under 9.3 for cotraying of automation and Presorted bundles, except if there are no automation bundles in the mailing job, tray or container and label under 345.5.7, or, if there are no Presorted bundles in the mailing job, tray or containerize and label under 345.7.4.3.

10.2.5 Pallet Preparation and Labeling

* * * Mailers must label pallets according to the Line 1 and Line 2 information listed below and under 8.6.

* * * * *

i. NDC, required, may contain carrier route price, automation price, and/or Presorted price bundles. * * * Labeling:

[Revise 10.2.5i1 as follows:]

1. Line 1: Use L604, Column B.

* * * * *

[Revise the title of 11.0 as follows:]

11.0 Combining Automation and Nonautomation Flats in Bundles

* * * * *

11.2 Periodicals

11.2.1 Basic Standards

[Revise the third sentence of the introductory paragraph of 11.2.1 as follows:]

* * * Mailing jobs (for flats meeting the criteria in 301.3.0) prepared using the 5-digit scheme and/or the 3-digit scheme bundle preparation must be trayed or placed in authorized alternate containers under 9.0 or 10.0 or palletized under 10.0, 12.0, or 13.0. All bundles are subject to the following conditions:

* * * * *

[Revise 11.2.1b as follows:]

b. Mailings prepared in trays or alternate containers must meet the basic standards in 9.0 or 10.0.

* * * * *

11.2.3 Bundles With Fewer Than Six Pieces

[Revise the last sentence of the introductory paragraph of 11.2.3 as follows:]

* * * Low-volume bundles are permitted only when they are trayed, placed in approved alternate containers, or prepared on pallets as follows:

[Revise 11.2.3a and b as follows:]

a. Place low-volume 5-digit and 3-digit bundles in only 5-digit scheme, 5-digit, 3-digit, and SCF trays or alternate containers that contain at least 24 pieces; or in origin/entry SCF trays or alternate containers; or on merged 5-digit scheme, 5-digit scheme, merged 5-digit, 5-digit, 3-digit, or SCF pallets, as appropriate.

b. Place low-volume 5-digit scheme and 3-digit scheme bundles in only 5-digit scheme, 3-digit, and SCF trays or alternate containers that contain at least 24 pieces, or in origin/entry SCF trays or alternate containers, or on 3-digit or SCF pallets, as appropriate.

11.3 Standard Mail

11.3.1 Basic Standards

[Revise the fourth sentence of the introductory paragraph of 11.3.1 as follows:]

* * * Mailing jobs prepared using the 5-digit scheme and/or 3-digit scheme bundle preparation (for flats meeting the criteria in 301.3.0) must be trayed, placed in approved alternate containers under 10.0, or palletized under 10.0, 12.0, or 13.0. All bundles are subject to the following conditions:

* * * * *

[Revise 11.3.1b as follows:]

b. Mailings prepared in trays or alternate containers must meet the basic standards in 9.0 or 10.0.

* * * * *

11.4 Bound Printed Matter

11.4.1 Basic Standards

* * * * *

[Revise 11.4.1c as follows:]

c. Cobundled pieces must be cotrayed or combined in approved alternate containers under 9.0 or palletized under 8.0.

* * * * *

12.0 Merging Bundles of Flats on Pallets Using a 5% Threshold

12.1 Periodicals

12.1.1 Basic Standards

* * * * *

[Revise 12.1.1g as follows:]

g. Portions of the mailing job that cannot be palletized must be prepared in trays or approved alternate containers.

* * * * *

12.1.5 Pallet Preparation and Labeling

* * * * *

[Revise 12.1.5c as follows:]

c. 5-digit scheme, not permitted for flats that meet the dimension, weight, and flexibility criteria for automation flats in 301.3.0 (including pieces in merged bundles) and not permitted for trays or alternate containers.

* * * * *

12.2 Standard Mail

* * * * *

12.2.4 Pallet Preparation and Labeling

* * * Mailers must label pallets according to the Line 1 and Line 2 information listed below and under 8.6.

* * * * *

i. NDC, required, may contain carrier route price, automation price, and/or Presorted price bundles. * * * Labeling:

[Revise 12.2.4i1 as follows:]

1. Line 1: Use L604, Column B.

* * * * *

13.0 Merging Bundles of Flats on Pallets Using the City State Product and a 5% Threshold

13.1 Periodicals

* * * * *

13.1.5 Pallet Preparation and Labeling

* * * * *

[Revise the first sentence of the opening paragraph of 13.1.5c as follows:]

c. 5-digit scheme, not permitted for flats that meet the dimension, weight, and flexibility criteria for automation flats in 301.3.0 (including pieces in merged bundles) and not permitted for trays or alternate containers. * * *

* * * * *

13.2 Standard Mail

* * * * *

13.2.4 Pallet Preparation and Labeling

* * * Mailers must label pallets according to the Line 1 and Line 2 information listed below and under 8.6.

* * * * *

i. NDC, required, may contain carrier route price, automation price, and/or Presorted price bundles. * * * Labeling:

[Revise 13.2.4i1 as follows:]

1. Line 1: Use L604, Column B.

* * * * *

21.0 Optional Combined Parcel Mailings

* * * * *

21.3 Mail Preparation

21.3.1 Basic Standards

Prepare combined mailings as follows:

* * * * *

[Revise 21.3.1b as follows:]

b. Mailers must prepare all parcels in trays, approved alternate containers or sacks under 445.5.0, or on pallets, or in pallet boxes under 8.0 to achieve the finest level of sortation.

21.3.2 Combining Standard Mail, Parcel Select, and Package Services Machinable Parcels and NFMs 6 Ounces or More

Prepare and enter combined machinable parcels as shown in the table below:

[Revise the NDC/ASF and Mixed NDC rows under the Origin and DNDC Entry options only in table 21.3.2 as follows:]

Entry | 5 Digit/scheme¹ | NDC/ASF (Required) | Mixed NDC (Required)
COMBINED PREPARATION
Origin | * * * | Trays or alternate containers—10-piece or 20-lb minimum | Trays or alternate containers—No minimum.
|  | Pallets—250-lb minimum | Pallets—250-lb minimum.
DNDC | * * * | Trays or alternate containers—10-piece or 20-lb minimum.
|  | Pallets—100-lb minimum.

* * * * *

21.3.3 Combining Standard Mail, Parcel Select, and Package Services Parcels and NFMs 2 Up to 6 Ounces (APPS-Machinable)

Prepare and enter combined APPS-machinable parcels (pieces weighing at least 2 ounces and up to, but not including, 6 ounces that are not tubes, rolls, triangles or similarly irregularly-shaped parcels) as shown in the table below.

[Revise the 3-Digit, ADC, and Mixed ADC columns under the Origin, DNDC, and DNDC rows only in table 21.3.3 as follows:]

Entry | 5-Digit/scheme ¹ | 3-Digit (required) | ADC (Required) | Mixed ADC (Required)
COMBINED PREPARATION
Origin | * * * | Trays or alternate containers—10-piece or 20-lb minimum. Pallets—250-lb minimum | Trays or alternate containers—10-piece or 20-lb minimum. Pallets—250-lb minimum. | Trays or alternate containers—No minimum. Pallets—250-lb minimum.
DNDC | * * * | Trays or alternate containers—10-piece or 20-lb minimum. Pallets—100-lb minimum. | Trays or alternate containers—10-piece or 20-lb minimum Pallets—100-lb minimum. |
DSCF | * * * | Trays or alternate containers—10-piece or 20-lb minimum. Pallets—100-lb minimum. |  |

* * * * *

21.3.4 Combining Standard Mail, Parcel Select, and Package Services Irregular Parcels and NFMs Under 2 Ounces (Not APPS-Machinable)

Prepare and enter combined not APPS-machinable parcels as shown in the table below.

[Revise the 3-Digit, ADC, and Mixed ADC columns under the Origin, DNDC, and DNDC rows only in table 21.3.4 as follows:]

Entry | 5-Digit/scheme ¹ | 3-Digit (required) | ADC (Required) | Mixed ADC (Required)
COMBINED PREPARATION
Origin | * * * | Trays or alternate containers—10-piece or 20-lb minimum. Pallets—250-lb minimum. | Trays or alternate containers—10-piece or 20-lb minimum. Pallets—250-lb minimum. | Trays or alternate containers—No minimum. Pallets—250-lb minimum.
DNDC | * * * | Trays or alternate containers—10-piece or 20-lb minimum. Pallets—100-lb minimum. | Trays or alternate containers—10-piece or 20-lb minimum. Pallets—100-lb minimum. |
DSCF | * * * | Trays or alternate containers—10-piece or 20-lb minimum. Pallets—100-lb minimum. |  |

* * * * *

23.0 Full-Service Option

23.1 Description

[Revise the third sentence of 23.1 as follows:]

* * * Full-service automation mailings require Intelligent Mail barcodes on mailpieces; Intelligent Mail tray labels on trays or approved alternate containers; and Intelligent Mail container placards on pallets or similar containers (when created). * * *

* * * * *

23.2 Eligibility Standards

All pieces entered under the full-service automation option must:

* * * * *

[Revise 23.2b as follows:]

b. Be part of a mailing using unique Intelligent Mail tray labels on all trays and approved alternate containers.

* * * * *

23.3 Preparation

* * * * *

23.3.2 Intelligent Mail Tray Labels

[Revise 23.3.2 as follows:]

All trays and approved alternate containers must contain accurately encoded Intelligent Mail tray labels as described in 708.6.5. Mailing documentation, when required, must associate each mailpiece to a corresponding tray or alternate containers if applicable, as described in 22.3.4. Each tray or alternate container must be encoded with a unique serial number. Tray or alternate container serial numbers associated to an individual Mailer ID cannot be duplicated within a 45-day period, regardless of the acceptance location.

23.3.3 Intelligent Mail Container Placards

[Revise the third sentence of 23.3.3 as follows:]

* * * Mailing documentation, when required, must associate each mailpiece (and tray or approved alternate container, if applicable) to a corresponding container as described in 22.3.4, unless otherwise authorized by the USPS. * * *

23.3.4 Electronic Documentation

[Revise the second sentence of 23.3.4 as follows:]

* * * Unless otherwise authorized, documentation must describe how each mailpiece is linked to a uniquely identified tray or sack, if applicable, and how each mailpiece and tray or approved alternate container is linked to a uniquely identified container (if applicable). * * *

* * * * *

23.4 Additional Standards

* * * * *

23.4.3 Special Standards—Small Volume Mailings

[Revise the last sentence of 23.4.3 as follows:]

* * * Unique mailing serial numbers must be populated in the Postal Wizard entry screen field or in the Mail.XML messages, except that mailers must populate the serial number field of all Intelligent Mail tray labels, and Intelligent Mail container barcodes (when mailings are containerized) with the unique mailing serial number.

707 Periodicals

* * * * *

2.0 Price Application and Computation

2.1 Price Application

* * * * *

2.1.3 Applying In-County Piece Prices

[Revise the last sentence of 2.1.3 as follows:]

* * * Piece prices for automation mailings are based on the bundle level (or tray level for unbundled pieces in trays); piece prices for nonautomation mailings are based on the tray level.

* * * * *

2.1.9 Applying Outside-County Container Prices

[Revise the first sentence of the introductory paragraph of 2.1.9 as follows:]

For Outside-County mail prepared in letter trays, pallets, flat trays, sacks or approved alternate containers, or USPS-approved containers, mailers pay the container price according to the type of container, the presort level of the container, and where the mail is entered. * * * The following additional standards apply:

[Revise items 21.9a through c as follows:]

a. For mailings prepared in letter trays, flat trays, sacks or approved alternate containers, mailers pay the container price for each tray or container based on container level and entry.

b. For mailings prepared on pallets under 705.8.0:

1. For bundles placed directly on pallets, mailers pay the container price for each pallet.

2. For letter trays, flat trays, sacks or approved alternate containers on pallets, mailers pay the container price for each tray or container, and not for the pallets. The container price for each tray or alternate container is based on the tray or alternate container level and where the pallet is entered.

c. For containers with both In-County and Outside-County pieces, mailers do not pay the container price for carrier route, 5-digit carrier routes, and 5-digit/scheme pallets, trays or alternate containers.

* * * * *

12.0 Nonbarcoded (Presorted) Eligibility

* * * * *

12.2 Prices—Outside-County

Outside-County nonbarcoded (Presorted) prices are based on the following criteria (see 2.0 for price application and computation):

* * * * *

[Revise 12.2c as follows:]

c. Container prices are based on the type of container (letter tray, flat tray, sack, alternate container, or pallet), the level of sortation of the container, and where the container is entered.

12.3 Prices—In-County

12.3.1 Five-Digit Prices

5-digit prices apply to:

* * * * *

[Revise 12.3.1b as follows:]

b. Nonletter-size pieces in 5-digit scheme (L007) bundles and 5-digit bundles of six or more addressed pieces each; placed in applicable merged 5-digit scheme (L001) flat trays or alternate containers, merged 5-digit flat trays or alternate containers, 5-digit scheme (L001) flat trays or alternate containers, or 5-digit flat trays or alternate containers; or palletized under 705.8.0 or 705.10.0, 705.12.0, or 705.13.0.

12.3.2 Three-Digit Prices

3-digit prices apply to:

* * * * *

[Revise 12.3.2b as follows:]

b. Nonletter-size pieces in 5-digit scheme (L007), 5-digit, 3-digit scheme (L008) and 3-digit bundles of six or more addressed pieces each, placed in 3-digit flat trays or alternate containers; or 3-digit scheme, and 3-digit bundles of six or more addressed pieces each, prepared under 705.8.0 or 705.10.0, 705.12.0, or 705.13.0.

* * * * *

13.0 Carrier Route Eligibility

* * * * *

13.2 Sorting

13.2.1 Basic Standards

* * * Carrier route prices apply to copies that are prepared in carrier route bundles of six or more addressed pieces each, subject to these standards:

* * * * *

b. Nonletter-size mailings. Carrier route prices apply to carrier route bundles that are sorted in one of the following ways:

[Revise 13.2.1b2 and b3 as follows:]

2. Bundles in carrier route, 5-digit scheme carrier routes, 5-digit carrier routes flat trays or alternate containers, or 3-digit carrier routes flat trays or alternate containers under 23.0. Flat trays or alternate containers may be palletized under 705.8.0.

3. Untrayed bundles entered at a destination delivery unit according to preparation standards in 23.4.2 and entry standards in 29.5.5.

* * * * *

13.3 Walk-Sequence Prices

* * * * *

13.3.2 Copies Claimed at Other Prices

[Revise the second sentence of 13.3.2 as follows:]

* * * When presented to the USPS, the trays or alternate containers containing the walk-sequence price copies must be separated from other trays or containers. * * *

* * * * *

14.0 Barcoded (Automation) Eligibility

* * * * *

14.3 Prices—Outside-County

Outside-County barcoded (automation) prices are based on the following criteria (see 2.0 for price application and computation):

* * * * *

[Revise 14.3c as follows:]

c. Container prices are based on the type of container (tray, alternate container or pallet), the level of sortation of the container, and where the container is entered.

* * * * *

18.0 General Mail Preparation

* * * * *

18.3 Presort Terms

Terms used for presort levels are defined as follows:

* * * * *

[Revise items 18.3e and f as follows:]

e. 5-digit scheme (bundles, flat trays or alternate containers) for flats prepared according to 301.3.0: The ZIP Code in the delivery address on all pieces is one of the 5-digit ZIP Codes processed by the USPS as a single scheme, as shown in L007.

f. 5-digit scheme carrier routes (pallets, flat trays or alternate containers) for Periodicals flats and irregular parcels: The ZIP Code in the delivery address on all pieces in carrier route bundles is one of the 5-digit ZIP Codes processed by the USPS as a single scheme, as shown in L001.

* * * * *

[Revise 18.3h as follows:]

h. Merged 5-digit trays: the carrier route bundles and/or machinable barcoded or nonbarcoded price 5-digit bundles in a flat tray or alternate container are all for a 5-digit ZIP Code that has an “A” or “C” indicator in the Carrier Route Indicators field in the City State Product.

* * * * *

[Revise 18.3j as follows:]

j. Merged 5-digit scheme tray: the 5-digit ZIP Codes on pieces in carrier route bundles and/or machinable barcoded or nonbarcoded price 5-digit bundles in a flat tray or alternate container are all for 5-digit ZIP Codes that are part of a single scheme as shown in L001, and the machinable barcoded or nonbarcoded price 5-digit bundles also are for 5-digit ZIP Codes that have an “A” or “C” indicator in the Carrier Route Indicators field in the City State Product.

* * * * *

18.4 Mail Preparation Terms

For purposes of preparing mail:

* * * * *

[Revise 18.4e as follows:]

e. An approved alternate container is a container that is authorized by the appropriate USPS official, instead of a flat tray (tub) or pallet, for the handling and transport of bundled flat-size mailpieces or parcels. Alternate containers could include sacks, other USPS-supplied mail transport equipment, or mailer-supplied containers.

* * * * *

[Revise 18.4j as follows:]

j. A 5-digit scheme carrier routes sort for carrier route price Periodicals flats and irregular parcels (nonletters) prepared as bundles in flat trays or alternate containers, or on pallets yields a 5-digit scheme carrier routes flat tray, sack, alternate container or pallet for those 5-digit ZIP Codes listed in L001 and 5-digit carrier routes flat tray, sack, alternate container or pallet for other areas. The 5-digit ZIP Codes in each scheme are treated as a single presort destination subject to a single minimum tray, container or pallet volume, with no further separation by 5-digit ZIP Code required. Flat trays, alternate containers or pallets prepared for a 5-digit scheme carrier routes destination that contain carrier route bundles for only one of the schemed 5-digit areas are still considered to be sorted to 5-digit scheme carrier routes and are labeled accordingly. The 5-digit scheme carrier routes sort is required for carrier route bundles of flat-size and irregular parcel Periodicals. Preparation of 5-digit scheme carrier routes flat trays, alternate containers or pallets must be done for all 5-digit scheme destinations.

* * * * *

[Revise 18.4l as follows:]

l. A merged 5-digit sort for Periodicals flats prepared in flat trays or alternate containers yields merged 5-digit flat trays or alternate containers that contain carrier route bundles and/or machinable barcoded and nonbarcoded price 5-digit bundles that are all for a 5-digit ZIP Code that has an “A” or “C” indicator in the Carrier Route Indicators field in the City State Product. The merged 5-digit sort is optional for Periodicals flats. Flat trays or alternate containers prepared for a merged 5-digit destination that contain only a single price level of bundles or that contain only two price levels of bundles are still considered to be merged 5-digit sorted and are labeled accordingly. If preparation of merged 5-digit trays or alternate containers is performed, it must be done for all 5-digit ZIP Code destinations with an “A” or “C” indicator in the Carrier Route Indicators field in the City State Product.

[Revise the second sentence of 18.4m as follows:]

m. * * * The merged 5-digit sort is optional for Periodicals flats in flat trays or alternate containers under 705.10.0. * * *

[Revise 18.4n as follows:]

n. A merged 5-digit scheme sort for Periodicals flats prepared in flat trays or alternate containers yields merged 5-digit scheme trays or alternate containers that contain carrier route bundles and machinable barcoded and nonbarcoded price 5-digit bundles for those 5-digit ZIP Codes that are part of a single scheme as shown in L001. Flat trays or alternate containers prepared for a merged 5-digit scheme destination that contain only a single price level of bundles, or only two price levels of bundles, or bundles for only one of the schemed 5-digit ZIP Codes are still considered to be merged 5-digit scheme sorted and must be labeled accordingly. If preparation of merged 5-digit scheme trays or alternate containers is performed, it must be done for all 5-digit scheme destinations in L001.

* * * * *

[Revise 18.4r as follows:]

r. An origin 3-digit (or origin 3-digit scheme) tray/alternate container contains all mail (regardless of quantity) for a 3-digit ZIP Code (or 3-digit scheme) area processed by the SCF in whose service area the mail is verified. A separate tray/alternate container may be prepared for each 3-digit ZIP Code (or 3-digit scheme) area. When these separations are made, mailers must segregate trays, sacks or pallets labeled to destinations within the origin SCF from the remainder of the mailing as described in 28.3.

[Revise 18.4s as follows:]

s. An origin/entry SCF flat tray or alternate container contains all 5-digit and 3-digit bundles (regardless of quantity) for the SCF in whose service area the mail is verified. At the mailer's option, such a tray or container may be prepared for the SCF area of each entry Post Office. This presort level applies only to nonletter-size Periodicals prepared in flat trays or alternate containers. . When these separations are made, mailers must segregate trays, sacks or pallets labeled to destinations within the origin SCF from the remainder of the mailing as described in 28.3.

* * * * *

[Add a new 18.5 as follows:]

18.5 Required Pallet Preparation

Mailers must prepare pallets under 705.8 when they have reached the minimum load requirements described in 705.8.5.3. If a mailer is unable to palletize, mail must be separated and placed in properly labeled flat trays or approved alternate containers.

19.0 Bundles

* * * * *

19.6 Flat-Size Bundles

Bundles of flat-size pieces must be secure and stable subject to the following:

* * * * *

[Revise 19.6b as follows:]

b. If placed in flat trays or alternate containers, the specific weight and height limits in 19.8.

* * * * *

[Revise title and text of the introductory sentence of 19.8 as follows:]

19.8 Preparing Bundles in Flat Trays or Alternate Containers

In addition to the standards in 19.4, mailers must prepare and secure bundles placed in flat trays or alternate containers as follows:

* * * * *

19.10 Pieces With Simplified Addresses

[Revise the third sentence of 19.10 as follows:]

* * * Bundles must be secure and stable subject to specific weight limits in 705.8.0 if placed on pallets, specific weight and height limits in 19.8 for Periodicals placed in flat trays or approved alternate containers, and specific thickness limits in 19.5 for cards and letter-size pieces.

* * * * *

19.12 Address Visibility

* * * This standard does not apply to the following:

[Revise items 19.12a and b as follows:]

a. Bundles placed in or on 5-digit or 5-digit scheme (L001) flat trays, alternate containers or pallets.

b. Bundles placed in carrier route and 5-digit carrier routes flat trays or alternate containers.

* * * * *

[Revise title of 20.0 as follows:]

20.0 Trays and Alternate Containers

20.1 Basic Standards

20.1.1 General

[Revise the first sentence of the introductory paragraph of 20.1.1 as follows:]

Mailings must be prepared in letter trays, flat trays, or bundled and placed directly on pallets or in flat trays or approved alternate containers as shown in Exhibit 20.1.1 and under other applicable standards in this section. * * *

* * * * *

[Revise the USPS Container method column for the Flat-size, parcels row only to replace the word “sack” in Exhibit 20.1.1 as follows:]

Exhibit 20.1.1 USPS Containers
Processing category | USPS container
Periodicals:
* * * | * * *
Flat-size, parcels | Flat tray or alternate container.

* * * * *

[Delete current sections 20.1.5, Origin/Entry 3-Digit/Scheme; 20.1.6, flats and Irregular Parcels—Origin/Entry SCF Sacks; and 20.1.7, Flats and Irregular Parcels—Origin Mixed ADC Sacks, in their entirety.]

* * * * *

[Renumber 20.3 through 20.4.2 as the new 20.4 through 20.5.2 and add a new 20.3 as follows:]

20.3 Flat Tray Usage

When using flat trays in lieu of palletizing or optionally traying under 22.7 and 25.5, mailers must prepare mailpieces in flat trays with green lids.

Flat tray sizes are as follows:

a. Inside bottom dimensions: 14-3/4 inches long by 10-3/4 inches wide.

b. Height: 8 inches to bottom of handhold, 11-1/4 inches to top of tray.

[Revise title and text of renumbered 20.4 as follows:]

20.4 Flat Tray or Container Preparation

If mailers are unable to palletize, flat-size and parcel mailings must be placed in flat trays or approved alternate containers except when permitted under other applicable standards in this section. All tray or container preparation is subject to these standards:

a. Each tray or container must bear the correct tray label.

b. The weight of a tray or container and its content must not exceed 70 pounds

[Revise title of renumbered 20.5 as follows:]

20.5 Standards for Optional Use of Flat Trays

20.5.1 General

[Revise renumbered 20.5.1 as follows:]

Mailers may optionally prepare machinable flat-size pieces in flat trays, under 22.7 and 25.5, instead of preparing these pieces in bundles.

* * * * *

[Revise title of 21.0 as follows:]

21.0 Tray Labels

21.1 Basic Standards

21.1.1 General

[Revise 21.1.1 as follows:]

Tray labels are subject to the following:

a. Use 2-inch labels for trays or approved alternate containers.

b. Illegible labels are not acceptable. Machine-printed labels (available from the USPS) ensure legibility. Legible hand-printed labels are acceptable.

c. Tray labels for automation price mailings are subject to 21.4 and 708.6.0.

d. Intelligent Mail tray labels, used on trays or alternate containers, are subject to the standards in 708.6.5, and to the specifications posted at http://ribbs.usps.gov.

* * * * *

21.1.2 Line 1 (Destination Line)

Line 1 (destination line) must meet these standards:

* * * * *

[Revise 21.1.2 c as follows:]

c. Overseas Military Mail. On 5-digit trays or approved alternate containers for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the tray or container.

* * * * *

21.1.3 Line 2 (Content Line)

Line 2 (content line) must meet these standards:

[Revise the second sentence of 21.1.3a as follows:]

a. * * * This line must show the class and processing category of the mail in the tray or alternate container and other information as specified by standards. * * *

* * * * *

[Delete 21.2, Sack Labels, in its entirety, and renumber current 21.3 and 21.4 as the new 21.2 and 21.3.]

* * * * *

21.2 Tray Labels

21.2.1 Placement

[Revise the second sentence of renumbered 21.2.1 as follows:]

* * * If no specific location is indicated, place the label securely in an adhesive-backed label holder affixed horizontally to the top left corner of one end of the tray, for letter trays; and the lower left corner, for flat trays. * * *

* * * * *

[Revise title and the text of the introductory sentence of renumbered 21.3 as follows:]

21.3 Use of Barcoded Tray Labels

Exhibit 21.3 shows the types of mail requiring barcoded tray labels. Barcoded labels must meet these general standards:

* * * * *

[Revise items 21.3d and e as follows:]

d. Mailers must insert barcoded labels completely into the label holder on the tray or alternate container to prevent their loss during transport and processing.

e. Intelligent Mail tray labels must be used on all trays and alternate containers for mailings entered under the full-service Intelligent Mail automation option.

[Revise the Price or Type column only for the second line under Periodicals to replace the word “cosacked” with “cotrayed” in exhibit 21.3 as follows:]

Exhibit 21.3 Required Barcoded Tray Labels
Price or type | Processing category
Periodicals: |
* * * | * * *
Cobundled and cotrayed under 705.9.0 through 705.13.0 | * * *

* * * * *

22.0 Preparing Nonbarcoded (Presorted) Periodicals

22.1 Basic Standards

22.1.1 General

[Revise the introductory sentence of 22.1.1 as follows:]

For letter-size mail, nonletter-size mail prepared in flat trays or approved alternate containers, and palletized mail, the following standards apply:

* * * * *

[Revise items 22.1.1c through e as follows:]

c. Nonletter-size pieces must be bundled under 22.2 and placed on pallets. Bundles placed on pallets must meet additional bundling criteria under 705.8.0.

d. When unable to palletize, bundles of nonletter-size pieces must be prepared in flat trays or approved alternate containers (except under 23.4.2) under one of the following:

1. Trayed under 22.6, except that a nonbarcoded price mailing that is part of a mailing job that also contains a barcoded mailing must be trayed as described in 22.1.2.

2. Palletized under 705.8.0, 705.10.0, 705.12.0, or 705.13.0.

e. Flat trays or approved alternate containers prepared under 22.6, may subsequently be prepared on pallets under 705.8.0.

* * * * *

[Revise title of 22.1.2 as follows:]

22.1.2 Additional Standards for Nonletter-Size Unpalletized Mailing Jobs Containing More Than One Mailing

The following standards apply:

[Revise the first sentence of 22.1.2a as follows:]

a. Mailings prepared in flat trays or approved alternate containers that are part of a mailing job that includes a carrier route, barcoded price, and nonbarcoded price mailing must be prepared under one of the options listed below. * * *

* * * * *

[Revise items 22.1.2b through d as follows:]

b. Mailings prepared in flat trays or approved alternate containers that are part of a mailing job that includes a barcoded price and nonbarcoded price mailing must be prepared under the cotraying standards in 705.9.0.

c. Trayed or containerized mailing jobs that contain only a carrier route mailing and a nonbarcoded price mailing may be prepared separately, or may be prepared using the merged traying option under 705.10.0.

d. Trayed or containerized mailing jobs that contain only a carrier route mailing and a barcoded price mailing may be prepared separately under 23.0 and 25.0, or may be prepared using the merged traying option under 705.10.0.

* * * * *

22.1.4 Merged Containerization of Nonletter-Size Carrier Route, Barcoded Price, and Nonbarcoded Price Mail

[Revise the first sentence of 22.1.4 as follows:]

Under the optional preparation in 705.10.0, nonbarcoded price 5-digit bundles prepared under 22.1 and 22.2 are cotrayed with carrier route bundles prepared under 23.0 and with barcoded price 5-digit bundles prepared under 25.0 in merged 5-digit trays, sacks or alternate containers and in merged 5-digit scheme trays, sacks or alternate containers. * * *

* * * * *

22.4 Bundles With Fewer Than Six Pieces

[Revise the last sentence of the introductory paragraph of 22.4 as follows:]

* * * Low-volume bundles are permitted only when they are prepared in flat trays, approved alternate containers, or prepared on pallets as follows:

[Revise 22.4a as follows:]

a. Place bundles in only 5-digit, 3-digit, and SCF trays or alternate containers hat contain at least 24 pieces, or in origin/entry SCF trays or containers, as appropriate.

* * * * *

22.5 Tray Preparation—Letter-Size Pieces

[Revise the introductory paragraph only of 22.5 as follows:]

Mailers must segregate trays destined within the origin/entry SCF as described in 28.3. Preparation sequence and labeling:

* * * * *

[Revise the title and introductory paragraph only of 22.6 as follows:]

22.6 Tray Preparation—Flat-Size Pieces and Parcels

Mailers must segregate trays destined within the origin/entry SCF as described in 28.3. For mailing jobs that also contain a barcoded price mailing, see 22.1.2 and 705.9.0 or 705.10.0. For other mailing jobs, preparation sequence and labeling:

* * * * *

22.7 Optional Tray Preparation—Flat-Size Nonbarcoded Pieces

[Revise the first sentence of the introductory paragraph of 22.7and add a new second sentence as follows:]

As an option, mailers may place unbundled machinable flat-size pieces meeting the criteria in 301.3.0 in flats trays (see 20.4). Mailers must segregate trays destined within the origin/entry SCF as described in 28.3. * * *

* * * * *

[Add a new 22.8 as follows:]

22.8 Containerization—Flat Tray Preparation and Labeling

For mail prepared in bundles, mailers must prepare pallets under 705.8.0 when minimum volume is available for a required pallet level. Mailers who are unable to palletize, or mailers of small volume mailings, must prepare bundles in flat trays or approved alternate containers as shown in items a through c below. Preparation sequence and labeling:

a. Origin-Entry 3 Digit (optional); no minimum; when these separations are made, mailers must segregate trays as described in 28.3; labeling:

1. Line 1: Column B, L002

2. Line 2: “PER” or “NEWS” FLTS 3D NON BC

b. Local Surface Transport (required); no minimum; labeling:

1. Line 1: “OMX” followed by L201, Column C information for the facility serving the 3-digit ZIP Code prefix of entry Post Office.

2. Line 2: “PER” or “NEWS” FLTS NON BC.”

c. Extended Surface Network (required); no minimum; labeling:

1. Line 1: “MXD” followed by L009, Column B for the facility serving the 3-digit ZIP Code prefix of entry Post Office.

2. Line 2: “PER” or “NEWS” FLTS NON BC.”

23.0 Preparing Carrier Route Periodicals

23.1 Basic Standards

23.1.1 General

Mailers must meet the following standards for carrier route mailings:

[Revise items 23.1.1c through e as follows:]

c. Generally nonletter-size pieces must be bundled under 23.2 and placed on pallets under 705.8.0.

d. Except as noted in 23.4.2, mailers must palletize bundles of nonletter-size pieces, or place bundles in flat trays or approved alternate containers, according to one of the following:

1. Tray or containerize under 23.4, or under 705.10.1 if eligible to be cotrayed with barcoded price and nonbarcoded price Periodicals pieces.

2. Palletized under 705.8.0, 705.10.0, 705.12.0, or 705.13.0.

e. Flat trays or approved alternate containers prepared under 23.4, may subsequently be prepared on pallets under 705.8.0.

* * * * *

23.1.4 Merged Containerization of Nonletter-Size Carrier Route and Machinable Barcoded and Nonbarcoded Price Mail

[Revise the second sentence of 23.1.4 as follows:]

* * * Under the optional preparation in 705.10.0, carrier route bundles prepared under 23.1 and 23.2.3 are cotrayed with machinable nonbarcoded price 5-digit bundles prepared under 22.0 and with machinable barcoded price 5-digit bundles prepared under 25.0 in merged 5-digit trays or containers and merged 5-digit scheme trays or containers. * * *

* * * * *

23.3 Preparation—Letter-Size Pieces

23.3.1 Basic Preparation

[Revise the introductory paragraph of 23.3.1 as follows:]

Mailers must segregate trays destined within the origin/entry SCF as described in 28.3. Preparation sequence and labeling:

* * * * *

23.4 Preparation—Flat-Size Pieces and Irregular Parcels

[Revise the title and introductory paragraph of 23.4.1 as follows:]

23.4.1 Tray Preparation

Mailers must segregate trays destined within the origin/entry SCF as described in 28.3. Preparation sequence and labeling:

* * * * *

[Revise the opening paragraph only of 23.4.1d as follows:]

d. 3-digit carrier routes, required with one six-piece bundle.

* * * * *

[Revise title and text of the introductory paragraph on 23.4.2 as follows:]

23.4.2 Exception to Containerization

Containerization is not required for carrier route or 5-digit bundles prepared for and entered at a DDU when the mailer unloads bundles under 29.5.5. Mail presented under this exception is not subject to the container charge (but is still subject to the bundle charge). Mailers must prepare uncontainerized bundles as follows:

* * * * *

23.6 Bundles With Fewer Than Six Pieces

[Revise the last sentence of the introductory paragraph of 23.6 as follows:]

* * * Low-volume carrier route bundles are permitted only when they are prepared on pallets, placed in flat trays or approved alternate containers as follows:

[Revise 23.6a as follows:]

a. Place bundles in only 5-digit scheme carrier routes and 5-digit carrier routes trays or containers that contain at least 24 pieces, or 3-digit carrier routes or merged 3-digit trays or containers that contain at least one six-piece carrier route bundle.

* * * * *

23.7 Multi-Box Section Bundles—Optional Preparation

A mailer may combine individual copies of Periodicals for Post Office box sections into a multi-box section bundle or bundles of copies to the same 5-digit ZIP Code under these conditions:

* * * * *

[Revise 23.7f as follows:]

f. Bundles must be placed in existing carrier-route, 5-Digit scheme, or 5-Digit carrier routes trays or containers.

* * * * *

24.0 Preparing Letter-Size Barcoded (Automation) Periodicals

* * * * *

24.2 Additional Standards

24.2.1 Preparing Barcoded Price Letters

[Revise the introductory paragraph of 24.2.1 as follows:]

Mailers must segregate trays destined within the origin/entry SCF as described in 28.3. Preparation, sequence, and Line 1 labeling:

* * * * *

25.0 Preparing Flat-Size Barcoded (Automation) Periodicals

25.1 Basic Standards

25.1.1 General

[Revise the introductory paragraph of 25.11 as follows:]

Each piece must meet the physical standards in 301.3.0 or in 26.0. Bundle, tray or container preparation is subject to 18.0 through 21.0 and this section. Trays or containers must bear the appropriate barcoded container labels under 708.6.0. Pieces may be prepared in bundles that are not placed on pallets, or in trays or other containers, only as provided in 23.4.2.

* * * * *

[Revise title and text of 25.1.6.7]

25.1.6 Flat Tray and Container Preparation

Mailers may combine bundles of pieces prepared under 301.3.0 and bundles of pieces prepared under 26.0 in the same flat tray or approved alternate container, with the exception of 5-digit scheme sacks, which may contain only pieces prepared under 301.3.0.

* * * * *

25.1.8 Bundles With Fewer Than Six Pieces

[Revise the last sentence of the introductory paragraph of 25.1.8 as follows:]

* * * These low-volume bundles are permitted only when they are trayed or prepared on pallets under these conditions:

[Revise 25.1.8a as follows:]

a. Place 5-digit and 3-digit bundles in only 5-digit scheme, 5-digit, 3-digit, and SCF flat trays or alternate containers, as appropriate, that contain at least 24 pieces, or in merged 3-digit flat trays or alternate containers that contain at least one six-piece carrier route bundle, or in origin/entry SCF flat trays or alternate containers.

* * * * *

[Revise 25.1.8c as follows:]

c. Place 5-digit scheme and 3-digit scheme bundles in only 5-digit scheme, 3-digit, and SCF trays or approved alternate containers, as appropriate, that contain at least 24 pieces, or in merged 3-digit trays or alternate containers that contain at least one six-piece carrier route bundle, or in origin/entry SCF trays or alternate containers.

* * * * *

[Revise title of 25.1.9 as follows:]

25.1.9 Cotraying and Cobundling With Nonbarcoded and Carrier Route Mail

The following standards apply (except as provided in 25.1.7):

* * * * *

[Revise items 25.1.9b and c as follows:]

b. If the mailing job contains a machinable barcoded and nonbarcoded price mailing, then it must be prepared under the cotraying standards in 705.9.0. Machinable barcoded and nonbarcoded price pieces may be cobundled under the standards in 705.11.0.

c. If the mailing job contains a carrier route mailing and a machinable barcoded price mailing, then it must be separately trayed under 23.0 and 25.0 or prepared using the merged tray option under 705.10.0.

25.1.10 Merged Containerization With Nonbarcoded and Carrier Route Flats

[Revise 25.1.10 as follows:]

When the standards in 705.10.0, 705.12.0, or 705.13.0 are met, 5-digit bundles of machinable barcoded, machinable nonbarcoded, and carrier route mail that are part of the same mailing job may be combined on merged 5-digit scheme flat trays, approved alternate containers or pallets and merged 5-digit flat trays, approved alternate containers or pallets. Bundles that are cotrayed or copalletized must be part of the same mailing job and mail class. Machinable barcoded pieces may be cobundled with machinable nonbarcoded pieces under 705.11.0.

* * * * *

[Revise the title and introductory paragraph only of 25.4 as follows:]

25.4 Traying and Labeling

Mailers must segregate trays destined within the origin/entry SCF as described in 28.3. For mailing jobs that also contain a machinable nonbarcoded price mailing, see 25.1.9 and 705.9.0. Other mailing jobs are prepared, trayed and labeled as follows:

* * * * *

25.5 Optional Tray Preparation—Flat-Size Barcoded Pieces

[Add a new first sentence and revise the new second sentence of the introductory paragraph of 25.5 as follows:]

Mailers must segregate trays destined within the origin/entry SCF as described in 28.3. As an option, mailers may place unbundled machinable flat-size pieces meeting the criteria in 301.3.0 in flats trays. * * *

* * * * *

[Add a new 25.6 as follows:]

25.6 Containerization—Flat Tray Preparation and Labeling

For mail prepared in bundles, mailers must prepare pallets under 705.8.0 when minimum volume is available for a required pallet level. Mailers who are unable to palletize, or mailers of small volume mailings, must prepare bundles in flat trays or approved alternate containers as shown in items a through c below. Preparation sequence and labeling:

a. Origin-Entry 3 Digit (optional); no minimum; when these separations are made, mailers must segregate trays as described in 28.3; labeling:

1. Line 1: Column B, L002

2. Line 2: “PER” or “NEWS” FLTS 3D BC

b. Local Surface Transport (required); no minimum; labeling:

1. Line 1: “OMX” followed by L201, Column C information for the facility serving the 3-digit ZIP Code prefix of entry Post Office.

2. Line 2: “PER” or “NEWS” FLTS BC.

c. Extended Surface Network (required); no minimum; labeling:

1. Line 1: “MXD” followed by L009, Column B for the facility serving the 3-digit ZIP Code prefix of entry Post Office.

2. Line 2: “PER” or “NEWS” FLTS BC.

* * * * *

27.0 Combining Multiple Editions or Publications

* * * * *

27.3 Minimum Volume

The following minimum volume standards apply:

[Revise 27.3a as follows:]

a. For comailings prepared under 27.1a, multiple publications or editions are combined to meet the required minimum volume per bundle, tray or container for the price claimed.

* * * * *

28.0 Enter and Deposit

* * * * *

[Revise 28.0 by renumbering current items 28.3 and 28.4 as the new 28.4 and 28.5 and add a new 28.3 as follows:]

28.3 Segregation of Origin SCF Mailpieces

Mailers may optionally separate origin/entry carrier route, 5-digit (scheme) carrier route, (merged) 5-digit (scheme) and 3-digit (scheme) trays, containers or bundles destinating in the service area of the SCF serving the Post Office where the mail is verified, or the service area of the SCF/plant where mail is entered. When making such separations, mailpieces must be prepared in accordance with 22.0 through 25.0 and segregated from the remainder of the mailing. Mailers must segregate the origin/entry trays by one of these methods: Separately containerize the trays; place the trays in a conspicuous location on top of origin SCF pallet or other container; or present them separately to acceptance personnel.

* * * * *

29.0 Destination Entry

29.1 Basic Standards

29.1.1 Price Application

Periodicals may qualify for destination entry prices under 29.3 through 29.5. The following standards apply:

[Revise 29.11a as follows:]

a. An individual bundle, tray, or pallet may contain pieces claimed at different destination entry pound prices.

* * * * *

29.1.2 Documentation

[Revise the first sentence of 29.12 as follows:]

Subject to 708.1.0, the mailer must be able to show compliance with eligibility requirements (by bundle, tray, or pallet), and list the number of addressed pieces by presort level for each 5-digit and 3-digit ZIP Code destination as appropriate for the prices and discounts claimed.

* * * * *

29.4 Destination Sectional Center Facility

* * * * *

29.4.2 Price Eligibility

Determine price eligibility as follows:

a. Pound Prices. * * * Nonletter-size pieces are also eligible when the mailer deposits 5-digit bundles at the destination delivery unit (DDU) (the facility where the carrier cases mail for delivery to the addresses on the pieces) and the 5-digit bundles are in or on the following types of containers:

[Revise 29.4.2a1 as follows:]

1. A merged 5-digit scheme or merged 5-digit tray or container.

* * * * *

708 Technical Specifications

1.0 Standardized Documentation for First-Class Mail, Periodicals, Standard Mail, and Flat-Size Bound Printed Matter

* * * * *

1.2 Format and Content

For First-Class Mail, Periodicals, Standard Mail, and Bound Printed Matter, standardized documentation includes:

* * * * *

c. For mail in trays or approved alternate containers, list these required elements:

[Revise 1.2c1 and c2 as follows:]

1. Tray/alternate container sortation level. Note with an asterisk (“*”) all trays containing overflow mail moved into that tray under 235.6.6, 245.5.3 or 245.7.5.

2. Tray/alternate container destination ZIP Code from top line of tray/container label except that, for 3-digit carrier routes trays, list the individual 5-digit ZIP Codes in each tray.

* * * * *

[Revise the first sentence of 1.2c4 as follows:]

4. Separate columns with the number of pieces for each price reported in the mailing, and a continuous running total of pieces for each mailing (group information either in ZIP Code order and by sortation level or by sortation level and within each sortation level, by ZIP Code; report trays and alternate containers on pallets by pallet level and destination; include all information required in 1.2c for mail in trays or alternate containers). * * *

[Revise 1.2c5 as follows:]

5. The tray identification number and size (1-foot or 2-foot) if available for letter mail in trays. The tray identification number is optional for unbundled automation flats placed in flat trays.

* * * * *

[Revise 1.2c7 as follows:]

7. For Periodicals mailings that contain both In-County and Outside-County pieces, the listing may include a separate “Container Charge” and “Bundle Charge” column. Indicate which trays, alternate containers, and bundles are subject to the container or bundle charges and a total or a running total.

* * * * *

e. * * * For Periodicals mailings, documentation also must provide:

* * * * *

[Revise the last sentences of items 1.2e2 and e3 as follows:]

2. * * * Report only trays, approved alternate containers, and pallets subject to the Outside-County container prices under 707.1.1.4.

3. * * * Report only bundles, trays, approved alternate containers, and pallets subject to the Outside-County bundle and container prices.

* * * * *

1.5 Combined, Copalletized, and Merged Mailings

For combined or copalletized mailings of Periodicals and Standard Mail prepared under 705.8.0, 705.10.0, 705.12.0, or 705.13.0, documentation must show this additional information:

a. For mailings that require multiple postage statements:

* * * * *

[Revise 1.5a2 as follows:]

2. Prices for each product or edition shown in the correct “Price” column and summarized for each tray, approved alternate container, or pallet and for the entire mailing.

* * * * *

1.8 Optional Information

[Revise 1.8 as follows:]

Standardized documentation may include additional information about the pieces mailed (such as individual tray, approved alternate container, or sack total piece counts, optional identification codes, bundle weights) if this information does not conflict with the information required under 1.2 through 1.7.

* * * * *

[Revise title of 6.0 as follows:]

6.0 Standards for Barcoded Tray Labels and Container Placards

6.1 General

[Revise title and text of 6.1.1 as follows:]

6.1.1 Tray Labels

Intelligent Mail tray labels (see 6.5) and barcoded tray labels are the USPS-approved methods to encode routing, content, origin, and mailer information on trays, approved alternate containers and sacks. Intelligent Mail tray labels are designed for use with Intelligent Mail barcoded mail and have the capacity to provide unique identification throughout postal processing.

* * * * *

[Revise title of 6.2 as follows:]

6.2 Specifications for Barcoded Tray Labels

6.2.1 Use

[Revise 6.2.1 as follows:]

Exhibit 6.2.1 shows the types of mail requiring barcoded tray labels. Barcoded labels must meet these general standards:

a. Mailer-produced barcoded labels must meet the standards in 6.0.

b. All information on barcoded labels must be machine-printed. Alterations to preprinted barcoded labels (e.g., handwritten changes) may not be made.

c. Labels must be inserted completely into the label holder on the tray or alternate container to prevent their loss during transport and processing.

[Revise Exhibit 6.2.1 by inserting two new rows above First-Class Mail to add reference to Express and Priority Mail O&D, and revise the “Price or Type” descriptions within Periodicals and Standard Mail as follows:]

Exhibit 6.2.1—Required Barcoded Tray and Sack Labels
Price or type | Processing category
Express Mail Open & Distribute | Any.
* * * * *
Periodicals
* * * * *
Cobundled and cotrayed under 705.90 through 705.13.0 | Flat-size.
* * * * *
Standard Mail
* * * * *
Cobundled and cotrayed under 705.9.0 through 705.13.0 | Flat-size.

6.2.2 Line 1 (Destination Line)

The destination line must meet these standards:

[Revise the first two sentences of 6.2.2a as follows:]

a. Placement. The destination line must be the top line of the label, placed in the position shown in Exhibit 6.2.2a (above the barcode). An exception is that one line of extraneous information may appear above the destination line on tray labels as provided in 6.3.2, and 6.3.2f. * * *

[Renumber and re-title current Exhibit 6.2.2a as follows:]

Exhibit 6.2.2 Barcoded Tray Labels

* * * * *

[Revise 6.2.2b as follows:]

b. Information. The destination line must contain only the information required by the applicable standards for the class, processing category, sortation level of the tray, approved alternate container or sack, and the prices claimed. This information is contained in the labeling lists for all sortation and price levels except trays, alternate containers or sacks to carrier route, 5-digit carrier routes, merged 5-digit, and 5-digit destinations, and except for automation letter trays to 5-digit scheme destinations. For the destination line of carrier route, 5-digit carrier routes, merged 5-digit, and 5-digit trays, alternate containers or sacks, the city, two-letter state abbreviation, and 5-digit ZIP Code of the destination 5-digit ZIP Code area must be shown. For 5-digit scheme trays, the city, two-letter state abbreviation, and ZIP Code for the destination scheme must be obtained from the City State Product. The destination line may contain abbreviated city and state information if such abbreviations are those in the City State Product.

[Delete current Exhibit 6.2.2b, Barcoded 1-Inch Sack Labels, in its entirety.]

[Revise the second and fifth sentences of 6.2.2c as follows:]

c. Overseas Military Mail. The exact content identifier number (CIN) that matches the level of tray or alternate container must be used in the barcode and barcode numeric line on barcoded tray labels. * * * A footnote at the end of the content line information means that the mailer must add appropriate information when ordering and printing tray labels. * * *

6.2.3 Line 2 (Content Line)

The content line must meet these standards:

[Revise the third sentence of 6.2.3a as follows:]

a. * * * This line must show the class, processing category, and the sortation level of the tray or alternate container as required by the applicable standards for the mailing. * * *

* * * * *

6.2.4 3-Digit Content Identifier Numbers

[Revise the introductory paragraph of 6.2.4 as follows:]

The exact content identifier number (CIN) that matches the level of tray, approved alternate container or sack must be used in the barcode and barcode numeric line on barcoded tray labels. The required second line of information that corresponds to the CIN must appear on the human-readable content line of the label. The human-readable content line is automatically printed when labels are obtained through the PASSPORT system or ordered on Form 1578-B for printing at the Label Printing Center in Topeka, Kansas. A footnote at the end of the content line information means that the mailer must add appropriate information when ordering and printing tray labels. Any mailer using PASSPORT to order labels must also add the appropriate additional information to the human-readable content line for those content lines marked with a footnote. See Exhibit 6.2.4.

Exhibit 6.2.4 3-Digit Content Identifier Numbers

[Revise text of “Class and Mailing” and “Human Readable Content Line” for Express and Priority Mail of Exhibit 6.2.4 as follows:

Class and mailing | CIN | Human-readable content line
Express Mail
Open & Distribute, all container & sack levels | 143 | EXPRESS O&D.
Priority Mail
Open & Distribute, all container & sack levels | 165 | PRIORITY O&D.

[Revise the “Class and Mailing” column only for Exhibit 6.2.4 for the following mail classes (CIN codes are shown for comparison):]

Class and mailing | CIN | Human-readable content line
First-Class Mail
* * * * * * *
FCM Parcels—Presorted:
5-digit scheme containers, trays & sacks | 289 | * * *
5-digit containers trays & sacks | 289 | * * *
3-digit containers or trays | 290 | * * *
ADC containers or trays | 291 | * * *
mixed ADC containers or trays | 292 | * * *
Periodicals (PER)
| * * * * * * *
PER Flats—Carrier Route:
car. rt. containers or trays—saturation | 387 | * * *
car. rt. containers or trays—high density | 388 | * * *
car. rt. containers or trays—basic | 385 | * * *
5-digit carrier routes containers or trays | 386 | * * *
5-digit scheme car. rts. containers or trays | 371 | * * *
3-digit carrier routes containers | 351 | * * *
PER Flats—Barcoded:
5-digit containers or trays | 372 | * * *
5-digit scheme containers or trays | 372 | * * *
3-digit containers or trays | 373 | * * *
SCF containers or trays | 377 | * * *
ADC containers or trays | 374 | * * *
mixed ADC containers or trays | 375 | * * *
origin mixed ADC containers or trays | 381 | * * *
PER Flats—Nonbarcoded:
5-digit scheme containers or trays | 378 | * * *
5-digit containers or trays | 378 | * * *
3-digit containers or trays | 379 | * * *
SCF containers or trays | 384 | * * *
ADC containers or trays | 380 | * * *
mixed ADC containers or trays | 382 | * * *
origin mixed ADC containers or trays | 381 | * * *
[Revise the section title as follows:]
PER Flats—Cotrayed Barcoded and Nonbarcoded:
5-digit scheme containers or trays | 321 | * * *
5-digit containers or trays | 321 | * * *
3-digit containers or trays | 322 | * * *
SCF containers or trays | 329 | * * *
ADC containers or trays | 331 | * * *
Mixed ADC containers or trays | 332 | * * *
origin mixed ADC containers or trays | 381 | * * *
PER Flats—Merged Carrier Route, Barcoded, and Nonbarcoded:
merged 5-digit containers or trays | 339 | * * *
merged 5-digit scheme containers or trays | 349 | * * *
merged 3-digit containers or trays | 352 | * * *
PER Irregular Parcels—Merged Carrier Route and Presorted:
merged 5-digit containers, trays & sacks | 340 | * * *
merged 3-digit containers or trays | 354 | * * *
merged 5-digit scheme containers or trays | 365 | * * *
PER Irregular Parcels—Carrier Route:
saturation containers, trays & sacks | 397 | * * *
high density containers, trays & sacks | 398 | * * *
basic containers, trays & sacks | 395 | * * *
5-digit carrier routes containers, trays & sacks | 396 | * * *
5-digit scheme car. rts. containers or trays | 399 | * * *
3-digit carriers routes containers or trays | 355 | * * *
PER Irregular Parcels—Presorted:
5-digit containers, trays & sacks | 389 | * * *
3-digit containers or trays | 390 | * * *
SCF containers or trays | 394 | * * *
ADC containers or trays | 391 | * * *
mixed ADC containers or trays | 392 | * * *
origin mixed ADC containers or trays | 363 | * * *
* * * * * * *
Periodicals (NEWS)
| * * * * * * *
NEWS Flats—Carrier Route:
car. rt. containers or trays—saturation | 487 | * * *
car. rt. containers or trays—high density | 488 | * * *
car. rt. containers or trays—basic | 485 | * * *
5-digit carrier routes containers or trays | 486 | * * *
5-digit scheme car. rts. containers or trays | 471 | * * *
3-digit carrier routes containers or trays | 451 | * * *
NEWS Flats—Barcoded:
5-digit containers or trays | 472 | * * *
5-digit scheme containers or trays | 472 | * * *
3-digit containers or trays | 473 | * * *
SCF containers or trays | 477 | * * *
ADC containers or trays | 474 | * * *
mixed ADC containers or trays | 475 | * * *
origin mixed ADC containers or trays | 481 | * * *
NEWS Flats—Nonbarcoded:
5-digit scheme containers or trays | 478 | * * *
5-digit containers or trays | 478 | * * *
3-digit containers or trays | 479 | * * *
SCF containers or trays | 484 | * * *
ADC containers or trays | 480 | * * *
mixed ADC containers or trays | 482 | * * *
origin mixed ADC containers or trays | 481 | * * *
[Revise the section title as follows:]
NEWS Flats—Cotrayed Barcoded and Nonbarcoded:
5-digit scheme containers or trays | 421 | * * *
5-digit containers or trays | 421 | * * *
3-digit containers or trays | 422 | * * *
SCF and origin/entry containers or trays | 429 | * * *
ADC containers or trays | 431 | * * *
mixed ADC containers or trays | 432 | * * *
origin mixed ADC containers or trays | 481 | * * *
NEWS Flats—Merged Carrier Route, Barcoded, and Nonbarcoded:
merged 5-digit | 439 | * * *
merged 5-digit scheme | 449 | * * *
merged 3-digit sacks | 452 | * * *
NEWS Irregular Parcels—Merged Carrier Route and Presorted:
merged 5-digit | 440 | * * *
merged 5-digit scheme | 465 | * * *
merged 3-digit containers or trays | 454 | * * *
NEWS Irregular Parcels—Carrier Route:
saturation containers or trays | 497 | * * *
high density containers or trays | 498 | * * *
basic containers or trays | 495 | * * *
5-digit carrier routes containers or trays | 496 | * * *
5-digit scheme carrier routes containers or trays | 499 | * * *
3-digit carrier routes containers or trays | 455 | * * *
NEWS Irregular Parcels—Presorted:
5-digit containers, trays & sacks | 489 | * * *
3-digit containers or trays | 490 | * * *
SCF containers or trays | 494 | * * *
ADC containers or trays | 491 | * * *
mixed ADC containers or trays | 492 | * * *
origin mixed ADC containers or trays | 463 | * * *
Standard Mail
* * * * * * *
Enhanced Carrier Route Flats—Nonautomation:
saturation containers or trays | 587 | * * *
high density containers or trays | 588 | * * *
basic containers or trays | 589 | * * *
5-digit carrier routes containers or trays | 586 | * * *
5-digit scheme carrier routes containers or trays | 529 | * * *
[Revise the section title as follows:]
STD Flats—Cotrayed Automation and Nonautomation:
5-digit scheme containers or trays | 521 | * * *
5-digit containers or trays | 521 | * * *
3-digit and origin/entry 3-digit containers or trays | 522 | * * *
ADC containers or trays | 531 | * * *
mixed ADC containers or trays | 532 | * * *
* * * * * * *
STD Flats—Automation:
5-digit containers or trays | 572 | * * *
5-digit scheme containers or trays | 572 | * * *
3-digit containers or trays | 573 | * * *
ADC containers or trays | 574 | * * *
mixed ADC containers or trays | 575 | * * *
STD Flats—Nonautomation:
5-digit scheme containers or trays | 578 | * * *
5-digit containers or trays | 578 | * * *
3-digit containers or trays | 579 | * * *
ADC containers or trays | 580 | * * *
mixed ADC containers or trays | 582 | * * *
Customized MarketMail (CMM):
CMM letter trays | 206 | * * *
CMM flat trays | 207 | * * *
CMM alternate containers | 205 | * * *
[Delete sections describing STD Not Flat-Machinable Pieces, under 6 ounces and over 6 ounces in their entirety. Resume with ECR Irregular Parcels—Nonautomation as follows:]
ECR Irregular Parcels—Nonautomation:
saturation containers, trays & sacks | 599 | * * *
high density containers, trays & sacks | 600 | * * *
basic containers, trays & sacks | 601 | * * *
5-digit carrier routes containers, trays & sacks | 598 | * * *
STD Irregular Parcels—Presorted:
5-digit scheme containers, trays & sacks | 590 | * * *
5-digit containers, trays & sacks | 596 | * * *
SCF containers or trays | 571 | * * *
ASF containers or trays | 570 | * * *
mixed NDC containers or trays | 594 | * * *
STD Machinable Parcels—Presorted:
5-digit containers, trays & sacks | 670 | * * *
5-digit scheme containers, trays & sacks | 670 | * * *
ASF containers or trays | 672 | * * *
NDC containers or trays | 673 | * * *
Mixed NDC containers or trays | 674 | * * *
STD Machinable and Irregular Parcels—Presorted:
5-digit containers, trays & sacks | 603 | * * *
5-digit scheme containers, trays & sacks | 603 | * * *
Package Services
Carrier Route BPM—Flats:
carrier route containers or trays | 657 | * * *
5-digit scheme carrier routes containers or trays | 659 | * * *
5-digit carrier routes containers or trays | 658 | * * *
Presorted BPM—Flats:
5-digit scheme containers or trays | 649 | * * *
5-digit containers or trays | 649 | * * *
3-digit containers or trays | 650 | * * *
SCF containers or trays | 654 | * * *
ADC containers or trays | 651 | * * *
mixed ADC containers or trays | 653 | * * *
Presorted BPM—Automation Flats:
5-digit containers or trays | 635 | * * *
5-digit scheme containers or trays | 635 | * * *
3-digit containers or trays | 636 | * * *
SCF containers or trays | 637 | * * *
ADC containers or trays | 638 | * * *
mixed ADC containers or trays | 639 | * * *
[Revise section title as follows:]:
BPM Flats—Cotrayed Barcoded and Presorted:
5-digit scheme containers or trays | 648 | * * *
5-digit containers or trays | 648 | * * *
3-digit containers or trays | 661 | * * *
SCF containers or trays | 667 | * * *
ADC containers or trays | 668 | * * *
mixed ADC containers or trays | 669 | * * *
Carrier Route BPM—Irregular Parcels:
carrier route containers, trays & sacks | 697 | * * *
5-digit carrier routes containers, trays & sacks | 698 | * * *
5-digit scheme carrier routes containers, trays & sacks | 698 | * * *
Presorted BPM—Irregular Parcels:
5-digit containers, trays & sacks | 690 | * * *
5-digit scheme containers, trays & sacks | 690 | * * *
3-digit containers or trays | 691 | * * *
SCF containers or trays | 696 | * * *
ADC containers or trays | 692 | * * *
Mixed ADC containers or trays | 694 | * * *
Carrier Route BPM—Machinable Parcels:
carrier route containers, trays & sacks | 687 | * * *
Presorted BPM—Machinable Parcels:
5-digit containers, trays & sacks | 680 | * * *
5-digit scheme containers, trays & sacks | 680 | * * *
ASF containers or trays | 682 | * * *
NDC containers or trays | 683 | * * *
mixed NDC containers or trays | 684 | * * *
Media Mail and Library Mail Flats—Presorted:
5-digit containers or trays | 649 | * * *
3-digit containers or trays | 650 | * * *
ADC containers or trays | 651 | * * *
mixed ADC containers or trays | 653 | * * *
Media Mail and Library Mail Irregular Parcels—Presorted:
5-digit scheme containers, trays & sacks | 690 | * * *
5-digit containers, trays & sacks | 690 | * * *
3-digit containers or trays | 691 | * * *
ADC containers or trays | 692 | * * *
mixed ADC containers or trays | 694 | * * *
Media Mail and Library Mail Machinable Parcels—Presorted:
5-digit scheme containers, trays & sacks | 680 | * * *
5-digit containers, trays & sacks | 680 | * * *
3-digit containers or trays | 682 | * * *
ADC containers or trays | 683 | * * *
mixed ADC containers or trays | 684 | * * *
Parcel Select Machinable Parcels:
5-digit containers, trays & sacks | 680 | * * *
5-digit scheme containers, trays & sacks | 680 | * * *
ASF containers or trays | 682 | * * *
NDC containers or trays | 683 | * * *
mixed NDC containers or trays | 684 | * * *
Parcel Select DSCF and DDU Prices:
5-digit containers, trays & sacks | 688 | * * *
5-digit scheme containers, trays & sacks | 688 | * * *
Parcel Select—Irregular (Nonmachinable) Parcels:
3-digit containers or trays | 691 | * * *
Combined Package Services, Parcel Select, and Standard Machinable Parcels:
5-digit containers, trays & sacks | 688 | * * *
5-digit scheme containers, trays & sacks | 688 | * * *
Combined Package Services, Parcel Select, and Standard Machinable Parcels:
5-digit containers, trays & sacks | 660 | * * *
5-digit scheme containers, trays & sacks | 660 | * * *
ASF containers or trays | 662 | * * *
NDC containers or trays | 663 | * * *
mixed NDC containers or trays | 664 | * * *
Combined Package Services, Parcel Select, and Standard—All Parcels and Not Flat-Machinable pieces:
5-digit containers, trays & sacks | 603 | * * *
5-digit scheme containers, trays & sacks | 603 | * * *
[Revise section title as follows:]
Combined Package Services, Parcel, and Standard—Irregular Parcels 2 up to 6 oz (APPS-machinable):
3-digit containers or trays | 501 | * * *
ADC containers or trays | 502 | * * *
mixed ADC containers or trays | 506 | * * *
[Revise section title as follows:]
Combined PSVC & STD—Irregular Parcels less than 2 oz, and tubes and rolls (not APPS-machinable):
3-digit containers or trays | 591 | * * *
ADC containers or trays | 592 | * * *
Mixed ADC containers or trays | 594 | * * *

[Revise Exhibit 6.2.4 footnote #1 as follows:]

1. This information must be followed by a one-letter carrier route type description, followed by a 3-digit route number for the route to which the container, tray or sack is destined. At the mailer's option, one space is permitted between the type description and route number.

* * * * *

6.2.5 Line 3 (Origin Line)

[Revise the first sentence of 6.2.5 as follows:]

The origin line must appear below the content line in a location appropriate for a tray, approved alternative container, or sack as shown in Exhibit 6.2.2a. * * *

* * * * *

[Revise title of 6.3 as follows:]

6.3 Additional Standards—Barcoded Tray Labels

6.3.1 Paper Stock, Size, and Color

[Revise the introductory sentence of 6.3.1 as follows:]

Barcoded tray labels must meet these specifications:

* * * * *

6.3.3 Barcode

The label barcode must meet these specifications:

* * * * *

b. Information. The barcode must represent three numeric elements:

* * * * *

[Revise the first sentence of item b3 and delete the second sentence in its entirety to remove reference to optional placement of processing codes on sack labels as follows:]

3. A 2-digit USPS processing code on all tray labels. * * *

* * * * *

[Delete items 6.4 through 6.4.3 in their entirety to remove reference to use of 1-inch sack labels and renumber current 6.5 and 6.6 as new 6.4 and 6.5 as follows]

6.4 Intelligent Mail Tray Labels

6.4.1 Definition

[Revise the first three sentences of 6.4.1 as follows:]

Intelligent Mail tray labels are 2-inch labels used on trays and approved alternate containers to provide unique identification within postal processing. 24-digit Intelligent Mail tray labels include only a 24 digit barcode printed in International Symbology Specification (ISS) Code 128 subset C symbology (see Exhibit 6.4.3). To facilitate the transition from 10-digit tray labels to 24-digit barcoded Intelligent Mail tray labels, an optional transitional label is also available. * * *

* * * * *

6.4.2 Transitional Intelligent Mail Tray Label Format

The general format for Intelligent Mail tray labels are as follows:

* * * * *

[Revise 6.4.2b as follows:]

b. Tray or alternate container presort destination (postal destination name).

* * * * *

6.4.3 24-Digit Intelligent Mail Tray Label

[Revise the first sentence of 6.4.3 as follows:]

Intelligent Mail tray labels, printed in the 24-digit format, can be used on all trays and approved alternative containers to uniquely identify each tray or alternate container in addition to each mailer or mail preparer. * * *

* * * * *

6.4.4 Intelligent Mail Tray Label Format

The core data elements for the Intelligent Mail tray label are as follows:

* * * * *

[Revise 6.4.4b as follows:]

b. Tray or alternate container presort destination (postal destination name).

* * * * *

6.4.6 Unique Serial Number

[Revise 6.4.6 as follows:]

The Intelligent Mail tray barcode can encode a unique identifier for each tray or alternate container.

* * * * *

Indexes and Appendices

* * * * *

Labeling Lists

L000 General Use

L001 5-Digit Scheme—Periodicals, Standard Mail, and Package Services Flats and Irregular Parcels

[Revise the introductory paragraph of L001 as follows:]

L001 describes the 5-digit scheme sort list for pallets, flat trays or approved alternate containers of Periodicals, Standard Mail, and Package Services flats and irregular parcels destined for multiple 5-digit ZIP Codes served by a single delivery unit. When the 5-digit scheme sort is used, mail for the 5-digit ZIP Codes shown in Column A must be combined on pallets or in trays (or alternate containers) as follows:

* * * * *

[Revise item c of L001 as follows:]

c. Merged 5-digit scheme or 5-digit scheme carrier routes trays or alternate containers labeled to the corresponding destination shown in Column B.

* * * * *

L002 3-Digit ZIP Code Prefix Matrix

L002 lists every 3-digit Zip Code prefix for mail destined to 3-digit, 3-digit scheme, and sectional center facility (SCF) destinations as follows:

* * * * *

[Revise items a through c of L002 as follows:]

a. 3-Digit ZIP Code Prefix: Use this column to find a 3-digit ZIP Code prefix. Those prefixes indicated by an N have been designated as 3-digit ZIP Codes for which the preparation of a 3-digit flat tray or approved alternate container is optional, and for which the preparation of the optional 3-digit pallet is prohibited.

b. Column A, 3-Digit Destinations: Use this information for Line 1 on 3-digit pallet or container placards (subject to the standards for the rate claimed). Unique 3-digit cities are indicated by a U.

c. Column B, 3-Digit/Scheme Destinations: Use this information for Line 1 on 3-digit or 3-digit scheme pallet or container placards (subject to the standards for the price claimed). Line 2 of pallet or container placards for destinations indicated by an S must include either “SCHEME” or the specific information shown (3-digit groups by scheme group, where applicable, are shown in L003).

* * * * *

L009 Mixed ADCs—Periodicals, Package Services Flats and Irregular Parcels and Standard Mail Flats

[Revise the introductory sentence of L009 as follows:]

Mailers must use L009 to label mixed ADC bundles, flat trays or approved alternate containers of Periodicals, Standard Mail, Bound Printed Matter, Media Mail, and Library Mail flats. Mailers also must use L009 to label mixed ADC bundles, trays or alternate containers of Periodicals irregular parcels and Bound Printer Matter irregular parcels.

* * * * *

L010 NDC/ASF Entry—Standard Mail Letters and Package Services Irregular Parcels

[Revise the last sentence of the first paragraph in the preamble and the entire second paragraph as follows:]

* * * L010 indicates the label destination (Column B) for mixed flat trays or approved alternate containers of Package Services irregular parcels placed on ASF or NDC pallets.

Use L009 when labeling mixed ADC bundles, trays or alternate containers of automation price Periodicals and Standard Mail flats and barcoded Bound Printed Matter flats.

* * * * *

L011 Non-NDC/ASF Entry—Periodicals and Standard Mail Letters

* * * * *

[Revise the second paragraph of the preamble of L011 as follows:]

Use L009 when labeling mixed ADC bundles, flat trays or approved alternate containers and sacks of automation price Periodicals and Standard Mail flats and barcoded Bound Printed Matter flats.

* * * * *

L200 Periodicals and First-Class Mail

L201 Periodicals Origin Split and First-Class Mail Mixed ADC/AADC

[Revise the introductory paragraph of L201as follows:]

L201 describes the First-Class Mail surface transportation reach of an origin facility for use in preparing bundles, flat trays or approved alternate containers of Periodicals mail (including Periodicals labeled “news”) and in preparation of First-Class Mail mixed pallets or similar containers.

For Periodicals addressed to destinations within the First-Class Mail surface reach of the origin facility, mailers must use L201 to prepare mixed origin ADC bundles, trays or alternate containers to enable integration of this volume into the First-Class Mail mailstream. Label bundles, trays or alternate containers of mail originating in the 3-digit entry ZIP Code in Column A for delivery to 3-digit ZIP Code destinations listed in Column B using the corresponding city, state, and ZIP Code information in Column C. Use L009 for the preparation of mixed ADC bundles, trays or alternate containers for any remaining pieces addressed to 3-digit ZIP Code destinations not listed in Column B.

For First-Class Mail letters, flats, and parcels originating in the 3-digit entry ZIP Code in Column A, label trays or alternate containers to the corresponding destination in Column C. Use “MXD” instead of “OMX.” Ignore Column B.

* * * * *

L600 Standard Mail and Package Services

L601 Network Distribution Centers (NDCs)

L601 describes the service area by individual 3-digit ZIP Code prefix for sorting mail to NDC destinations. Use this list for:

* * * * *

[Revise item b of the introductory paragraph of L601 as follows:]

b. Standard Mail bundles, letter trays, flat trays or approved alternate containers on pallets.

* * * * *

[Revise item d of the introductory paragraph of L601 as follows:]

d. Bound Printed Matter bundles, flat trays or alternate containers on pallets.

* * * * *

[Revise item f of the introductory paragraph of L601 as follows:]

f. Presorted Media Mail and Presorted Library Mail to NDC destinations. For labeling mixed NDC flat trays, alternate containers and pallets, mailers must add “MXD” before the Column B information of the NDC serving the 3-digit ZIP Code prefix of the Post Office at which the mail is entered.

* * * * *

L602 ASFs

L602 describes the service area by individual 3-digit ZIP Code prefix for Standard Mail and Package Services mail that must be sorted to ASFs. Use this list for:

* * * * *

[Revise item b of the introductory paragraph of L602 as follows:]

b. Standard Mail bundles, letter trays, flat trays or approved alternate containers on pallets.

* * * * *

[Revise item d of the introductory paragraph of L602 as follows:]

d. Bound Printed Matter bundles, flat trays or alternate containers on pallets.

* * * * *

L606 5-Digit Scheme—Standard Mail, First-Class Mail, and Package Services Parcels

* * * * *

[Revise the last sentence of the second paragraph in the preamble of L606 as follows:]

* * * When used, all parcels for the 5-digit ZIP Codes shown in Column A must be combined in a 5-digit scheme sack(s), flat tray(s), approved alternate container(s), or on a 5-digit scheme pallet(s) labeled to the corresponding destination shown in Column B.

* * * * *

We will publish an appropriate amendment to 39 CFR part 111 to reflect these changes if our proposal is adopted.

Stanley F. Mires,
Chief Counsel, Legislative.

[FR Doc. 2011-5273 Filed 3-11-11; 8:45 am]

BILLING CODE 7710-12-P